DEPARTMENT OF COMMERCE

National Oceanic and Atmospheric Administration

50 CFR Part 660

[Docket No. 031216315-3315-01; I.D. 112803A]

RIN 0648-AR68

Magnuson-Stevens Act Provisions; Fisheries Off West Coast States and in the Western Pacific; Pacific Coast Groundfish Fishery; Groundfish Fishery Management Measures

AGENCY: National Marine Fisheries Service (NMFS), National Oceanic and Atmospheric Administration (NOAA), Commerce.

ACTION: Emergency rule; groundfish fishery management measures for January through February 2004; request for comments.

SUMMARY: NMFS announces the January through February 2004 management measures for groundfish taken in the U.S. exclusive economic zone (EEZ) off the coasts of Washington, Oregon, and California. Management measures for January through February 2004 are intended to prevent overfishing; Rebuild overfished species; minimize incidental catch and discard of overfished and depleted stocks; provide equitable harvest opportunity for both recreational and commercial sectors; and, within the commercial fisheries, allow achievement of harvest guidelines and limited entry and open access allocations to the extent practicable. Elsewhere in this separate part of the Federal Register, NOAA is proposing to make the amendments to 50 CFR 660 effective indefinitely.

DATES: The groundfish management measures and the amendments to 50 CFR 660 are effective January 1, 2004 through February 29, 2004. Comments must be received no later than 5 p.m, local time (l.t.) on February 9, 2004.

ADDRESSES: Send comments to D. Robert Lohn, Administrator, Northwest Region (Regional Administrator), NMFS, 7600 Sand Point Way NE., Bldg. 1, Seattle, WA 98115-0070, or fax to 206-526-6736, care of Yvonne deReynier. Comments will not be accepted if submitted via e-mail or Internet. Information relevant to this rule, which includes environmental assessment/regulatory impact review/initial regulatory flexibility analysis (EA/RIR/IRFA), is available for public review during business hours at the office of the Pacific Fishery Management Council (Council), at 7700 NE Ambassador Place, Portland, OR 97220, phone: 503-820-2280. Additional reports referred to in this document may also be obtained from the Council.

FOR FURTHER INFORMATION CONTACT: Yvonne deReynier or Becky Renko (Northwest Region, NMFS), phone: 206-526-6140; fax: 206-526-6736 and; e-mail: yvonne.dereynier@noaa.gov, becky.renko@noaa.gov or Svein Fougner (Southwest Region, NMFS) phone: 562-980-4000; fax: 562-980-4047 and; e-mail: svein.fougner@noaa.gov.

SUPPLEMENTARY INFORMATION:

Electronic Access

This emergency rule is also accessible via the Internet at the Office of the Federal Register's Web site at http://www.gpoaccess.gov/fr/index.html. Background information and documents are available at the NMFS Northwest Region Web site at http://www.nwr.noaa.gov/1sustfsh/gdfsh01.htm and at the Council's Web site at http://www.pcouncil.org.

Background

The Pacific Coast groundfish fishery management plan (FMP) requires that fishery specifications for groundfish be annually evaluated, and revised as necessary, that optimum yields (OYs) be specified for species or species groups in need of particular protection, and that management measures designed to achieve the OYs be published in the Federal Register and made effective by January 1, the beginning of the fishing year. The Magnuson-Stevens Fishery Conservation and Management Act (Magnuson-Stevens Act) and the FMP require that NMFS implement actions to prevent overfishing and to rebuild overfished stocks.

Since 1990, the Pacific Coast Groundfish FMP has required that fishery specifications for groundfish be annually evaluated and revised as necessary, that OYs be specified for species or species groups in need of particular protection, and that management measures designed to achieve the OYs be published in the Federal Register and made effective by January 1, the beginning of the fishing year. Each year, specifications and management measures have been made effective until the specifications and management measures for the following year were published and effective.

During 2002 and 2003, the Council developed and considered revisions to its specifications and management measures process through Amendment 17 to the FMP. Amendment 17 was implemented via final rule on September 4, 2003 (68 FR 52519). Through Amendment 17, the FMP now sets the specifications and management measures as a biennial process, with the first 2-year management period to occur January 1, 2005 through December 31, 2006. The Council will develop and consider specifications and management measures for the 2005-2006 period at its November 2003, April 2004, and June 2004 meetings. The Council will decide on the 2005-2006 specifications and management measures in June 2004, and NMFS will then vet the 2005-2006 specifications and management measures through a public notice-and-comment process before the fishing year begins on January 1, 2005. This process will include a proposed rule published in the Federal Register, followed by a public comment period and a final rule, also published in the Federal Register.

For 2004, the final year in which the agency will follow the FMP's old schedule of an annual management process, NMFS will follow an implementation process similar to those it used in 2002 and 2003. The Council finalized its specifications and management measures recommendations for the 2004 fishing year at its September 8-12, 2003, meeting in Seattle, WA. Council staff has analyzed these recommendations via an Environmental Impact Statement (EIS), a draft of which was made available for public review on October 24, 2003 (68 FR 60983). Given the complexity of the annual specifications and management measures and the need for EIS-related public review periods, NMFS did not have enough time to publish a proposed rule, receive public comments, and implement a final rule by January 1, 2004. Thus, NMFS is publishing this emergency rule under the Magnuson-Stevens Act emergency authority at section 305(c). This emergency rule establishes the groundfish management measures for January 1 through February 29, 2004.

Unless new management measures are in place by January 1, 2004, management measures for January and February 2004 would revert to those that were in place for January-February 2003. For some species, January-February 2004 management measures are more conservative than January-February 2003 management measures, while for others the January-February 2004 measures are less restrictive. The 2004 management measures were crafted to ensure that the groundfish fisheries can achieve but not exceed the 2004 acceptable biological catch and OYs. Allowing the January-February 2003 management measures to be in place during January-February 2004 could jeopardize managers' ability to keep landings within rebuilding targets for some species.

Specifications and management measures proposed for March-December 2004 in the Proposed Rules section of this issue of the Federal Register combined with this emergency rule are intended to protect overfished groundfish species while allowing harvesters some access to healthy groundfish stocks. Specifications and management measures proposed for 2004 in the Proposed Rule section of this issue of the Federal Register are designed to rebuild overfished stocks through constraining direct and incidental mortality and areas of fishing operation to prevent overfishing, and to achieve as much of the OYs as practicable for healthier groundfish stocks managed under the FMP. That proposed rule describes the rationale for the 2004 groundfish management measures, which include trip, bag and size limits, time/area closures, and gear- and area-specific regulations, including the management measures implemented in this emergency rule.

IV. NMFS Actions

For the reasons stated above, the Assistant Administrator for Fisheries, (AA), NMFS, concurs with the Council's recommendations and announces the following management actions for January 1 through February 29, 2004.

A. General Definitions and Provisions

The following definitions and provisions apply to the 2004 management measures, unless otherwise specified in a subsequent Federal Register document:

(1) Trip limits. Trip limits are used in the commercial fishery to specify the maximum amount of a fish species or species group that may legally be taken and retained, possessed, or landed, per vessel, per fishing trip, or cumulatively per unit of time, or the number of landings that may be made from a vessel in a given period of time, as follows:

(a) A per trip limit is the total allowable amount of a groundfish species or species group, by weight, or by percentage of weight of legal fish on board, that may be taken and retained, possessed, or landed per vessel from a single fishing trip.

(b) A daily trip limit is the maximum amount of a groundfish species or species group that may be taken and retained, possessed, or landed per vessel in 24 consecutive hours, starting at 0001 hours l.t. Only one landing of groundfish may be made in that 24-hour period. Daily trip limits may not be accumulated during multiple day trips.

(c) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount of a groundfish species or species group that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 29, March 1-April 30, May 1-June 30, July 1-August 31, September 1-October 31, and, November 1-December 31.

(ii) One month means the first day through the last day of the calendar month.

(iii) One week means 7 consecutive days, Sunday through Saturday.

(e) As stated at 50 CFR 660.302 (in the definition of “landing”), once the offloading of any species begins, all fish aboard the vessel are counted as part of the landing and must be reported as such.

(f) The cumulative trip limits in Section IV.B. and C., including Tables 3-5 of this emergency rule, must not be exceeded.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “landing”), once the offloading of any species begins, all fish aboard the vessel are counted as part of the landing. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits, length measurement, and weight limits.

(a) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the State where the fish will be landed.

(i) Whole fish. For a whole fish, total length is measured from the tip of the snout (mouth closed) to the tip of the tail in a natural, relaxed position.

(ii) “Headed” fish. For a fish with the head removed (“headed”), the length is measured from the origin of the first dorsal fin (where the front dorsal fin meets the dorsal surface of the body closest to the head) to the tip of the upper lobe of the tail; the dorsal fin and tail must be left intact.

(iv) Filets. A filet is the flesh from one side of a fish extending from the head to the tail, which has been removed from the body (head, tail, and backbone) in a single continuous piece. Filet lengths may be subject to size limits for some groundfish taken in the recreational fishery off California (see paragraph IV. D.). A filet is measured along the length of the longest part of the filet in a relaxed position; stretching or otherwise manipulating the filet to increase its length is not permitted.

(b) Weight limits and conversions. The weight limit conversion factor established by the state where the fish is or will be landed will be used to convert the processed weight to round weight for purposes of applying the trip limit. Weight conversions provided herein are those conversions currently in use by the states of Washington, Oregon and California and may be subject to change by those states. Fishery participants should contact fishery enforcement officials in the state where the fish will be landed to determine that state's official conversion factor. To determine the round weight, multiply the processed weight times the conversion factor.

(c) Sablefish. The following conversion applies to both the limited entry and open access fisheries when trip limits are in effect for those fisheries. For headed and gutted (eviscerated) sablefish the weight conversion factor is 1.6 for headed and gutted sablefish.

(d) Lingcod. The following conversions apply in both limited entry and open access fisheries.

(i) For lingcod with the head removed, the minimum size limit is 19.5 inches (49.5 cm), which corresponds to 24 inches (61 cm) total length for whole fish.

(ii) The weight conversion factor for headed and gutted lingcod is 1.5. The conversion factor for lingcod that has only been gutted with the head on is 1.1.

(7) Closure. “Closure,” when referring to closure of a fishery, means that taking and retaining, possessing, or landing the particular species or species group is prohibited. (See 50 CFR 660.302.) Unless otherwise announced in the Federal Register, offloading must begin before the time the fishery closes. The provisions at paragraph IV.A.(2) for fishing ahead do not apply during a closed period. It is unlawful to transit through a closed area with any prohibited species on board, no matter where that species was caught, except as provided for in the CCA at IV. A.(17)(b).

(8) Fishery management area. As defined at 50 CFR 660.302, the fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting, see 50 CFR 660.323(b). Council meetings in 2004 will be held in the months of March, April, June, September, and November. Inseason changes to routine management measures are announced in the Federal Register. Information concerning changes to routine management measures is available from the NMFS Northwest Regional Office (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit may not be exceeded and counts toward the limited entry limit. If a vessel has a limited entry permit and uses open access gear, but the open access limit is larger than the limited entry limit, the smaller limited entry limit applies, even if taken entirely with open access gear.

(12) Operating in north-south management areas with different trip limits. NMFS uses different types of management areas for West Coast groundfish management. One type of management area is the north-south management area, a large ocean area with northern and southern boundary lines wherein trip limits, seasons, and conservation areas follow a single theme. For example, in the area between the U.S. border with Canada and the 40°10′ N. lat. line, trip limits and conservation areas are generally intended to protect darkblotched and yelloweye rockfish while providing harvesting opportunities for northern flatfish and deepwater species. Within each north-south management area, there may be one or more conservation areas, detailed at IV.A.(17) and at 50 CFR 660.304. The provisions within this paragraph IV.A.(12) apply to vessels operating in different north-south management areas. Trip limits for a species or a species group may differ in different north-south management areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2004, the cumulative trip limit periods for the limited entry and open access fisheries are specified in paragraph IV.A(1)(d), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10 N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. [Note: A vessel that takes and retains minor slope rockfish on both sides of the management line in a single cumulative limit period is subject to the more restrictive cumulative limit for minor slope rockfish during that period.]

(ii) If a vessel takes and retains minor slope rockfish south of 38° N. lat., that vessel is also permitted to take and retain, possess or land Pacific ocean perch (POP) up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups. [Note: A vessel that takes and retains minor shelf rockfish on both sides of the management line in a single cumulative limit period is subject to the more restrictive cumulative limit for minor shelf rockfish during that period.]

(ii) If a vessel takes and retains minor slope rockfish south of 38° N. lat., that vessel is also permitted to take and retain, possess or land Pacific ocean perch (POP) up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups. [Note: A vessel that takes and retains minor shelf rockfish on both sides of the management line in a single cumulative limit period is subject to the more restrictive cumulative limit for minor shelf rockfish during that period.]

(e) “DTS complex.” There are differential trawl trip limits for the “DTS complex” (Dover sole, shortspine thornyhead, longspine thornyhead, sablefish) north and south of the management line at 40°10′ N. lat. Vessels operating in the limited entry trawl fishery are subject to the crossover provisions in this paragraph IV.A.(12) when making landings that include any one of the four species in the “DTS complex.”

(f) Flatfish complex. There are differential trip limits for the flatfish complex (butter, curlfin, English, flathead, petrale, rex, rock, and sand soles, Pacific sanddab, and starry flounder) north and south of the management line at 40°10′ N. lat. Vessels operating in the limited entry trawl fishery are subject to the crossover provisions in this paragraph IV.A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial OY, or quota applied.” The States of Washington, Oregon, and California may also require that vessels record their landings as sorted on their state fish tickets. This provision applies to both the limited entry and open access fisheries. (See 50 CFR 660.306(h).) The following species must be sorted in 2004:

(a) For vessels with a limited entry permit:

(i) Coastwide—widow rockfish, canary rockfish, darkblotched rockfish, yelloweye rockfish, shortbelly rockfish, black rockfish, minor nearshore rockfish, minor shelf rockfish, minor slope rockfish, shortspine and longspine thornyhead, Dover sole, arrowtooth flounder, rex sole, petrale sole, arrowtooth flounder, other flatfish, lingcod, sablefish, and Pacific whiting [Note: Although black rockfish, yelloweye rockfish, and darkblotched rockfish are considered minor rockfish managed under the minor shelf and minor slope rockfish complexes, respectively, they have separate OYs and therefore must be sorted by species.]

(ii) North of 40°10′ N. lat.—POP, yellowtail rockfish, and, for fixed gear, blue rockfish;

(iii) South of 40°10′ N. lat.—minor shallow nearshore rockfish, minor deeper nearshore rockfish, California scorpionfish, chilipepper rockfish, bocaccio rockfish, splitnose rockfish, and Pacific sanddabs.

(b) For open access vessels (vessels without a limited entry permit):

(i) Coastwide—widow rockfish, canary rockfish, darkblotched rockfish, yelloweye rockfish, black rockfish, minor nearshore rockfish, minor shelf rockfish, minor slope rockfish, Dover sole, arrowtooth flounder, petrale sole, rex sole, other flatfish, lingcod, sablefish, Pacific whiting, and Pacific sanddabs;

(ii) North of 40°10′ N. lat.—blue rockfish, POP, yellowtail rockfish;

(iii) South of 40°10′ N. lat.—minor shallow nearshore rockfish, minor deeper nearshore rockfish, chilipepper rockfish, bocaccio rockfish, splitnose rockfish;

(iv) South of Point Conception, CA—thornyheads.

(14) Trawl gear restrictions. Limited entry trip limits may vary depending on the type of trawl gear that is on board a vessel during a fishing trip: Large footrope, small footrope, or midwater trawl gear.

(a) Types of trawl gear—Large footrope, small footrope, and midwater or pelagic trawl gears are defined at 50 CFR 660.302 and 660.322(b). Trawl vessels may include: Those vessels registered to a limited entry permit with a trawl endorsement; any vessel using trawl gear, including exempted trawl gear used to take pink shrimp, ridgeback prawns, California halibut, or sea cucumber; or any tribal vessel using trawl gear.

(b) Cumulative trip limits and prohibitions by limited entry trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the RCAs defined at paragraph IV.A.(17) of this section. The presence of rollers or bobbins larger than 8 inches (20 cm) in diameter on board the vessel, even if not attached to a trawl, will be considered to mean a large footrope trawl is on board.

(ii) Small footrope or midwater trawl gear. Cumulative trip limits for canary rockfish, widow rockfish (South of 40°10′ N. lat.,) yellowtail rockfish (North of 40°10′ N. lat.,) minor shelf rockfish (North of 40°10′ N. lat.,) minor nearshore rockfish, and lingcod, as indicated in Table 3 to section IV., are allowed only if small footrope gear or midwater trawl gear is used, and if that gear meets the specifications in paragraph IV.A.(14) and at 50 CFR 660.322. For Dover sole, longspine thornyhead, shortspine thornyhead, flatfish complex species including petrale sole, rex sole, or arrowtooth flounder there are or may be cumulative trip limits that are more restrictive for vessels using small footrope gear than for large footrope gear or midwater gear. These more restrictive limits recognize that small footrope gear may be used inshore of the RCAs and are intended to limit trawl effort in the nearshore area. Where limits are more restrictive for small footrope gear, those limits apply to and constrain any vessel using small footrope gear at any time during the cumulative limit period to which the landings limits apply.

(iii) Midwater trawl gear. North of 40°10′ N. lat., higher yellowtail and widow rockfish cumulative trip limits are available for limited entry vessels using midwater trawl gear in November-December. For the first part of the year, yellowtail and widow rockfish are only available to trawl vessels using midwater trawl gear when those vessels are fishing for Pacific whiting during the primary whiting season. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board. The cumulative trip limits in Table 3 must not be exceeded. A vessel may have more than one type of limited entry bottom trawl gear on board, but the most restrictive trip limit associated with the gear on board applies for that trip and will count toward the cumulative trip limit for that gear. [Example: If a vessel has large footrope gear on board, it cannot land yellowtail rockfish, even if the yellowtail rockfish is caught with a small footrope trawl.] A vessel that is trawling within a Groundfish Conservation Area with trawl gear authorized for use within a Groundfish Conservation Area may not have any other type of trawl gear on board.

(c) State landing receipts. Washington, Oregon, and California will require the type of trawl gear on board to be recorded on the state landing receipt(s) for each trip or on an attachment to the state landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Permit transfers. Limited entry permit transfers are to take effect no earlier than the first day of a major cumulative limit period following the day NMFS receives the transfer form and original permit (50 CFR 660.335(e)(3)). Those days in 2004 are January 1, March 1, May 1, July 1, September 1, and November 1.

(16) Exempted fisheries. U.S. vessels operating under an exempted fishing permit (EFP) issued under 50 CFR part 600 are also subject to these restrictions, unless otherwise provided in the permit. EFPs may include the collecting of scientific samples of groundfish species that would otherwise be prohibited for retention.

(17) Groundfish Conservation Areas. Groundfish conservation area (GCA) means a geographic area defined by coordinates expressed in degrees of latitude and longitude, created and enforced for the purpose of contributing to the rebuilding of overfished West Coast groundfish species. The Yelloweye Rockfish Conservation Area (YRCA), the Cowcod Conservation Areas (CCAs), and the depth-based Rockfish Conservation Areas (RCAs) are all Groundfish Conservation Areas.

(a) Yelloweye Rockfish Conservation Area. The YRCA is a C-shaped area off the northern Washington coast intended to protect yelloweye rockfish. The specific latitude and longitude coordinates of the YRCA are defined at § 660.304(d). Recreational fishing for groundfish is prohibited within the YRCA. It is unlawful for recreational fishing vessels to take, retain, possess, or land groundfish within the YRCA.

(b) Cowcod Conservation Areas. The CCAs are two areas off the southern California coast intended to protect cowcod. The specific latitude and longitude coordinates of the Cowcod Conservation Areas (CCAs) are defined at § 660.304(c). Recreational and commercial fishing for groundfish is prohibited within the CCAs, except that recreational and commercial fishing for rockfish and lingcod is permitted in waters shoreward of the 20 fm (37 m) depth contour. It is unlawful to take and retain, possess, or land groundfish within the CCAs, except for rockfish and lingcod taken in waters shoreward of the 20-fm (37-m) depth contour, when those waters are open to fishing. Commercial fishing vessels may transit through the Western CCA with their gear stowed and groundfish on board only in a corridor through the Western CCA bounded on the north by the latitude line at 33°00′30″ N. lat., and bounded on the south by the latitude line at 32°59′30″ N. lat.

(c) Trawl (Limited Entry and Open Access Exempted Trawl Gears) Rockfish Conservation Area.

(i) Trawl RCAs are intended to protect a complex of species, such as overfished shelf rockfish species, and have boundaries defined by specific latitude and longitude coordinates intended to approximate particular depth contours, such as 75 fm (137 m), 150 fm (274 m), and 200 fm (366 m). The trawl RCA is closed coastwide to limited entry groundfish trawl fishing, except for mid-water trawl vessels participating in the primary whiting season. The trawl RCA is also closed coastwide to open access exempted trawl fishing, except for pink shrimp trawling. Fishing with any trawl gear is prohibited within the trawl RCA coastwide, unless that vessel is participating in the primary whiting season with midwater trawl gear, trawling with mid-water gear for yellowtail or widow rockfish when that is permitted, or trawling for pink shrimp. Coastwide, it is unlawful to take and retain, possess, or land any species of fish taken with trawl gear within the trawl RCA, except as permitted for vessels participating in the primary whiting season with midwater trawl gear or for vessels participating in the pink shrimp trawl fishery. Throughout the year, boundaries for the trawl RCA are provided in Table 3 of Section IV.B. and in Table 5 of Section IV.C. and may be modified by NMFS inseason. Trawl RCA boundaries are defined by specific latitude and longitude coordinates and are provided below at paragraph (e) of this section.

(ii) Trawl vessels may transit through the trawl RCA, with or without groundfish on board, provided all groundfish trawl gear is stowed either: (1) Below deck; or (2) if the gear cannot readily be moved, in a secured and covered manner, detached from all towing lines, so that it is rendered unusable for fishing; or (3) remaining on deck uncovered if the trawl doors are hung from their stanchions and the net is disconnected from the doors. These restrictions do not apply to vessels fishing with mid-water trawl gear for Pacific whiting or taking and retaining yellowtail rockfish or widow rockfish in association with Pacific whiting caught with mid-water trawl gear or to taking and retaining yellowtail or widow rockfish with mid-water trawl gear when trip limits are authorized for those species (November-December 2004.)

(iii) If a vessel fishes in the trawl RCA, it may not participate in any fishing on that trip that is prohibited by the restrictions that apply within the trawl RCA. For example, if a vessel participates in the pink shrimp fishery within the RCA, the vessel cannot on the same trip participate in the DTS fishery outside of the RCA. Nothing in these Federal regulations supercede any State regulations that may prohibit trawling shoreward of the 3 nm State waters boundary line.

(d) Non-Trawl (Limited Entry Fixed Gear and Open Access Non-trawl Gears) Rockfish Conservation Area.

(i) Non-trawl RCAs are intended to protect a complex of species, such as overfished shelf rockfish species, and have boundaries defined by specific latitude and longitude coordinates intended to approximate particular depth contours, such as 27 fm (49 m), 100 fm (183 m), and 150 fm (274 m). The non-trawl RCA is closed to non-trawl gear (limited entry or open access longline and pot or trap, open access hook-and-line, pot or trap, gillnet, set net, trammel net and spear) fishing for groundfish. Fishing for groundfish with non-trawl gear is prohibited within the non-trawl RCA. It is unlawful to take and retain, possess, or land groundfish taken with non-trawl gear within the non-trawl RCA. Limited entry fixed gear and open access non-trawl gear vessels may transit through the non-trawl RCA, with or without groundfish on board. These restrictions do not apply to vessels fishing for species other than groundfish with non-trawl gear. If a vessel fishes in the non-trawl RCA, it may not participate in any fishing on that trip that is prohibited by the restrictions that apply within the non-trawl RCA. For example, if a vessel participates in the salmon troll fishery within the RCA, the vessel cannot on the same trip participate in the sablefish fishery outside of the RCA. Throughout the year, boundaries for the non-trawl RCA are provided in Table 4 of Section IV.B. and in Table 5 of Section IV.C. and may be modified by NMFS inseason. Non-trawl RCA boundaries are defined by specific latitude and longitude coordinates and are provided below at paragraph (e) of this section.

(e) Recreational Rockfish Conservation Area.

(i) Recreational RCAs are closed areas intended to protect overfished rockfish species. Recreational RCAs may either have (1) boundaries defined by general depth contours or (2) boundaries defined by specific latitude and longitude coordinates intended to approximate particular depth contours. The recreational RCA is closed to recreational fishing for groundfish. Fishing for groundfish with recreational gear is prohibited within the recreational RCA. It is unlawful to take and retain, possess, or land groundfish taken with recreational gear within the recreational RCA. These restrictions do not apply to recreational vessels fishing for species other than groundfish with recreational gear. If a vessel fishes in the recreational RCA, it may not participate in any fishing on that trip that is prohibited by the restrictions that apply within the recreational RCA. For example, if a vessel participates in the recreational salmon fishery within the RCA, the vessel cannot on the same trip participate in the recreational groundfish fishery shoreward of the RCA. Throughout the year, boundaries for the recreational RCAs are provided in the text in section IV.D. under each state (Washington, Oregon and California) and may be modified by NMFS inseason. Recreational RCA boundaries that are defined by specific latitude and longitude coordinates are provided below at paragraph (f) of this section.

(f) RCA Boundary Coordinates. Specific latitude and longitude coordinates for RCA boundaries that approximate the depth contours selected for both trawl, non-trawl, and recreational RCAs are provided here. Also provided here are references to islands and rocks that serve as reference points for the RCAs.

(i) The 27 fm (49 m) depth contour used between 46°16' N. lat. and 40°10' N. lat. is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.

(ii) The 30 fm (55 m) depth contour between 46°16′ N. lat. and the U.S. border with Mexico is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°43.47′ N. lat., 124°01.28′ W. long.;

(8) 45°40.48′ N. lat., 124°01.03′ W. long.;

(9) 45°39.04′ N. lat., 124°01.68′ W. long.;

(10) 45°35.48′ N. lat., 124°01.89′ W. long.;

(11) 45°29.81′ N. lat., 124°02.45′ W. long.;

(12) 45°27.96′ N. lat., 124°01.89′ W. long.;

(13) 45°27.22′ N. lat., 124°02.67′ W. long.;

(14) 45°24.20′ N. lat., 124°02.94′ W. long.;

(15) 45°20.60′ N. lat., 124°01.74′ W. long.;

(16) 45°16.44′ N. lat., 124°03.22′ W. long.;

(17) 45°13.63′ N. lat., 124°02.70′ W. long.;

(18) 45°11.04′ N. lat., 124°03.59′ W. long.;

(19) 45°08.55′ N. lat., 124°03.47′ W. long.;

(20) 45°02.82′ N. lat., 124°04.64′ W. long.;

(21) 44°58.06′ N. lat., 124°05.03′ W. long.;

(22) 44°53.97′ N. lat., 124°06.92′ W. long.;

(23) 44°48.89′ N. lat., 124°07.04′ W. long.;

(24) 44°46.94′ N. lat., 124°08.25′ W. long.;

(25) 44°42.72′ N. lat., 124°08.98′ W. long.;

(26) 44°38.16′ N. lat., 124°11.48′ W. long.;

(27) 44°33.38′ N. lat., 124°11.54′ W. long.;

(28) 44°28.51′ N. lat., 124°12.03′ W. long.;

(29) 44°27.65′ N. lat., 124°12.56′ W. long.;

(30) 44°19.67′ N. lat., 124°12.37′ W. long.;

(31) 44°10.79′ N. lat., 124°12.22′ W. long.;

(32) 44°09.22′ N. lat., 124°12.28′ W. long.;

(33) 44°00.22′ N. lat., 124°12.80′ W. long.;

(34) 43°51.56′ N. lat., 124°13.17′ W. long.;

(35) 43°44.26′ N. lat., 124°14.50′ W. long.;

(36) 43°33.82′ N. lat., 124°16.28′ W. long.;

(37) 43°28.66′ N. lat., 124°18.72′ W. long.;

(38) 43°23.12′ N. lat., 124°24.04′ W. long.;

(39) 43°20.49′ N. lat., 124°25.90′ W. long.;

(40) 43°16.41′ N. lat., 124°27.52′ W. long.;

(41) 43°14.23′ N. lat., 124°29.28′ W. long.;

(42) 43°14.03′ N. lat., 124°28.31′ W. long.;

(43) 43°11.92′ N. lat., 124°28.26′ W. long.;

(44) 43°11.02′ N. lat., 124°29.11′ W. long.;

(45) 43°10.13′ N. lat., 124°29.15′ W. long.;

(46) 43°09.27′ N. lat., 124°31.03′ W. long.;

(47) 43°07.73′ N. lat., 124°30.92′ W. long.;

(48) 43°05.93′ N. lat., 124°29.64′ W. long.;

(49) 43°01.59′ N. lat., 124°30.64′ W. long.;

(50) 42°59.73′ N. lat., 124°31.16′ W. long.;

(51) 42°53.75′ N. lat., 124°36.09′ W. long.;

(52) 42°49.37′ N. lat., 124°38.81′ W. long.;

(53) 42°46.42′ N. lat., 124°37.69′ W. long.;

(54) 42°46.07′ N. lat., 124°38.56′ W. long.;

(55) 42°45.29′ N. lat., 124°37.95′ W. long.;

(56) 42°45.61′ N. lat., 124°36.87′ W. long.;

(57) 42°44.28′ N. lat., 124°33.64′ W. long.;

(58) 42°42.75′ N. lat., 124°31.84′ W. long.;

(59) 42°40.04′ N. lat., 124°29.19′ W. long.;

(60) 42°38.09′ N. lat., 124°28.39′ W. long.;

(61) 42°36.72′ N. lat., 124°27.54′ W. long.;

(62) 42°36.56′ N. lat., 124°28.40′ W. long.;

(63) 42°35.76′ N. lat., 124°28.79′ W. long.;

(64) 42°34.03′ N. lat., 124°29.98′ W. long.;

(65) 42°34.19′ N. lat., 124°30.58′ W. long.;

(66) 42°31.27′ N. lat., 124°32.24′ W. long.;

(67) 42°27.07′ N. lat., 124°32.53′ W. long.;

(68) 42°24.21′ N. lat., 124°31.23′ W. long.;

(69) 42°20.47′ N. lat., 124°28.87′ W. long.;

(70) 42°14.60′ N. lat., 124°26.80′ W. long.;

(71) 42°10.90′ N. lat., 124°24.57′ W. long.;

(72) 42°07.04′ N. lat., 124°23.35′ W. long.;

(73) 42°02.16′ N. lat., 124°22.59′ W. long.;

(74) 42°00.00′ N. lat., 124°21.81′ W. long.;

(75) 41°59.95′ N. lat., 124°21.56′ W. long.;

(76) 41°55.75′ N. lat., 124°20.72′ W. long.;

(77) 41°50.93′ N. lat., 124°23.76′ W. long.;

(78) 41°42.53′ N. lat., 124°16.47′ W. long.;

(79) 41°37.02′ N. lat., 124°17.05′ W. long.;

(80) 41°24.58′ N. lat., 124°10.51′ W. long.;

(81) 41°20.73′ N. lat., 124°11.73′ W. long.;

(82) 41°17.59′ N. lat., 124°10.66′ W. long.;

(83) 41°04.54′ N. lat., 124°14.47′ W. long.;

(84) 40°54.26′ N. lat., 124°13.09′ W. long.;

(85) 40°40.31′ N. lat., 124°26.24′ W. long.;

(86) 40°34.00′ N. lat., 124°27.39′ W. long.;

(87) 40°28.89′ N. lat., 124°32.43′ W. long.;

(88) 40°24.77′ N. lat., 124°29.51′ W. long.;

(89) 40°22.47′ N. lat., 124°24.12′ W. long.;

(90) 40°19.73′ N. lat., 124°23.59′ W. long.;

(91) 40°18.64′ N. lat., 124°21.89′ W. long.;

(92) 40°17.67′ N. lat., 124°23.07′ W. long.;

(93) 40°15.58′ N. lat., 124°23.61′ W. long.;

(94) 40°13.42′ N. lat., 124°22.94′ W. long.;

(95) 40°10.00′ N. lat., 124°16.65′ W. long.;

(96) 40°09.46′ N. lat., 124°15.28′ W. long.;

(97) 40°08.89′ N. lat., 124°15.24′ W. long.;

(98) 40°06.04′ N. lat., 124°10.97′ W. long.;

(99) 40°06.08′ N. lat., 124°09.34′ W. long.;

(100) 40°06.64′ N. lat., 124°08.00′ W. long.;

(101) 40°05.08′ N. lat., 124°07.57′ W. long.;

(102) 40°04.29′ N. lat., 124°08.12′ W. long.;

(103) 40°00.61′ N. lat., 124°07.35′ W. long.;

(104) 39°58.06′ N. lat., 124°05.51′ W. long.;

(105) 39°54.89′ N. lat., 124°04.67′ W. long.;

(106) 39°53.01′ N. lat., 124°02.33′ W. long.;

(107) 39°53.02′ N. lat., 123°58.18′ W. long.;

(108) 39°48.45′ N. lat., 123°53.21′ W. long.;

(109) 39°43.89′ N. lat., 123°51.75′ W. long.;

(110) 39°39.06′ N. lat., 123°49.14′ W. long.;

(111) 39°34.43′ N. lat., 123°48.48′ W. long.;

(112) 39°30.63′ N. lat., 123°49.71′ W. long.;

(113) 39°21.25′ N. lat., 123°50.54′ W. long.;

(114) 39°08.87′ N. lat., 123°46.24′ W. long.;

(115) 39°03.79′ N. lat., 123°43.91′ W. long.;

(116) 38°59.65′ N. lat., 123°45.94′ W. long.;

(117) 38°56.08′ N. lat., 123°46.48′ W. long.;

(118) 38°51.16′ N. lat., 123°41.48′ W. long.;

(119) 38°45.77′ N. lat., 123°35.14′ W. long.;

(120) 38°42.21′ N. lat., 123°28.17′ W. long.;

(121) 38°34.05′ N. lat., 123°20.96′ W. long.;

(122) 38°22.47′ N. lat., 123°07.48′ W. long.;

(123) 38°16.52′ N. lat., 123°05.62′ W. long.;

(124) 38°14.42′ N. lat., 123°01.91′ W. long.;

(125) 38°08.24′ N. lat., 122°59.79′ W. long.;

(126) 38°02.69′ N. lat., 123°01.96′ W. long.;

(127) 37°59.73′ N. lat., 123°04.75′ W. long.;

(128) 37°58.41′ N. lat., 123°02.93′ W. long.;

(129) 37°58.25′ N. lat., 122°56.49′ W. long.;

(130) 37°50.03′ N. lat., 122°52.23′ W. long.;

(131) 37°43.36′ N. lat., 123°04.18′ W. long.;

(132) 37°40.77′ N. lat., 123°01.62′ W. long.;

(133) 37°40.13′ N. lat., 122°57.03′ W. long.;

(134) 37°42.59′ N. lat., 122°53.64′ W. long.;

(135) 37°29.62′ N. lat., 122°36.00′ W. long.;

(136) 37°22.38′ N. lat., 122°31.66′ W. long.;

(137) 37°13.86′ N. lat., 122°28.27′ W. long.;

(138) 37°08.01′ N. lat., 122°24.75′ W. long.;

(139) 37°05.84′ N. lat., 122°22.47′ W. long.;

(140) 36°58.77′ N. lat., 122°13.03′ W. long.;

(141) 36°53.74′ N. lat., 122°03.39′ W. long.;

(142) 36°52.71′ N. lat., 122°00.14′ W. long.;

(143) 36°52.51′ N. lat., 121°56.77′ W. long.;

(144) 36°49.44′ N. lat., 121°49.63′ W. long.;

(145) 36°48.01′ N. lat., 121°49.92′ W. long.;

(146) 36°48.25′ N. lat., 121°47.66′ W. long.;

(147) 36°46.26′ N. lat., 121°51.27′ W. long.;

(148) 36°39.14′ N. lat., 121°52.05′ W. long.;

(149) 36°38.00′ N. lat., 121°53.57′ W. long.;

(150) 36°39.14′ N. lat., 121°55.45′ W. long.;

(151) 36°38.05′ N. lat., 121°57.09′ W. long.;

(152) 36°36.75′ N. lat., 121°59.44′ W. long.;

(153) 36°34.97′ N. lat., 121°59.37′ W. long.;

(154) 36°33.07′ N. lat., 121°58.32′ W. long.;

(155) 36°33.27′ N. lat., 121°57.07′ W. long.;

(156) 36°32.68′ N. lat., 121°57.03′ W. long.;

(157) 36°32.04′ N. lat., 121°55.98′ W. long.;

(158) 36°31.61′ N. lat., 121°55.72′ W. long.;

(159) 36°31.59′ N. lat., 121°57.12′ W. long.;

(160) 36°31.52′ N. lat., 121°57.57′ W. long.;

(161) 36°30.88′ N. lat., 121°57.09′ W. long.;

(162) 36°30.25′ N. lat., 121°57.37′ W. long.;

(163) 36°29.47′ N. lat., 121°57.55′ W. long.;

(164) 36°26.72′ N. lat., 121°56.04′ W. long.;

(165) 36°24.33′ N. lat., 121°56.00′ W. long.;

(166) 36°23.36′ N. lat., 121°55.45′ W. long.;

(167) 36°18.86′ N. lat., 121°56.15′ W. long.;

(168) 36°16.21′ N. lat., 121°54.81′ W. long.;

(169) 36°15.03′ N. lat., 121°53.79′ W. long.;

(170) 36°12.04′ N. lat., 121°45.38′ W. long.;

(171) 36°11.87′ N. lat., 121°44.45′ W. long.;

(172) 36°12.13′ N. lat., 121°44.25′ W. long.;

(173) 36°11.89′ N. lat., 121°43.65′ W. long.;

(174) 36°10.56′ N. lat., 121°42.62′ W. long.;

(175) 36°09.09′ N. lat., 121°41.57′ W. long.;

(176) 36°08.14′ N. lat., 121°40.44′ W. long.;

(177) 36°06.69′ N. lat., 121°38.79′ W. long.;

(178) 36°05.85′ N. lat., 121°38.47′ W. long.;

(179) 36°03.08′ N. lat., 121°36.25′ W. long.;

(180) 36°02.92′ N. lat., 121°35.89′ W. long.;

(181) 36°01.53′ N. lat., 121°36.13′ W. long.;

(182) 36°00.59′ N. lat., 121°35.04′ W. long.;

(183) 35°59.93′ N. lat., 121°33.81′ W. long.;

(184) 35°59.69′ N. lat., 121°31.84′ W. long.;

(185) 35°58.59′ N. lat., 121°30.03′ W. long.;

(186) 35°54.02′ N. lat., 121°29.71′ W. long.;

(187) 35°51.54′ N. lat., 121°27.67′ W. long.;

(188) 35°50.42′ N. lat., 121°25.79′ W. long.;

(189) 35°48.37′ N. lat., 121°24.29′ W. long.;

(190) 35°47.02′ N. lat., 121°22.46′ W. long.;

(191) 35°42.28′ N. lat., 121°21.02′ W. long.;

(192) 35°41.57′ N. lat., 121°21.82′ W. long.;

(193) 35°39.24′ N. lat., 121°18.84′ W. long.;

(194) 35°35.14′ N. lat., 121°10.45′ W. long.;

(195) 35°30.11′ N. lat., 121°05.59′ W. long.;

(196) 35°25.86′ N. lat., 121°00.07′ W. long.;

(197) 35°22.82′ N. lat., 120°54.68′ W. long.;

(198) 35°17.96′ N. lat., 120°55.54′ W. long.;

(199) 35°14.83′ N. lat., 120°55.42′ W. long.;

(200) 35°08.87′ N. lat., 120°50.22′ W. long.;

(201) 35°05.55′ N. lat., 120°44.89′ W. long.;

(202) 35°02.91′ N. lat., 120°43.94′ W. long.;

(203) 34°53.08′ N. lat., 120°43.94′ W. long.;

(204) 34°34.89′ N. lat., 120°41.92′ W. long.;

(205) 34°32.48′ N. lat., 120°40.05′ W. long.;

(206) 34°30.12′ N. lat., 120°32.81′ W. long.;

(207) 34°27.00′ N. lat., 120°30.46′ W. long.;

(208) 34°27.00′ N. lat., 120°30.31′ W. long.;

(209) 34°25.84′ N. lat., 120°27.04′ W. long.;

(210) 34°25.16′ N. lat., 120°20.18′ W. long.;

(211) 34°25.88′ N. lat., 120°18.24′ W. long.;

(212) 34°27.26′ N. lat., 120°12.47′ W. long.;

(213) 34°26.27′ N. lat., 120°02.22′ W. long.;

(214) 34°23.41′ N. lat., 119°53.04′ W. long.;

(215) 34°23.33′ N. lat., 119°48.74′ W. long.;

(216) 34°22.31′ N. lat., 119°41.36′ W. long.;

(217) 34°21.72′ N. lat., 119°40.14′ W. long.;

(218) 34°21.25′ N. lat., 119°41.18′ W. long.;

(219) 34°20.25′ N. lat., 119°39.03′ W. long.;

(220) 34°19.87′ N. lat., 119°33.65′ W. long.;

(221) 34°18.67′ N. lat., 119°30.16′ W. long.;

(222) 34°16.95′ N. lat., 119°27.09′ W. long.;

(223) 34°13.02′ N. lat., 119°26.99′ W. long.;

(224) 34°08.62′ N. lat., 119°20.89′ W. long.;

(225) 34°06.95′ N. lat., 119°17.68′ W. long.;

(226) 34°05.93′ N. lat., 119°15.17′ W. long.;

(227) 34°08.42′ N. lat., 119°13.11′ W. long.;

(228) 34°05.23′ N. lat., 119°13.34′ W. long.;

(229) 34°04.98′ N. lat., 119°11.39′ W. long.;

(230) 34°04.55′ N. lat., 119°11.09′ W. long.;

(231) 34°04.15′ N. lat., 119°09.35′ W. long.;

(232) 34°04.89′ N. lat., 119°07.86′ W. long.;

(233) 34°04.08′ N. lat., 119°07.33′ W. long.;

(234) 34°04.01′ N. lat., 119°06.89′ W. long.;

(235) 34°05.08′ N. lat., 119°07.02′ W. long.;

(236) 34°05.27′ N. lat., 119°04.95′ W. long.;

(237) 34°04.51′ N. lat., 119°04.07′ W. long.;

(238) 34°02.26′ N. lat., 118°59.88′ W. long.;

(239) 34°01.08′ N. lat., 118°59.77′ W. long.;

(240) 34°00.94′ N. lat., 118°51.65′ W. long.;

(241) 33°59.77′ N. lat., 118°49.26′ W. long.;

(242) 34°00.04′ N. lat., 118°48.92′ W. long.;

(243) 33°59.65′ N. lat., 118°48.43′ W. long.;

(244) 33°59.46′ N. lat., 118°47.25′ W. long.;

(245) 33°59.08′ N. lat., 118°45.89′ W. long.;

(246) 34°00.21′ N. lat., 118°37.64′ W. long.;

(247) 33°59.26′ N. lat., 118°34.58′ W. long.;

(248) 33°58.07′ N. lat., 118°33.36′ W. long.;

(249) 33°53.76′ N. lat., 118°30.14′ W. long.;

(250) 33°51.00′ N. lat., 118°25.19′ W. long.;

(251) 33°50.07′ N. lat., 118°24.07′ W. long.;

(252) 33°50.16′ N. lat., 118°23.77′ W. long.;

(253) 33°48.08′ N. lat., 118°25.31′ W. long.;

(254) 33°47.07′ N. lat., 118°27.07′ W. long.;

(255) 33°46.12′ N. lat., 118°26.87′ W. long.;

(256) 33°44.15′ N. lat., 118°25.15′ W. long.;

(257) 33°43.54′ N. lat., 118°23.02′ W. long.;

(258) 33°41.35′ N. lat., 118°18.86′ W. long.;

(259) 33°39.96′ N. lat., 118°17.37′ W. long.;

(260) 33°40.12′ N. lat., 118°16.33′ W. long.;

(261) 33°39.28′ N. lat., 118°16.21′ W. long.;

(262) 33°38.04′ N. lat., 118°14.86′ W. long.;

(263) 33°36.57′ N. lat., 118°14.67′ W. long.;

(264) 33°34.93′ N. lat., 118°10.94′ W. long.;

(265) 33°35.14′ N. lat., 118°08.61′ W. long.;

(266) 33°35.69′ N. lat., 118°07.68′ W. long.;

(267) 33°36.21′ N. lat., 118°07.53′ W. long.;

(268) 33°36.43′ N. lat., 118°06.73′ W. long.;

(269) 33°36.05′ N. lat., 118°06.15′ W. long.;

(270) 33°36.32′ N. lat., 118°03.91′ W. long.;

(271) 33°35.69′ N. lat., 118°03.64′ W. long.;

(272) 33°34.62′ N. lat., 118°00.04′ W. long.;

(273) 33°34.08′ N. lat., 117°57.73′ W. long.;

(274) 33°35.57′ N. lat., 117°56.62′ W. long.;

(275) 33°35.46′ N. lat., 117°55.99′ W. long.;

(276) 33°35.98′ N. lat., 117°55.99′ W. long.;

(277) 33°35.46′ N. lat., 117°55.38′ W. long.;

(278) 33°35.21′ N. lat., 117°53.46′ W. long.;

(279) 33°33.61′ N. lat., 117°50.45′ W. long.;

(280) 33°31.41′ N. lat., 117°47.28′ W. long.;

(281) 33°27.54′ N. lat., 117°44.36′ W. long.;

(282) 33°26.63′ N. lat., 117°43.17′ W. long.;

(283) 33°25.21′ N. lat., 117°40.09′ W. long.;

(284) 33°20.33′ N. lat., 117°35.99′ W. long.;

(285) 33°16.35′ N. lat., 117°31.51′ W. long.;

(286) 33°11.53′ N. lat., 117°26.81′ W. long.;

(287) 33°07.59′ N. lat., 117°21.13′ W. long.;

(288) 33°02.21′ N. lat., 117°19.05′ W. long.;

(289) 32°56.55′ N. lat., 117°17.07′ W. long.;

(290) 32°54.61′ N. lat., 117°16.06′ W. long.;

(291) 32°52.32′ N. lat., 117°15.97′ W. long.;

(292) 32°51.48′ N. lat., 117°16.15′ W. long.;

(293) 32°51.85′ N. lat., 117°17.26′ W. long.;

(294) 32°51.55′ N. lat., 117°19.01′ W. long.;

(295) 32°49.55′ N. lat., 117°19.63′ W. long.;

(296) 32°46.71′ N. lat., 117°18.32′ W. long.;

(297) 32°36.35′ N. lat., 117°15.68′ W. long.; and

(298) 32°32.85′ N. lat., 117°15.44′ W. long.

(A) The 30 fm (55 m) depth contour around the Farallon Islands off the state of California is defined by straight lines connecting all of the following points in the order stated:

(1) 37°46.73′ N. lat., 123°6.37′ W. long.;

(2) 37°45.79′ N. lat., 123°07.91′ W. long.;

(3) 37°45.28′ N. lat., 123°07.75′ W. long.;

(4) 37°44.98′ N. lat., 123°07.11′ W. long.;

(5) 37°45.51′ N. lat., 123°06.26′ W. long.;

(6) 37°45.14′ N. lat., 123°05.41′ W. long.;

(7) 37°45.31′ N. lat., 123°04.82′ W. long.;

(8) 37°46.11′ N. lat., 123°05.23′ W. long.;

(9) 37°46.44′ N. lat., 123°05.63′ W. long.; and

(10) 37°46.73′ N. lat., 123°06.37′ W. long.

(B) The 30 fm (55 m) depth contour around Noon Day Rock off the state of California is defined by straight lines connecting all of the following points in the order stated:

(1) 37°47.83′ N. lat., 123°10.83′ W. long.;

(2) 37°47.51′ N. lat., 123°11.19′ W. long.;

(3) 37°47.33′ N. lat., 123°10.68′ W. long.;

(4) 37°47.02′ N. lat., 123°10.59′ W. long.;

(5) 37°47.21′ N. lat., 123°09.85′ W. long.;

(6) 37°47.56′ N. lat., 123°09.72′ W. long.;

(7) 37°47.87′ N. lat., 123°10.26′ W. long.; and

(8) 37°47.83′ N. lat., 123°10.83′ W. long.

(C) The 30 fm (55 m) depth contour around the northern Channel Islands off the state of California is defined by straight lines connecting all of the following points in the order stated:

(1) 34°01.41′ N. lat., 119°20.61′ W. long.;

(2) 34°00.98′ N. lat., 119°20.46′ W. long.;

(3) 34°00.53′ N. lat., 119°20.98′ W. long.;

(4) 34°00.17′ N. lat., 119°21.83′ W. long.;

(5) 33°59.65′ N. lat., 119°24.45′ W. long.;

(6) 33°59.68′ N. lat., 119°25.20′ W. long.;

(7) 33°59.95′ N. lat., 119°26.25′ W. long.;

(8) 33°59.87′ N. lat., 119°27.27′ W. long.;

(9) 33°59.55′ N. lat., 119°28.02′ W. long.;

(10) 33°58.63′ N. lat., 119°36.48′ W. long.;

(11) 33°57.62′ N. lat., 119°41.13′ W. long.;

(12) 33°57.00′ N. lat., 119°42.20′ W. long.;

(13) 33°56.93′ N. lat., 119°48.00′ W. long.;

(14) 33°57.70′ N. lat., 119°48.00′ W. long.; (between coordinates (14) and (15), the boundary follows the shoreline)

(15) 33°58.00′ N. lat., 119°51.00′ W. long.;

(16) 33°58.00′ N. lat., 119°52.00′ W. long.;

(17) 33°58.54′ N. lat., 119°52.80′ W. long.;

(18) 33°59.74′ N. lat., 119°54.19′ W. long.;

(19) 33°59.97′ N. lat., 119°54.66′ W. long.;

(20) 33°59.83′ N. lat., 119°56.00′ W. long.;

(21) 33°59.18′ N. lat., 119°57.17′ W. long.;

(22) 33°57.83′ N. lat., 119°56.74′ W. long.;

(23) 33°55.71′ N. lat., 119°56.89′ W. long.;

(24) 33°53.89′ N. lat., 119°57.68′ W. long.;

(25) 33°52.93′ N. lat., 119°59.80′ W. long.;

(26) 33°52.79′ N. lat., 120°01.81′ W. long.;

(27) 33°52.51′ N. lat., 120°03.08′ W. long.;

(28) 33°53.12′ N. lat., 120°04.88′ W. long.;

(29) 33°53.12′ N. lat., 120°05.80′ W. long.;

(30) 33°52.94′ N. lat., 120°06.50′ W. long.;

(31) 33°53.80′ N. lat., 120°06.50′ W. long.; (between coordinates (31) and (32), the boundary follows the shoreline)

(32) 33°55.00′ N. lat., 120°10.00′ W. long.;

(33) 33°54.03′ N. lat., 120°10.00′ W. long.;

(34) 33°54.58′ N. lat., 120°11.82′ W. long.;

(35) 33°57.08′ N. lat., 120°14.58′ W. long.;

(36) 33°59.50′ N. lat., 120°16.72′ W. long.;

(37) 33°59.63′ N. lat., 120°17.88′ W. long.;

(38) 34°00.30′ N. lat., 120°19.14′ W. long.;

(39) 34°00.02′ N. lat., 120°19.68′ W. long.;

(40) 34°00.08′ N. lat., 120°21.73′ W. long.;

(41) 34°00.94′ N. lat., 120°24.82′ W. long.;

(42) 34°00.97′ N. lat., 120°25.30′ W. long.;

(43) 34°01.50′ N. lat., 120°25.30′ W. long.; (between coordinates (43) and (44), the boundary follows the shoreline)

(44) 34°01.80′ N. lat., 120°26.60′ W. long.;

(45) 34°01.05′ N. lat., 120°26.60′ W. long.;

(46) 34°01.11′ N. lat., 120°27.43′ W. long.;

(47) 34°00.96′ N. lat., 120°28.09′ W. long.;

(48) 34°01.56′ N. lat., 120°28.71′ W. long.;

(49) 34°01.80′ N. lat., 120°28.31′ W. long.;

(50) 34°03.60′ N. lat., 120°28.87′ W. long.;

(51) 34°03.60′ N. lat., 120°28.20′ W. long.;

(52) 34°05.35′ N. lat., 120°28.20′ W. long.;

(53) 34°05.30′ N. lat., 120°27.33′ W. long.;

(54) 34°05.65′ N. lat., 120°26.79′ W. long.;

(55) 34°05.69′ N. lat., 120°25.82′ W. long.;

(56) 34°07.24′ N. lat., 120°24.98′ W. long.;

(57) 34°06.00′ N. lat., 120°23.30′ W. long.;

(58) 34°03.10′ N. lat., 120°23.30′ W. long.; (between coordinates (58) and (59), the boundary follows the shoreline)

(59) 34°03.50′ N. lat., 120°21.30′ W. long.;

(60) 34°02.90′ N. lat., 120°20.20′ W. long.; (between coordinates (60) and (61), the boundary follows the shoreline)

(61) 34°01.80′ N. lat., 120°18.40′ W. long.;

(62) 34°03.61′ N. lat., 120°18.40′ W. long.;

(63) 34°03.25′ N. lat., 120°16.64′ W. long.;

(64) 34°04.33′ N. lat., 120°14.22′ W. long.;

(65) 34°04.11′ N. lat., 120°11.17′ W. long.;

(66) 34°03.72′ N. lat., 120°09.93′ W. long.;

(67) 34°03.81′ N. lat., 120°08.96′ W. long.;

(68) 34°03.36′ N. lat., 120°06.52′ W. long.;

(69) 34°04.80′ N. lat., 120°04.00′ W. long.;

(70) 34°04.00′ N. lat., 120°04.00′ W. long.;

(71) 34°04.00′ N. lat., 120°05.20′ W. long.;

(72) 34°01.30′ N. lat., 120°05.20′ W. long.; (between coordinates (72) and (73), the boundary follows the shoreline)

(73) 34°00.50′ N. lat., 120°02.80′ W. long.;

(74) 34°00.49′ N. lat., 120°01.01′ W. long.;

(75) 34°04.00′ N. lat., 120°01.00′ W. long.;

(76) 34°03.99′ N. lat., 120°00.15′ W. long.;

(77) 34°03.51′ N. lat., 119°59.42′ W. long.;

(78) 34°03.79′ N. lat., 119°58.15′ W. long.;

(79) 34°04.72′ N. lat., 119°57.61′ W. long.;

(80) 34°05.14′ N. lat., 119°55.17′ W. long.;

(81) 34°04.85′ N. lat., 119°53.00′ W. long.;

(82) 34°04.50′ N. lat., 119°53.00′ W. long.; (between coordinates (82) and (83), the boundary follows the shoreline)

(83) 34°04.00′ N. lat., 119°51.00′ W. long.;

(84) 34°04.49′ N. lat., 119°51.01′ W. long.;

(85) 34°03.79′ N. lat., 119°48.86′ W. long.;

(86) 34°03.79′ N. lat., 119°45.46′ W. long.;

(87) 34°03.27′ N. lat., 119°44.17′ W. long.;

(88) 34°03.29′ N. lat., 119°43.30′ W. long.;

(89) 34°01.71′ N. lat., 119°40.83′ W. long.;

(90) 34°01.74′ N. lat., 119°37.92′ W. long.;

(91) 34°02.07′ N. lat., 119°37.17′ W. long.;

(92) 34°02.93′ N. lat., 119°36.52′ W. long.;

(93) 34°03.48′ N. lat., 119°35.50′ W. long.;

(94) 34°02.94′ N. lat., 119°35.50′ W. long.; (between coordinates (94) and (95), the boundary follows the shoreline)

(95) 34°02.80′ N. lat., 119°32.80′ W. long.;

(96) 34°03.56′ N. lat., 119°32.80′ W. long.;

(97) 34°02.72′ N. lat., 119°31.84′ W. long.;

(98) 34°02.20′ N. lat., 119°30.53′ W. long.;

(99) 34°01.49′ N. lat., 119°30.20′ W. long.;

(100) 34°00.66′ N. lat., 119°28.62′ W. long.;

(101) 34°00.66′ N. lat., 119°27.57′ W. long.;

(102) 34°01.40′ N. lat., 119°26.94′ W. long.;

(103) 34°01.35′ N. lat., 119°26.70′ W. long.;

(104) 34°00.80′ N. lat., 119°26.70′ W. long.; (between coordinates (104) and (105), the boundary follows the shoreline)

(105) 34°00.40′ N. lat., 119°24.60′ W. long.; (between coordinates (105) and (106), the boundary follows the shoreline)

(106) 34°01.00′ N. lat., 119°21.40′ W. long.;

(107) 34°01.49′ N. lat., 119°21.40′ W. long.; and

(108) 34°01.41′ N. lat., 119°20.61′ W. long.

(D) The 30 fm (55 m) depth contour around San Clemente Island off the state of California is defined by straight lines connecting all of the following points in the order stated:

(1) 33°03.37′ N. lat., 118°37.76′ W. long.;

(2) 33°02.72′ N. lat., 118°38.12′ W. long.;

(3) 33°02.18′ N. lat., 118°37.46′ W. long.;

(4) 33°00.66′ N. lat., 118°37.36′ W. long.;

(5) 33°00.08′ N. lat., 118°36.94′ W. long.;

(6) 33°00.11′ N. lat., 118°36.00′ W. long.;

(7) 32°58.02′ N. lat., 118°35.41′ W. long.;

(8) 32°56.00′ N. lat., 118°33.59′ W. long.;

(9) 32°54.76′ N. lat., 118°33.58′ W. long.;

(10) 32°53.97′ N. lat., 118°32.45′ W. long.;

(11) 32°51.18′ N. lat., 118°30.83′ W. long.;

(12) 32°50.00′ N. lat., 118°29.68′ W. long.;

(13) 32°49.72′ N. lat., 118°28.33′ W. long.;

(14) 32°47.88′ N. lat., 118°26.09′ W. long.;

(15) 32°47.03′ N. lat., 118°25.73′ W. long.;

(16) 32°47.28′ N. lat., 118°24.83′ W. long.;

(17) 32°48.12′ N. lat., 118°24.33′ W. long.;

(18) 32°48.74′ N. lat., 118°23.39′ W. long.;

(19) 32°48.69′ N. lat., 118°21.75′ W. long.;

(20) 32°49.06′ N. lat., 118°20.53′ W. long.;

(21) 32°50.28′ N. lat., 118°21.09′ W. long.;

(22) 32°51.73′ N. lat., 118°23.86′ W. long.;

(23) 32°52.79′ N. lat., 118°25.08′ W. long.;

(24) 32°54.03′ N. lat., 118°26.83′ W. long.;

(25) 32°54.07′ N. lat., 118°27.55′ W. long.;

(26) 32°55.49′ N. lat., 118°29.04′ W. long.;

(27) 32°59.58′ N. lat., 118°32.51′ W. long.;

(28) 32°59.89′ N. lat., 118°32.52′ W. long.;

(29) 33°00.29′ N. lat., 118°32.73′ W. long.;

(30) 33°00.85′ N. lat., 118°33.05′ W. long.;

(31) 33°01.07′ N. lat., 118°33.64′ W. long.;

(32) 33°02.09′ N. lat., 118°35.35′ W. long.;

(33) 33°02.61′ N. lat., 118°36.96′ W. long.; and

(34) 33°03.37′ N. lat., 118°37.76′ W. long.

(E) The 30 fm (55 m) depth contour around Santa Catalina Island off the state of California is defined by straight lines connecting all of the following points in the order stated:

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′ N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′ N. lat., 118°18.04′ W. long.

(iii) The 40 fm (73 m) depth contour between 46°16′ N. lat. and 42°00′ N. lat. is defined by straight lines connecting all of the following points in the order stated:

(1) 46°16.00′ N. lat., 124°16.10′ N. lat.;

(2) 46°15.29′ N. lat., 124°15.60′ N. lat.;

(3) 46°11.90′ N. lat., 124°13.59′ N. lat.;

(4) 46°06.93′ N. lat., 124°10.15′ N. lat.;

(5) 46°05.33′ N. lat., 124°08.30′ N. lat.;

(6) 45°58.69′ N. lat., 124°05.60′ N. lat.;

(7) 45°57.71′ N. lat., 124°05.82′ N. lat.;

(8) 45°53.97′ N. lat., 124°05.04′ N. lat.;

(9) 45°49.75′ N. lat., 124°05.14′ N. lat.;

(10) 45°47.88′ N. lat., 124°05.16′ N. lat.;

(11) 45°47.07′ N. lat., 124°04.21′ N. lat.;

(12) 45°44.34′ N. lat., 124°05.09′ N. lat.;

(13) 45°40.64′ N. lat., 124°04.90′ N. lat.;

(14) 45°33.00′ N. lat., 124°04.46′ N. lat.;

(15) 45°32.27′ N. lat., 124°04.74′ N. lat.;

(16) 45°29.26′ N. lat., 124°04.22′ N. lat.;

(17) 45°19.99′ N. lat., 124°04.62′ N. lat.;

(18) 45°17.50′ N. lat., 124°04.91′ N. lat.;

(19) 45°11.29′ N. lat., 124°05.19′ N. lat.;

(20) 45°05.79′ N. lat., 124°05.40′ N. lat.;

(21) 45°05.07′ N. lat., 124°05.93′ N. lat.;

(22) 45°01.70′ N. lat., 124°06.53′ N. lat.;

(23) 44°58.75′ N. lat., 124°07.14′ N. lat.;

(24) 44°51.28′ N. lat., 124°10.21′ N. lat.;

(25) 44°49.49′ N. lat., 124°10.89′ N. lat.;

(26) 44°44.96′ N. lat., 124°14.39′ N. lat.;

(27) 44°43.44′ N. lat., 124°14.78′ N. lat.;

(28) 44°42.27′ N. lat., 124°13.81′ N. lat.;

(29) 44°41.68′ N. lat., 124°15.38′ N. lat.;

(30) 44°34.87′ N. lat., 124°15.80′ N. lat.;

(31) 44°33.74′ N. lat., 124°14.43′ N. lat.;

(32) 44°27.66′ N. lat., 124°16.99′ N. lat.;

(33) 44°19.13′ N. lat., 124°19.22′ N. lat.;

(34) 44°15.35′ N. lat., 124°17.37′ N. lat.;

(35) 44°14.38′ N. lat., 124°17.78′ N. lat.;

(36) 44°12.80′ N. lat., 124°17.18′ N. lat.;

(37) 44°09.23′ N. lat., 124°15.96′ N. lat.;

(38) 44°08.38′ N. lat., 124°16.80′ N. lat.;

(39) 44°01.18′ N. lat., 124°15.42′ N. lat.;

(40) 43°51.60′ N. lat., 124°14.68′ N. lat.;

(41) 43°42.66′ N. lat., 124°15.46′ N. lat.;

(42) 43°40.49′ N. lat., 124°15.74′ N. lat.;

(43) 43°38.77′ N. lat., 124°15.64′ N. lat.;

(44) 43°34.52′ N. lat., 124°16.73′ N. lat.;

(45) 43°28.82′ N. lat., 124°19.52′ N. lat.;

(46) 43°23.91′ N. lat., 124°24.28′ N. lat.;

(47) 43°17.96′ N. lat., 124°28.81′ N. lat.;

(48) 43°16.75′ N. lat., 124°28.42′ N. lat.;

(49) 43°13.98′ N. lat., 124°31.99′ N. lat.;

(50) 43°13.71′ N. lat., 124°33.25′ N. lat.;

(51) 43°12.26′ N. lat., 124°34.16′ N. lat.;

(52) 43°10.96′ N. lat., 124°32.34′ N. lat.;

(53) 43°05.65′ N. lat., 124°31.52′ N. lat.;

(54) 42°59.66′ N. lat., 124°32.58′ N. lat.;

(55) 42°54.97′ N. lat., 124°36.99′ N. lat.;

(56) 42°53.81′ N. lat., 124°38.58′ N. lat.;

(57) 42°49.14′ N. lat., 124°39.92′ N. lat.;

(58) 42°46.47′ N. lat., 124°38.65′ N. lat.;

(59) 42°45.60′ N. lat., 124°39.04′ N. lat.;

(60) 42°44.79′ N. lat., 124°37.96′ N. lat.;

(61) 42°45.00′ N. lat., 124°36.39′ N. lat.;

(62) 42°44.14′ N. lat., 124°35.16′ N. lat.;

(63) 42°42.15′ N. lat., 124°32.82′ N. lat.;

(64) 42°38.82′ N. lat., 124°31.09′ N. lat.;

(65) 42°35.91′ N. lat., 124°31.02′ N. lat.;

(66) 42°31.34′ N. lat., 124°34.84′ N. lat.;

(67) 42°28.13′ N. lat., 124°34.83′ N. lat.;

(68) 42°26.73′ N. lat., 124°35.58′ N. lat.;

(69) 42°23.85′ N. lat., 124°34.05′ N. lat.;

(70) 42°21.68′ N. lat., 124°30.64′ N. lat.;

(71) 42°19.62′ N. lat., 124°29.02′ N. lat.;

(72) 42°15.01′ N. lat., 124°27.72′ N. lat.;

(73) 42°11.38′ N. lat., 124°25.62′ N. lat.;

(74) 42°04.66′ N. lat., 124°24.39′ N. lat.; and

(75) 42°00.00′ N. lat., 124°23.55′ N. lat.

(iv) The 50 fm (91 m) depth contour between the U.S. border with Canada and the Swiftsure Bank is defined by straight lines connecting all of the following points in the order stated:

(1) 48°30.15 ′ N. lat., 124°56.12′ N. lat.;

(2) 48°28.29′ N. lat., 124°56.30′ W. long.;

(3) 48°29.23′ N. lat., 124°53.63′ W. long.; and

(4) 48°30.31′ N. lat., 124°51.73′ W. long.

(A) The 50 fm (91 m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°16.90′ W. long.;

(23) 45°50.88′ N. lat., 124°09.68′ W. long.;

(24) 45°12.99′ N. lat., 124°06.71′ W. long.;

(25) 44°52.48′ N. lat., 124°11.22′ W. long.;

(26) 44°42.41′ N. lat., 124°19.70′ W. long.;

(27) 44°38.80′ N. lat., 124°26.58′ W. long.;

(28) 44°24.99′ N. lat., 124°31.22′ W. long.;

(29) 44°18.11′ N. lat., 124°43.74′ W. long.;

(30) 44°15.23′ N. lat., 124°40.47′ W. long.;

(31) 44°18.80′ N. lat., 124°35.48′ W. long.;

(32) 44°19.62′ N. lat., 124°27.18′ W. long.;

(33) 43°56.65′ N. lat., 124°16.86′ W. long.;

(34) 43°34.95′ N. lat., 124°17.47′ W. long.;

(35) 43°12.60′ N. lat., 124°35.80′ W. long.;

(36) 43°08.96′ N. lat., 124°33.77′ W. long.;

(37) 42°59.66′ N. lat., 124°34.79′ W. long.;

(38) 42°54.29′ N. lat., 124°39.46′ W. long.;

(39) 42°46.50′ N. lat., 124°39.99′ W. long.;

(40) 42°41.00′ N. lat., 124°34.92′ W. long.;

(41) 42°36.29′ N. lat., 124°34.70′ W. long.;

(42) 42°28.36′ N. lat., 124°37.90′ W. long.;

(43) 42°25.53′ N. lat., 124°37.68′ W. long.;

(44) 42°18.64′ N. lat., 124°29.47′ W. long.;

(45) 42°12.95′ N. lat., 124°27.34′ W. long.;

(46) 42°03.04′ N. lat., 124°25.81′ W. long.;

(47) 42°00.00′ N. lat., 124°26.21′ W. long.;

(48) 41°57.60′ N. lat., 124°27.35′ W. long.;

(49) 41°52.53′ N. lat., 124°26.51′ W. long.;

(50) 41°50.17′ N. lat., 124°25.63′ W. long.;

(51) 41°46.01′ N. lat., 124°22.16′ W. long.;

(52) 41°26.50′ N. lat., 124°21.78′ W. long.;

(53) 41°15.66′ N. lat., 124°16.42′ W. long.;

(54) 41°05.45′ N. lat., 124°16.89′ W. long.;

(55) 40°54.55′ N. lat., 124°19.53′ W. long.;

(56) 40°42.22′ N. lat., 124°28.29′ W. long.;

(57) 40°39.68′ N. lat., 124°28.37′ W. long.;

(58) 40°36.76′ N. lat., 124°27.39′ W. long.;

(59) 40°34.44′ N. lat., 124°28.89′ W. long.;

(60) 40°32.57′ N. lat., 124°32.43′ W. long.;

(61) 40°30.95′ N. lat., 124°33.87′ W. long.;

(62) 40°28.90′ N. lat., 124°34.59′ W. long.;

(63) 40°24.36′ N. lat., 124°31.42′ W. long.;

(64) 40°23.66′ N. lat., 124°28.35′ W. long.;

(65) 40°22.54′ N. lat., 124°24.71′ W. long.;

(66) 40°21.52′ N. lat., 124°24.86′ W. long.;

(67) 40°21.25′ N. lat., 124°25.59′ W. long.;

(68) 40°20.63′ N. lat., 124°26.47′ W. long.;

(69) 40°19.18′ N. lat., 124°25.98′ W. long.;

(70) 40°18.42′ N. lat., 124°24.77′ W. long.;

(71) 40°18.64′ N. lat., 124°22.81′ W. long.;

(72) 40°15.31′ N. lat., 124°25.28′ W. long.;

(73) 40°15.37′ N. lat., 124°26.82′ W. long.;

(74) 40°11.91′ N. lat., 124°22.68′ W. long.;

(75) 40°10.01′ N. lat., 124°19.97′ W. long.;

(76) 40°10.00′ N. lat., 124°19.97′ W. long.;

(77) 40°09.20′ N. lat., 124°15.81′ W. long.;

(78) 40°07.51′ N. lat., 124°15.29′ W. long.;

(79) 40°05.22′ N. lat., 124°10.06′ W. long.;

(80) 40°06.51′ N. lat., 124°08.01′ W. long.;

(81) 40°00.72′ N. lat., 124°08.45′ W. long.;

(82) 39°56.60′ N. lat., 124°07.12′ W. long.;

(83) 39°52.58′ N. lat., 124°03.57′ W. long.;

(84) 39°50.65′ N. lat., 123°57.98′ W. long.;

(85) 39°40.16′ N. lat., 123°52.41′ W. long.;

(86) 39°30.12′ N. lat., 123°52.92′ W. long.;

(87) 39°24.53′ N. lat., 123°55.16′ W. long.;

(88) 39°11.58′ N. lat., 123°50.93′ W. long.;

(89) 38°55.13′ N. lat., 123°51.14′ W. long.;

(90) 38°28.58′ N. lat., 123°22.84′ W. long.;

(91) 38°14.60′ N. lat., 123°09.92′ W. long.;

(92) 38°01.84′ N. lat., 123°09.75′ W. long.;

(93) 37°59.56′ N. lat., 123°09.25′ W. long.;

(94) 37°55.24′ N. lat., 123°08.30′ W. long.;

(95) 37°52.06′ N. lat., 123°09.19′ W. long.;

(96) 37°50.21′ N. lat., 123°14.90′ W. long.;

(97) 37°35.67′ N. lat., 122°55.43′ W. long.;

(98) 37°03.06′ N. lat., 122°24.22′ W. long.;

(99) 36°50.20′ N. lat., 122°03.58′ W. long.;

(100) 36°51.46′ N. lat., 121°57.54′ W. long.;

(101) 36°44.14′ N. lat., 121°58.10′ W. long.;

(102) 36°36.76′ N. lat., 122°01.16′ W. long.;

(103) 36°15.62′ N. lat., 121°57.13′ W. long.;

(104) 36°10.41′ N. lat., 121°42.92′ W. long.;

(105) 36°02.56′ N. lat., 121°36.37′ W. long.;

(106) 36°01.04′ N. lat., 121°36.47′ W. long.;

(107) 35°58.26′ N. lat., 121°32.88′ W. long.;

(108) 35°40.38′ N. lat., 121°22.59′ W. long.;

(109) 35°24.35′ N. lat., 121°02.53′ W. long.;

(110) 35°02.66′ N. lat., 120°51.63′ W. long.;

(111) 34°39.52′ N. lat., 120°48.72′ W. long.;

(112) 34°31.26′ N. lat., 120°44.12′ W. long.;

(113) 34°27.00′ N. lat., 120°33.31′ W. long.;

(114) 34°23.47′ N. lat., 120°24.76′ W. long.;

(115) 34°25.83′ N. lat., 120°17.26′ W. long.;

(116) 34°24.65′ N. lat., 120°04.83′ W. long.;

(117) 34°23.18′ N. lat., 119°56.18′ W. long.;

(118) 34°19.20′ N. lat., 119°41.64′ W. long.;

(119) 34°16.82′ N. lat., 119°35.32′ W. long.;

(120) 34°13.43′ N. lat., 119°32.29′ W. long.;

(121) 34°05.39′ N. lat., 119°15.13′ W. long.;

(122) 34°08.22′ N. lat., 119°13.64′ W. long.;

(123) 34°07.64′ N. lat., 119°13.10′ W. long.;

(124) 34°04.56′ N. lat., 119°13.73′ W. long.;

(125) 34°03.90′ N. lat., 119°12.66′ W. long.;

(126) 34°03.66′ N. lat., 119°06.82′ W. long.;

(127) 34°04.58′ N. lat., 119°04.91′ W. long.;

(128) 34°01.35′ N. lat., 119°00.30′ W. long.;

(129) 34°00.24′ N. lat., 119°03.18′ W. long.;

(130) 33°59.63′ N. lat., 119°03.20′ W. long.;

(131) 33°59.54′ N. lat., 119°00.88′ W. long.;

(132) 34°00.82′ N. lat., 118°59.03′ W. long.;

(133) 33°59.11′ N. lat., 118°47.52′ W. long.;

(134) 33°59.07′ N. lat., 118°36.33′ W. long.;

(135) 33°55.06′ N. lat., 118°32.86′ W. long.;

(136) 33°53.56′ N. lat., 118°37.75′ W. long.;

(137) 33°51.22′ N. lat., 118°36.14′ W. long.;

(138) 33°50.48′ N. lat., 118°32.16′ W. long.;

(139) 33°51.86′ N. lat., 118°28.71′ W. long.;

(140) 33°50.09′ N. lat., 118°27.88′ W. long.;

(141) 33°49.95′ N. lat., 118°26.38′ W. long.;

(142) 33°50.73′ N. lat., 118°26.17′ W. long.;

(143) 33°49.86′ N. lat., 118°24.25′ W. long.;

(144) 33°48.10′ N. lat., 118°26.87′ W. long.;

(145) 33°47.54′ N. lat., 118°29.66′ W. long.;

(146) 33°44.10′ N. lat., 118°25.25′ W. long.;

(147) 33°41.78′ N. lat., 118°20.28′ W. long.;

(148) 33°38.18′ N. lat., 118°15.69′ W. long.;

(149) 33°37.50′ N. lat., 118°16.71′ W. long.;

(150) 33°35.98′ N. lat., 118°16.54′ W. long.;

(151) 33°34.15′ N. lat., 118°11.22′ W. long.;

(152) 33°34.29′ N. lat., 118°08.35′ W. long.;

(153) 33°35.85′ N. lat., 118°07.00′ W. long.;

(154) 33°36.12′ N. lat., 118°04.15′ W. long.;

(155) 33°34.97′ N. lat., 118°02.91′ W. long.;

(156) 33°34.00′ N. lat., 117°59.53′ W. long.;

(157) 33°35.44′ N. lat., 117°55.67′ W. long.;

(158) 33°35.15′ N. lat., 117°53.55′ W. long.;

(159) 33°31.12′ N. lat., 117°47.40′ W. long.;

(160) 33°27.99′ N. lat., 117°45.19′ W. long.;

(161) 33°26.88′ N. lat., 117°43.87′ W. long.;

(162) 33°25.44′ N. lat., 117°41.63′ W. long.;

(163) 33°19.50′ N. lat., 117°36.08′ W. long.;

(164) 33°12.74′ N. lat., 117°28.53′ W. long.;

(165) 33°10.29′ N. lat., 117°25.68′ W. long.;

(166) 33°07.36′ N. lat., 117°21.23′ W. long.;

(167) 32°59.39′ N. lat., 117°18.56′ W. long.;

(168) 32°56.10′ N. lat., 117°18.37′ W. long.;

(169) 32°54.43′ N. lat., 117°16.93′ W. long.;

(170) 32°51.89′ N. lat., 117°16.42′ W. long.;

(171) 32°52.24′ N. lat., 117°19.36′ W. long.;

(172) 32°47.06′ N. lat., 117°21.92′ W. long.;

(173) 32°45.09′ N. lat., 117°20.68′ W. long.;

(174) 32°43.62′ N. lat., 117°18.68′ W. long.; and

(175) 32°33.43′ N. lat., 117°17.00′ W. long.

(B) The 50 fm (91 m) depth contour around the northern Channel Islands off the state of California is defined by straight lines connecting all of the following points in the order stated:

(1) 34°08.40′ N. lat., 120°33.78′ W. long.;

(2) 34°08.40′ N. lat., 120°28.20′ W. long.;

(3) 34°08.68′ N. lat., 120°26.61′ W. long.;

(4) 34°05.85′ N. lat., 120°17.13′ W. long.;

(5) 34°05.57′ N. lat., 119°51.35′ W. long.;

(6) 34°07.08′ N. lat., 119°52.43′ W. long.;

(7) 34°04.42′ N. lat., 119°35.35′ W. long.;

(8) 34°06.20′ N. lat., 119°35.35′ W. long.;

(9) 34°06.20′ N. lat., 119°32.80′ W. long.;

(10) 34°04.73′ N. lat., 119°32.77′ W. long.;

(11) 34°03.56′ N. lat., 119°26.70′ W. long.;

(12) 34°04.00′ N. lat., 119°26.70′ W. long.;

(13) 34°04.00′ N. lat., 119°21.40′ W. long.;

(14) 34°02.57′ N. lat., 119°21.40′ W. long.;

(15) 34°02.02′ N. lat., 119°19.18′ W. long.;

(16) 34°01.03′ N. lat., 119°19.50′ W. long.;

(17) 33°59.45′ N. lat., 119°22.38′ W. long.;

(18) 33°58.68′ N. lat., 119°32.36′ W. long.;

(19) 33°56.43′ N. lat., 119°41.13′ W. long.;

(20) 33°56.09′ N. lat., 119°48.00′ W. long.;

(21) 33°55.20′ N. lat., 119°48.00′ W. long.;

(22) 33°55.20′ N. lat., 119°53.00′ W. long.;

(23) 33°58.00′ N. lat., 119°53.00′ W. long.;

(24) 33°59.32′ N. lat., 119°55.59′ W. long.;

(25) 33°57.52′ N. lat., 119°55.19′ W. long.;

(26) 33°56.26′ N. lat., 119°54.29′ W. long.;

(27) 33°54.30′ N. lat., 119°54.83′ W. long.;

(28) 33°50.97′ N. lat., 119°57.03′ W. long.;

(29) 33°50.03′ N. lat., 120°03.00′ W. long.;

(30) 33°51.06′ N. lat., 120°03.23′ W. long.;

(31) 33°52.35′ N. lat., 120°06.51′ W. long.;

(32) 33°51.37′ N. lat., 120°06.48′ W. long.;

(33) 33°51.37′ N. lat., 120°09.99′ W. long.;

(34) 33°53.50′ N. lat., 120°10.08′ W. long.;

(35) 33°54.49′ N. lat., 120°12.85′ W. long.;

(36) 33°58.48′ N. lat., 120°18.50′ W. long.;

(37) 34°00.06′ N. lat., 120°25.30′ W. long.;

(38) 33°58.50′ N. lat., 120°25.30′ W. long.;

(39) 33°58.50′ N. lat., 120°26.60′ W. long.;

(40) 34°00.34′ N. lat., 120°26.60′ W. long.;

(41) 34°00.71′ N. lat., 120°28.21′ W. long.;

(42) 34°03.60′ N. lat., 120°30.60′ W. long.;

(43) 34°03.60′ N. lat., 120°34.20′ W. long.;

(44) 34°06.96′ N. lat., 120°34.22′ W. long.;

(45) 34°08.01′ N. lat., 120°35.24′ W. long.; and

(46) 34°08.40′ N. lat., 120°33.78′ W. long.

(C) The 50 fm (91 m) depth contour around San Clemente Island off the state of California is defined by straight lines connecting all of the following points in the order stated:

(1) 33°03.73′ N. lat., 118°36.98′ W. long.;

(2) 33°02.56′ N. lat., 118°34.12′ W. long.;

(3) 32°55.54′ N. lat., 118°28.87′ W. long.;

(4) 32°55.02′ N. lat., 118°27.69′ W. long.;

(5) 32°49.73′ N. lat., 118°20.99′ W. long.;

(6) 32°48.55′ N. lat., 118°20.24′ W. long.;

(7) 32°47.92′ N. lat., 118°22.45′ W. long.;

(8) 32°45.25′ N. lat., 118°24.59′ W. long.;

(9) 32°50.23′ N. lat., 118°30.80′ W. long.;

(10) 32°55.28′ N. lat., 118°33.83′ W. long.;

(11) 33°00.45′ N. lat., 118°37.88′ W. long.;

(12) 33°03.27′ N. lat., 118°38.56′ W. long.; and

(13) 33°03.73′ N. lat., 118°36.98′ W. long.

(D) The 50 fm (91 m) depth contour around Santa Catalina Island off the state of California is defined by straight lines connecting all of the following points in the order stated:

(1) 33°28.01′ N. lat., 118°37.42′ W. long.;

(2) 33°29.02′ N. lat., 118°36.33′ W. long.;

(3) 33°28.97′ N. lat., 118°33.16′ W. long.;

(4) 33°28.71′ N. lat., 118°31.22′ W. long.;

(5) 33°26.66′ N. lat., 118°27.48′ W. long.;

(6) 33°25.35′ N. lat., 118°22.83′ W. long.;

(7) 33°22.61′ N. lat., 118°19.18′ W. long.;

(8) 33°20.06′ N. lat., 118°17.35′ W. long.;

(9) 33°17.58′ N. lat., 118°17.42′ W. long.;

(10) 33°17.05′ N. lat., 118°18.72′ W. long.;

(11) 33°17.87′ N. lat., 118°24.47′ W. long.;

(12) 33°18.63′ N. lat., 118°28.16′ W. long.;

(13) 33°20.17′ N. lat., 118°31.69′ W. long.;

(14) 33°20.85′ N. lat., 118°31.82′ W. long.;

(15) 33°23.19′ N. lat., 118°29.78′ W. long.;

(16) 33°24.85′ N. lat., 118°31.22′ W. long.;

(17) 33°25.65′ N. lat., 118°34.11′ W. long.; and

(18) 33°28.01′ N. lat., 118°37.42′ W. long.

(v) The 60 fm (110 m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.81′ W. long.;

(31) 46°11.23′ N. lat., 124°19.96′ W. long.;

(32) 46°02.51′ N. lat., 124°19.84′ W. long.;

(33) 45°59.05′ N. lat., 124°16.52′ W. long.;

(34) 45°51.00′ N. lat., 124°12.83′ W. long.;

(35) 45°45.85′ N. lat., 124°11.54′ W. long.;

(36) 45°38.53′ N. lat., 124°11.91′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.64′ N. lat., 124°20.07′ W. long.;

(43) 44°39.24′ N. lat., 124°28.09′ W. long.;

(44) 44°30.61′ N. lat., 124°31.66′ W. long.;

(45) 44°26.19′ N. lat., 124°35.88′ W. long.;

(46) 44°18.88′ N. lat., 124°45.16′ W. long.;

(47) 44°14.69′ N. lat., 124°45.51′ W. long.;

(48) 44°10.97′ N. lat., 124°38.78′ W. long.;

(49) 44°08.71′ N. lat., 124°33.54′ W. long.;

(50) 44°04.92′ N. lat., 124°24.55′ W. long.;

(51) 43°57.49′ N. lat., 124°20.05′ W. long.;

(52) 43°50.26′ N. lat., 124°21.84′ W. long.;

(53) 43°41.69′ N. lat., 124°21.94′ W. long.;

(54) 43°35.52′ N. lat., 124°21.51′ W. long.;

(55) 43°25.77′ N. lat., 124°28.47′ W. long.;

(56) 43°20.25′ N. lat., 124°31.59′ W. long.;

(57) 43°12.73′ N. lat., 124°36.69′ W. long.;

(58) 43°08.08′ N. lat., 124°36.10′ W. long.;

(59) 43°00.33′ N. lat., 124°37.57′ W. long.;

(60) 42°53.99′ N. lat., 124°41.04′ W. long.;

(61) 42°46.66′ N. lat., 124°41.13′ W. long.;

(62) 42°41.74′ N. lat., 124°37.46′ W. long.;

(63) 42°37.42′ N. lat., 124°37.22′ W. long.;

(64) 42°27.35′ N. lat., 124°39.90′ W. long.;

(65) 42°23.94′ N. lat., 124°38.28′ W. long.;

(66) 42°17.72′ N. lat., 124°31.10′ W. long.;

(67) 42°10.35′ N. lat., 124°29.11′ W. long.;

(68) 42°00.00′ N. lat., 124°28.00′ W. long.;

(69) 42°00.00′ N. lat., 124°29.61′ W. long.;

(70) 41°54.87′ N. lat., 124°28.50′ W. long.;

(71) 41°45.80′ N. lat., 124°23.89′ W. long.;

(72) 41°34.40′ N. lat., 124°24.03′ W. long.;

(73) 41°28.33′ N. lat., 124°25.46′ W. long.;

(74) 41°15.80′ N. lat., 124°18.90′ W. long.;

(75) 41°09.77′ N. lat., 124°17.99′ W. long.;

(76) 41°02.26′ N. lat., 124°18.71′ W. long.;

(77) 40°53.54′ N. lat., 124°21.18′ W. long.;

(78) 40°49.93′ N. lat., 124°23.02′ W. long.;

(79) 40°43.15′ N. lat., 124°28.74′ W. long.;

(80) 40°40.19′ N. lat., 124°29.07′ W. long.;

(81) 40°36.77′ N. lat., 124°27.61′ W. long.;

(82) 40°34.13′ N. lat., 124°29.39′ W. long.;

(83) 40°33.15′ N. lat., 124°33.46′ W. long.;

(84) 40°29.57′ N. lat., 124°35.84′ W. long.;

(85) 40°24.72′ N. lat., 124°33.06′ W. long.;

(86) 40°23.91′ N. lat., 124°31.28′ W. long.;

(87) 40°23.67′ N. lat., 124°28.35′ W. long.;

(88) 40°22.53′ N. lat., 124°24.72′ W. long.;

(89) 40°21.51′ N. lat., 124°24.86′ W. long.;

(90) 40°21.02′ N. lat., 124°27.70′ W. long.;

(91) 40°19.75′ N. lat., 124°27.06′ W. long.;

(92) 40°18.23′ N. lat., 124°25.30′ W. long.;

(93) 40°18.60′ N. lat., 124°22.86′ W. long.;

(94) 40°15.43′ N. lat., 124°25.37′ W. long.;

(95) 40°15.55′ N. lat., 124°28.16′ W. long.;

(96) 40°11.27′ N. lat., 124°22.56′ W. long.;

(97) 40°10.00′ N. lat., 124°19.97′ W. long.;

(98) 40°09.20′ N. lat., 124°15.81′ W. long.;

(99) 40°07.51′ N. lat., 124°15.29′ W. long.;

(100) 40°05.22′ N. lat., 124°10.06′ W. long.;

(101) 40°06.51′ N. lat., 124°08.01′ W. long.;

(102) 40°00.72′ N. lat., 124°08.45′ W. long.;

(103) 39°56.60′ N. lat., 124°07.12′ W. long.;

(104) 39°52.58′ N. lat., 124°03.57′ W. long.;

(105) 39°50.65′ N. lat., 123°57.98′ W. long.;

(106) 39°40.16′ N. lat., 123°52.41′ W. long.;

(107) 39°30.12′ N. lat., 123°52.92′ W. long.;

(108) 39°24.53′ N. lat., 123°55.16′ W. long.;

(109) 39°11.58′ N. lat., 123°50.93′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°36.73′ N. lat., 122°58.48′ W. long.;

(117) 37°07.58′ N. lat., 122°37.64′ W. long.;

(118) 37°02.08′ N. lat., 122°25.49′ W. long.;

(119) 36°48.20′ N. lat., 122°03.32′ W. long.;

(120) 36°51.46′ N. lat., 121°57.54′ W. long.;

(121) 36°44.14′ N. lat., 121°58.10′ W. long.;

(122) 36°36.76′ N. lat., 122°01.16′ W. long.;

(123) 36°15.62′ N. lat., 121°57.13′ W. long.;

(124) 36°10.42′ N. lat., 121°42.90′ W. long.;

(125) 36°02.55′ N. lat., 121°36.35′ W. long.;

(126) 36°01.04′ N. lat., 121°36.47′ W. long.;

(127) 35°58.25′ N. lat., 121°32.88′ W. long.;

(128) 35°40.38′ N. lat., 121°22.59′ W. long.;

(129) 35°24.35′ N. lat., 121°02.53′ W. long.;

(130) 35°02.66′ N. lat., 120°51.63′ W. long.;

(131) 34°39.52′ N. lat., 120°48.72′ W. long.;

(132) 34°31.26′ N. lat., 120°44.12′ W. long.;

(133) 34°27.00′ N. lat., 120°36.00′ W. long.;

(134) 34°23.00′ N. lat., 120°25.32′ W. long.;

(135) 34°25.68′ N. lat., 120°17.46′ W. long.;

(136) 34°23.18′ N. lat., 119°56.17′ W. long.;

(137) 34°18.73′ N. lat., 119°41.89′ W. long.;

(138) 34°11.18′ N. lat., 119°31.21′ W. long.;

(139) 34°10.01′ N. lat., 119°25.84′ W. long.;

(140) 34°03.88′ N. lat., 119°12.46′ W. long.;

(141) 34°03.58′ N. lat., 119°06.71′ W. long.;

(142) 34°04.52′ N. lat., 119°04.89′ W. long.;

(143) 34°01.28′ N. lat., 119°00.27′ W. long.;

(144) 34°00.20′ N. lat., 119°03.18′ W. long.;

(145) 33°59.60′ N. lat., 119°03.14′ W. long.;

(146) 33°59.45′ N. lat., 119°00.87′ W. long.;

(147) 34°00.71′ N. lat., 118°59.07′ W. long.;

(148) 33°59.05′ N. lat., 118°47.34′ W. long.;

(149) 33°59.06′ N. lat., 118°36.30′ W. long.;

(150) 33°55.05′ N. lat., 118°32.85′ W. long.;

(151) 33°53.56′ N. lat., 118°37.73′ W. long.;

(152) 33°51.22′ N. lat., 118°36.13′ W. long.;

(153) 33°50.19′ N. lat., 118°32.19′ W. long.;

(154) 33°51.28′ N. lat., 118°29.12′ W. long.;

(155) 33°49.89′ N. lat., 118°28.04′ W. long.;

(156) 33°49.95′ N. lat., 118°26.38′ W. long.;

(157) 33°50.73′ N. lat., 118°26.16′ W. long.;

(158) 33°49.87′ N. lat., 118°24.37′ W. long.;

(159) 33°47.54′ N. lat., 118°29.65′ W. long.;

(160) 33°44.10′ N. lat., 118°25.25′ W. long.;

(161) 33°41.77′ N. lat., 118°20.32′ W. long.;

(162) 33°38.17′ N. lat., 118°15.69′ W. long.;

(163) 33°37.48′ N. lat., 118°16.72′ W. long.;

(164) 33°35.98′ N. lat., 118°16.54′ W. long.;

(165) 33°34.15′ N. lat., 118°11.22′ W. long.;

(166) 33°34.09′ N. lat., 118°08.15′ W. long.;

(167) 33°35.73′ N. lat., 118°05.01′ W. long.;

(168) 33°33.75′ N. lat., 117°59.82′ W. long.;

(169) 33°35.44′ N. lat., 117°55.65′ W. long.;

(170) 33°35.15′ N. lat., 117°53.54′ W. long.;

(171) 33°31.12′ N. lat., 117°47.39′ W. long.;

(172) 33°27.49′ N. lat., 117°44.85′ W. long.;

(173) 33°16.42′ N. lat., 117°32.92′ W. long.;

(174) 33°06.66′ N. lat., 117°21.59′ W. long.;

(175) 33°00.08′ N. lat., 117°19.02′ W. long.;

(176) 32°56.11′ N. lat., 117°18.41′ W. long.;

(177) 32°54.43′ N. lat., 117°16.93′ W. long.;

(178) 32°51.89′ N. lat., 117°16.42′ W. long.;

(179) 32°52.61′ N. lat., 117°19.50′ W. long.;

(180) 32°46.96′ N. lat., 117°22.69′ W. long.;

(181) 32°44.98′ N. lat., 117°21.87′ W. long.;

(182) 32°43.52′ N. lat., 117°19.32′ W. long.; and

(183) 32°33.56′ N. lat., 117°17.72′ W. long.

(A) The 60 fm (110 m) depth contour around the northern Channel Islands off the state of California is defined by straight lines connecting all of the following points in the order stated:

(1) 34°08.80′ N. lat., 120°34.58′ W. long.;

(2) 34°09.16′ N. lat., 120°26.31′ W. long.;

(3) 34°06.69′ N. lat., 120°16.43′ W. long.;

(4) 34°06.38′ N. lat., 120°04.00′ W. long.;

(5) 34°07.36′ N. lat., 119°52.06′ W. long.;

(6) 34°04.84′ N. lat., 119°36.94′ W. long.;

(7) 34°04.84′ N. lat., 119°35.50′ W. long.;

(8) 34°06.20′ N. lat., 119°35.50′ W. long.;

(9) 34°06.20′ N. lat., 119°32.80′ W. long.;

(10) 34°05.04′ N. lat., 119°32.80′ W. long.;

(11) 34°04.00′ N. lat., 119°26.70′ W. long.;

(12) 34°04.00′ N. lat., 119°21.40′ W. long.;

(13) 34°28.00′ N. lat., 119°21.40′ W. long.;

(14) 34°02.36′ N. lat., 119°18.97′ W. long.;

(15) 34°00.65′ N. lat., 119°19.42′ W. long.;

(16) 33°59.45′ N. lat., 119°22.38′ W. long.;

(17) 33°58.68′ N. lat., 119°32.36′ W. long.;

(18) 33°56.14′ N. lat., 119°41.09′ W. long.;

(19) 33°55.84′ N. lat., 119°48.00′ W. long.;

(20) 33°55.20′ N. lat., 119°48.00′ W. long.;

(21) 33°55.20′ N. lat., 119°53.00′ W. long.;

(22) 33°58.00′ N. lat., 119°53.00′ W. long.;

(23) 33°59.32′ N. lat., 119°55.59′ W. long.;

(24) 33°57.52′ N. lat., 119°55.19′ W. long.;

(25) 33°56.10′ N. lat., 119°54.25′ W. long.;

(26) 33°50.28′ N. lat., 119°56.02′ W. long.;

(27) 33°48.51′ N. lat., 119°59.67′ W. long.;

(28) 33°49.14′ N. lat., 120°03.58′ W. long.;

(29) 33°51.93′ N. lat., 120°06.50′ W. long.;

(30) 33°51.40′ N. lat., 120°06.50′ W. long.;

(31) 33°51.40′ N. lat., 120°10.00′ W. long.;

(32) 33°53.16′ N. lat., 120°10.00′ W. long.;

(33) 33°54.36′ N. lat., 120°13.06′ W. long.;

(34) 33°58.53′ N. lat., 120°20.46′ W. long.;

(35) 33°59.52′ N. lat., 120°25.30′ W. long.;

(36) 33°58.50′ N. lat., 120°25.30′ W. long.;

(37) 33°58.50′ N. lat., 120°26.60′ W. long.;

(38) 33°59.84′ N. lat., 120°26.60′ W. long.;

(39) 34°00.12′ N. lat., 120°28.12′ W. long.;

(40) 34°03.60′ N. lat., 120°31.46′ W. long.;

(41) 34°03.60′ N. lat., 120°34.20′ W. long.;

(42) 34°06.41′ N. lat., 120°34.20′ W. long.;

(43) 34°08.09′ N. lat., 120°35.85′ W. long.; and

(44) 34°08.80′ N. lat., 120°34.58′ W. long.

(B) The 60 fm (110 m) depth contour around San Clemente Island off the state of California is defined by straight lines connecting all of the following points in the order stated:

(1) 33°04.06′ N. lat., 118°37.32′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.31′ N. lat., 118°38.74′ W. long.; and

(14) 33°04.06′ N. lat., 118°37.32′ W. long.

(C) The 60 fm (110 m) depth contour around Santa Catalina Island off the state of California is defined by straight lines connecting all of the following points in the order stated:

(1) 33°28.15′ N. lat., 118°37.85′ W. long.;

(2) 33°29.23′ N. lat., 118°36.27′ W. long.;

(3) 33°28.85′ N. lat., 118°30.85′ W. long.;

(4) 33°26.69′ N. lat., 118°27.37′ W. long.;

(5) 33°25.35′ N. lat., 118°22.83′ W. long.;

(6) 33°22.60′ N. lat., 118°18.82′ W. long.;

(7) 33°19.49′ N. lat., 118°16.91′ W. long.;

(8) 33°17.13′ N. lat., 118°16.58′ W. long.;

(9) 33°16.72′ N. lat., 118°18.07′ W. long.;

(10) 33°18.35′ N. lat., 118°27.86′ W. long.;

(11) 33°20.03′ N. lat., 118°32.04′ W. long.;

(12) 33°21.86′ N. lat., 118°31.72′ W. long.;

(13) 33°23.15′ N. lat., 118°29.89′ W. long.;

(14) 33°25.13′ N. lat., 118°32.16′ W. long.;

(15) 33°25.73′ N. lat., 118°34.88′ W. long.; and

(16) 33°28.15′ N. lat., 118°37.85′ W. long.

(vi) The 75 fm (137 m) depth contour used between the U.S. border with Canada and the U.S. border with Mexico is defined by straight lines connecting all of the following points in the order stated:

(1) 48°16.08′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

(23) 47°54.00′ N. lat., 125°04.98′ W. long.;

(24) 47°44.52′ N. lat., 125°00.00′ W. long.;

(25) 47°42.00′ N. lat., 124°58.98′ W. long.;

(26) 47°35.52′ N. lat., 124°55.50′ W. long.;

(27) 47°22.02′ N. lat., 124°44.40′ W. long.;

(28) 47°16.98′ N. lat., 124°45.48′ W. long.;

(29) 47°10.98′ N. lat., 124°48.48′ W. long.;

(30) 47°04.98′ N. lat., 124°49.02′ W. long.;

(31) 46°57.98′ N. lat., 124°46.50′ W. long.;

(32) 46°54.00′ N. lat., 124°45.00′ W. long.;

(33) 46°48.48′ N. lat., 124°44.52′ W. long.;

(34) 46°40.02′ N. lat., 124°36.00′ W. long.;

(35) 46°34.09′ N. lat., 124°27.03′ W. long.;

(36) 46°24.64′ N. lat., 124°30.33′ W. long.;

(37) 46°19.98′ N. lat., 124°36.00′ W. long.;

(38) 46°18.14′ N. lat., 124°34.26′ W. long.;

(39) 46°18.72′ N. lat., 124°22.68′ W. long.;

(40) 46°16.00′ N. lat., 124°19.49′ W. long.;

(41) 46°14.64′ N. lat., 124°22.54′ W. long.;

(42) 46°11.08′ N. lat., 124°30.74′ W. long.;

(43) 46°04.28′ N. lat., 124°31.49′ W. long.;

(44) 45°55.97′ N. lat., 124°19.95′ W. long.;

(45) 45°44.97′ N. lat., 124°15.96′ W. long.;

(46) 45°43.14′ N. lat., 124°21.86′ W. long.;

(47) 45°34.44′ N. lat., 124°14.44′ W. long.;

(48) 45°15.49′ N. lat., 124°11.49′ W. long.;

(49) 44°57.31′ N. lat., 124°15.03′ W. long.;

(50) 44°43.90′ N. lat., 124°28.88′ W. long.;

(51) 44°28.64′ N. lat., 124°35.67′ W. long.;

(52) 44°25.31′ N. lat., 124°43.08′ W. long.;

(53) 44°17.15′ N. lat., 124°47.98′ W. long.;

(54) 44°13.67′ N. lat., 124°54.41′ W. long.;

(55) 43°56.85′ N. lat., 124°55.32′ W. long.;

(56) 43°57.50′ N. lat., 124°41.23′ W. long.;

(57) 44°01.79′ N. lat., 124°38.00′ W. long.;

(58) 44°02.16′ N. lat., 124°32.62′ W. long.;

(59) 43°58.15′ N. lat., 124°30.39′ W. long.;

(60) 43°53.25′ N. lat., 124°31.39′ W. long.;

(61) 43°35.56′ N. lat., 124°28.17′ W. long.;

(62) 43°21.84′ N. lat., 124°36.07′ W. long.;

(63) 43°19.73′ N. lat., 124°34.86′ W. long.;

(64) 43°09.38′ N. lat., 124°39.30′ W. long.;

(65) 43°07.11′ N. lat., 124°37.66′ W. long.;

(66) 42°56.27′ N. lat., 124°43.29′ W. long.;

(67) 42°45.00′ N. lat., 124°41.50′ W. long.;

(68) 42°39.72′ N. lat., 124°39.11′ W. long.;

(69) 42°32.88′ N. lat., 124°40.13′ W. long.;

(70) 42°32.30′ N. lat., 124°39.04′ W. long.;

(71) 42°26.96′ N. lat., 124°44.31′ W. long.;

(72) 42°24.11′ N. lat., 124°42.16′ W. long.;

(73) 42°21.10′ N. lat., 124°35.46′ W. long.;

(74) 42°14.72′ N. lat., 124°32.30′ W. long.;

(75) 42°09.24′ N. lat., 124°32.04′ W. long.;

(76) 42°01.89′ N. lat., 124°32.70′ W. long.;

(77) 42°00.03′ N. lat., 124°32.02′ W. long.;

(78) 42°00.00′ N. lat., 124°32.02′ W. long.;

(79) 41°46.18′ N. lat., 124°26.60′ W. long.;

(80) 41°29.22′ N. lat., 124°28.04′ W. long.;

(81) 41°09.62′ N. lat., 124°19.75′ W. long.;

(82) 40°50.71′ N. lat., 124°23.80′ W. long.;

(83) 40°43.35′ N. lat., 124°29.30′ W. long.;

(84) 40°40.24′ N. lat., 124°29.86′ W. long.;

(85) 40°37.50′ N. lat., 124°28.68′ W. long.;

(86) 40°34.42′ N. lat., 124°29.65′ W. long.;

(87) 40°34.74′ N. lat., 124°34.61′ W. long.;

(88) 40°31.70′ N. lat., 124°37.13′ W. long.;

(89) 40°25.03′ N. lat., 124°34.77′ W. long.;

(90) 40°23.58′ N. lat., 124°31.49′ W. long.;

(91) 40°23.64′ N. lat., 124°28.35′ W. long.;

(92) 40°22.53′ N. lat., 124°24.76′ W. long.;

(93) 40°21.46′ N. lat., 124°24.86′ W. long.;

(94) 40°21.74′ N. lat., 124°27.63′ W. long.;

(95) 40°19.76′ N. lat., 124°28.15′ W. long.;

(96) 40°18.00′ N. lat., 124°25.38′ W. long.;

(97) 40°18.54′ N. lat., 124°22.94′ W. long.;

(98) 40°15.55′ N. lat., 124°25.75′ W. long.;

(99) 40°16.06′ N. lat., 124°30.48′ W. long.;

(100) 40°15.75′ N. lat., 124°31.69′ W. long.;

(101) 40°10.00′ N. lat., 124°21.28′ W. long.;

(102) 40°08.37′ N. lat., 124°17.99′ W. long.;

(103) 40°09.00′ N. lat., 124°15.77′ W. long.;

(104) 40°06.93′ N. lat., 124°16.49′ W. long.;

(105) 40°03.60′ N. lat., 124°11.60′ W. long.;

(106) 40°06.20′ N. lat., 124°08.23′ W. long.;

(107) 40°00.94′ N. lat., 124°08.57′ W. long.;

(108) 40°00.01′ N. lat., 124°09.84′ W. long.;

(109) 39°57.75′ N. lat., 124°09.53′ W. long.;

(110) 39°55.56′ N. lat., 124°07.67′ W. long.;

(111) 39°52.21′ N. lat., 124°05.54′ W. long.;

(112) 39°48.07′ N. lat., 123°57.48′ W. long.;

(113) 39°41.60′ N. lat., 123°55.12′ W. long.;

(114) 39°30.39′ N. lat., 123°55.03′ W. long.;

(115) 39°29.48′ N. lat., 123°56.12′ W. long.;

(116) 39°13.76′ N. lat., 123°54.65′ W. long.;

(117) 39°05.21′ N. lat., 123°55.38′ W. long.;

(118) 38°55.90′ N. lat., 123°54.35′ W. long.;

(119) 38°48.59′ N. lat., 123°49.61′ W. long.;

(120) 38°28.82′ N. lat., 123°27.44′ W. long.;

(121) 38°09.70′ N. lat., 123°18.66′ W. long.;

(122) 38°01.81′ N. lat., 123°19.22′ W. long.;

(123) 38°04.67′ N. lat., 123°25.85′ W. long.;

(124) 38°04.33′ N. lat., 123°29.68′ W. long.;

(125) 38°02.38′ N. lat., 123°30.13′ W. long.;

(126) 38°00.00′ N. lat., 123°27.84′ W. long.;

(127) 37°56.73′ N. lat., 123°25.22′ W. long.;

(128) 37°55.59′ N. lat., 123°25.62′ W. long.;

(129) 37°52.79′ N. lat., 123°23.85′ W. long.;

(130) 37°49.13′ N. lat., 123°18.83′ W. long.;

(131) 37°46.01′ N. lat., 123°12.28′ W. long.;

(132) 37°36.12′ N. lat., 123°00.33′ W. long.;

(133) 37°03.52′ N. lat., 122°37.57′ W. long.;

(134) 36°59.69′ N. lat., 122°27.32′ W. long.;

(135) 37°01.41′ N. lat., 122°24.41′ W. long.;

(136) 36°58.75′ N. lat., 122°23.81′ W. long.;

(137) 36°59.17′ N. lat., 122°21.44′ W. long.;

(138) 36°57.51′ N. lat., 122°20.69′ W. long.;

(139) 36°51.46′ N. lat., 122°10.01′ W. long.;

(140) 36°48.43′ N. lat., 122°06.47′ W. long.;

(141) 36°48.66′ N. lat., 122°04.99′ W. long.;

(142) 36°47.75′ N. lat., 122°03.33′ W. long.;

(143) 36°51.23′ N. lat., 121°57.79′ W. long.;

(144) 36°49.72′ N. lat., 121°57.87′ W. long.;

(145) 36°48.84′ N. lat., 121°58.68′ W. long.;

(146) 36°47.89′ N. lat., 121°58.53′ W. long.;

(147) 36°48.66′ N. lat., 121°50.49′ W. long.;

(148) 36°45.56′ N. lat., 121°54.11′ W. long.;

(149) 36°45.30′ N. lat., 121°57.62′ W. long.;

(150) 36°38.54′ N. lat., 122°01.13′ W. long.;

(151) 36°35.76′ N. lat., 122°00.87′ W. long.;

(152) 36°32.58′ N. lat., 121°59.12′ W. long.;

(153) 36°32.95′ N. lat., 121°57.62′ W. long.;

(154) 36°31.96′ N. lat., 121°56.27′ W. long.;

(155) 36°31.74′ N. lat., 121°58.24′ W. long.;

(156) 36°30.57′ N. lat., 121°59.66′ W. long.;

(157) 36°27.80′ N. lat., 121°59.30′ W. long.;

(158) 36°26.52′ N. lat., 121°58.09′ W. long.;

(159) 36°23.65′ N. lat., 121°58.94′ W. long.;

(160) 36°20.93′ N. lat., 122°00.28′ W. long.;

(161) 36°18.23′ N. lat., 122°03.10′ W. long.;

(162) 36°14.21′ N. lat., 121°57.73′ W. long.;

(163) 36°14.68′ N. lat., 121°55.43′ W. long.;

(164) 36°10.42′ N. lat., 121°42.90′ W. long.;

(165) 36°02.55′ N. lat., 121°36.35′ W. long.;

(166) 36°01.04′ N. lat., 121°36.47′ W. long.;

(167) 35°58.25′ N. lat., 121°32.88′ W. long.;

(168) 35°39.35′ N. lat., 121°22.63′ W. long.;

(169) 35°24.44′ N. lat., 121°02.23′ W. long.;

(170) 35°10.84′ N. lat., 120°55.90′ W. long.;

(171) 35°04.35′ N. lat., 120°51.62′ W. long.;

(172) 34°55.25′ N. lat., 120°49.36′ W. long.;

(173) 34°47.95′ N. lat., 120°50.76′ W. long.;

(174) 34°39.27′ N. lat., 120°49.16′ W. long.;

(175) 34°31.05′ N. lat., 120°44.71′ W. long.;

(176) 34°27.00′ N. lat., 120°36.54′ W. long.;

(177) 34°22.60′ N. lat., 120°25.41′ W. long.;

(178) 34°25.45′ N. lat., 120°17.41′ W. long.;

(179) 34°22.94′ N. lat., 119°56.40′ W. long.;

(180) 34°18.37′ N. lat., 119°42.01′ W. long.;

(181) 34°11.22′ N. lat., 119°32.47′ W. long.;

(182) 34°09.58′ N. lat., 119°25.94′ W. long.;

(183) 34°03.89′ N. lat., 119°12.47′ W. long.;

(184) 34°03.57′ N. lat., 119°06.72′ W. long.;

(185) 34°04.53′ N. lat., 119°04.90′ W. long.;

(186) 34°02.84′ N. lat., 119°02.37′ W. long.;

(187) 34°01.30′ N. lat., 119°00.26′ W. long.;

(188) 34°00.22′ N. lat., 119°03.20′ W. long.;

(189) 33°59.60′ N. lat., 119°03.16′ W. long.;

(190) 33°59.46′ N. lat., 119°00.88′ W. long.;

(191) 34°00.49′ N. lat., 118°59.08′ W. long.;

(192) 33°59.07′ N. lat., 118°47.34′ W. long.;

(193) 33°58.73′ N. lat., 118°36.45′ W. long.;

(194) 33°55.24′ N. lat., 118°33.42′ W. long.;

(195) 33°53.71′ N. lat., 118°38.01′ W. long.;

(196) 33°51.22′ N. lat., 118°36.17′ W. long.;

(197) 33°49.85′ N. lat., 118°32.31′ W. long.;

(198) 33°49.61′ N. lat., 118°28.07′ W. long.;

(199) 33°49.95′ N. lat., 118°26.38′ W. long.;

(200) 33°50.36′ N. lat., 118°25.84′ W. long.;

(201) 33°49.84′ N. lat., 118°24.78′ W. long.;

(202) 33°47.53′ N. lat., 118°30.12′ W. long.;

(203) 33°44.11′ N. lat., 118°25.25′ W. long.;

(204) 33°41.77′ N. lat., 118°20.32′ W. long.;

(205) 33°38.17′ N. lat., 118°15.70′ W. long.;

(206) 33°37.48′ N. lat., 118°16.73′ W. long.;

(207) 33°36.01′ N. lat., 118°16.55′ W. long.;

(208) 33°33.76′ N. lat., 118°11.37′ W. long.;

(209) 33°33.76′ N. lat., 118°07.94′ W. long.;

(210) 33°35.59′ N. lat., 118°05.05′ W. long.;

(211) 33°33.75′ N. lat., 117°59.82′ W. long.;

(212) 33°35.10′ N. lat., 117°55.68′ W. long.;

(213) 33°34.91′ N. lat., 117°53.76′ W. long.;

(214) 33°30.77′ N. lat., 117°47.56′ W. long.;

(215) 33°27.50′ N. lat., 117°44.87′ W. long.;

(216) 33°16.89′ N. lat., 117°34.37′ W. long.;

(217) 33°06.66′ N. lat., 117°21.59′ W. long.;

(218) 33°03.35′ N. lat., 117°20.92′ W. long.;

(219) 33°00.07′ N. lat., 117°19.02′ W. long.;

(220) 32°55.99′ N. lat., 117°18.60′ W. long.;

(221) 32°54.43′ N. lat., 117°16.93′ W. long.;

(222) 32°52.13′ N. lat., 117°16.55′ W. long.;

(223) 32°52.61′ N. lat., 117°19.50′ W. long.;

(224) 32°46.95′ N. lat., 117°22.81′ W. long.;

(225) 32°45.01′ N. lat., 117°22.07′ W. long.;

(226) 32°43.40′ N. lat., 117°19.80′ W. long.; and

(227) 32°33.74′ N. lat., 117°18.67′ W. long.

(A) The 75 fm (137 m) depth contour around the northern Channel Islands off the state of California is defined by straight lines connecting all of the following points in the order stated:

(1) 34°09.12′ N. lat., 120°35.03′ W. long.;

(2) 34°09.99′ N. lat., 120°27.85′ W. long.;

(3) 34°07.19′ N. lat., 120°16.28′ W. long.;

(4) 34°06.56′ N. lat., 120°04.00′ W. long.;

(5) 34°07.27′ N. lat., 119°57.76′ W. long.;

(6) 34°07.48′ N. lat., 119°52.08′ W. long.;

(7) 34°05.18′ N. lat., 119°37.94′ W. long.;

(8) 34°05.22′ N. lat., 119°35.52′ W. long.;

(9) 34°06.18′ N. lat., 119°35.50′ W. long.;

(10) 34°06.16′ N. lat., 119°32.76′ W. long.;

(11) 34°05.12′ N. lat., 119°32.74′ W. long.;

(12) 34°04.32′ N. lat., 119°27.32′ W. long.;

(13) 34°04.06′ N. lat., 119°26.60′ W. long.;

(14) 34°04.00′ N. lat., 119°21.34′ W. long.;

(15) 34°03.00′ N. lat., 119°21.36′ W. long.;

(16) 34°02.32′ N. lat., 119°18.46′ W. long.;

(17) 34°00.65′ N. lat., 119°19.42′ W. long.;

(18) 33°59.45′ N. lat., 119°22.38′ W. long.;

(19) 33°58.68′ N. lat., 119°32.36′ W. long.;

(20) 33°56.12′ N. lat., 119°41.10′ W. long.;

(21) 33°55.74′ N. lat., 119°48.00′ W. long.;

(22) 33°55.21′ N. lat., 119°48.00′ W. long.;

(23) 33°55.21′ N. lat., 119°53.00′ W. long.;

(24) 33°57.78′ N. lat., 119°53.04′ W. long.;

(25) 33°59.06′ N. lat., 119°55.38′ W. long.;

(26) 33°57.57′ N. lat., 119°54.93′ W. long.;

(27) 33°56.35′ N. lat., 119°53.91′ W. long.;

(28) 33°54.43′ N. lat., 119°54.07′ W. long.;

(29) 33°52.67′ N. lat., 119°54.78′ W. long.;

(30) 33°48.33′ N. lat., 119°55.09′ W. long.;

(31) 33°47.28′ N. lat., 119°57.30′ W. long.;

(32) 33°47.36′ N. lat., 120°00.39′ W. long.;

(33) 33°49.16′ N. lat., 120°05.06′ W. long.;

(34) 33°51.41′ N. lat., 120°06.49′ W. long.;

(35) 33°51.41′ N. lat., 120°10.00′ W. long.;

(36) 33°52.99′ N. lat., 120°10.01′ W. long.;

(37) 33°56.64′ N. lat., 120°18.88′ W. long.;

(38) 33°58.02′ N. lat., 120°21.41′ W. long.;

(39) 33°58.73′ N. lat., 120°25.22′ W. long.;

(40) 33°58.49′ N. lat., 120°25.22′ W. long.;

(41) 33°58.48′ N. lat., 120°26.55′ W. long.;

(42) 33°59.08′ N. lat., 120°26.58′ W. long.;

(43) 33°59.95′ N. lat., 120°28.21′ W. long.;

(44) 34°03.54′ N. lat., 120°32.23′ W. long.;

(45) 34°03.54′ N. lat., 120°34.19′ W. long.;

(46) 34°05.57′ N. lat., 120°34.23′ W. long.;

(47) 34°08.13′ N. lat., 120°36.05′ W. long.; and

(48) 34°09.12′ N. lat., 120°35.03′ W. long.

(B) The 75 fm (137 m) depth contour around San Clemente Island off the state of California is defined by straight lines connecting all of the following points in the order stated:

(1) 33°04.54′ N. lat., 118°37.54′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.41′ N. lat., 118°21.98′ W. long.;

(8) 32°44.39′ N. lat., 118°24.49′ W. long.;

(9) 32°47.93′ N. lat., 118°29.90′ W. long.;

(10) 32°49.69′ N. lat., 118°31.52′ W. long.;

(11) 32°53.57′ N. lat., 118°33.09′ W. long.;

(12) 32°55.42′ N. lat., 118°35.17′ W. long.;

(13) 33°00.49′ N. lat., 118°38.56′ W. long.;

(14) 33°03.23′ N. lat., 118°39.16′ W. long.; and

(15) 33°04.54′ N. lat., 118°37.54′ W. long.

(C) The 75 fm (137 m) depth contour around Santa Catalina Island off the state of California is defined by straight lines connecting all of the following points in the order stated:

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.31′ N. lat., 118°25.14′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.12′ W. long.;

(13) 33°21.77′ N. lat., 118°31.85′ W. long.;

(14) 33°23.15′ N. lat., 118°29.99′ W. long.;

(15) 33°24.96′ N. lat., 118°32.21′ W. long.;

(16) 33°25.67′ N. lat., 118°34.88′ W. long.;

(17) 33°27.80′ N. lat., 118°37.90′ W. long.; and

(18) 33°28.17′ N. lat., 118°38.16′ W. long.

(vii) The 100 fm (183 m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°41.75′ N. lat., 124°28.12′ W. long.;

(96) 45°36.96′ N. lat., 124°24.48′ W. long.;

(97) 45°31.84′ N. lat., 124°22.04′ W. long.;

(98) 45°27.10′ N. lat., 124°21.74′ W. long.;

(99) 45°18.14′ N. lat., 124°17.59′ W. long.;

(100) 45°11.08′ N. lat., 124°16.97′ W. long.;

(101) 45°04.38′ N. lat., 124°18.36′ W. long.;

(102) 44°58.05′ N. lat., 124°21.58′ W. long.;

(103) 44°47.67′ N. lat., 124°31.41′ W. long.;

(104) 44°44.55′ N. lat., 124°33.58′ W. long.;

(105) 44°39.88′ N. lat., 124°35.01′ W. long.;

(106) 44°32.90′ N. lat., 124°36.81′ W. long.;

(107) 44°30.33′ N. lat., 124°38.56′ W. long.;

(108) 44°30.04′ N. lat., 124°42.31′ W. long.;

(109) 44°26.84′ N. lat., 124°44.91′ W. long.;

(110) 44°17.99′ N. lat., 124°51.03′ W. long.;

(111) 44°13.68′ N. lat., 124°56.38′ W. long.;

(112) 43°56.67′ N. lat., 124°55.45′ W. long.;

(113) 43°56.47′ N. lat., 124°34.61′ W. long.;

(114) 43°42.73′ N. lat., 124°32.41′ W. long.;

(115) 43°30.93′ N. lat., 124°34.43′ W. long.;

(116) 43°17.45′ N. lat., 124°41.16′ W. long.;

(117) 43°07.04′ N. lat., 124°41.25′ W. long.;

(118) 43°03.45′ N. lat., 124°44.36′ W. long.;

(119) 43°03.90′ N. lat., 124°50.81′ W. long.;

(120) 42°55.70′ N. lat., 124°52.79′ W. long.;

(121) 42°54.12′ N. lat., 124°47.36′ W. long.;

(122) 42°44.00′ N. lat., 124°42.38′ W. long.;

(123) 42°38.23′ N. lat., 124°41.25′ W. long.;

(124) 42°33.03′ N. lat., 124°42.38′ W. long.;

(125) 42°31.89′ N. lat., 124°42.04′ W. long.;

(126) 42°30.09′ N. lat., 124°42.67′ W. long.;

(127) 42°28.28′ N. lat., 124°47.08′ W. long.;

(128) 42°25.22′ N. lat., 124°43.51′ W. long.;

(129) 42°19.23′ N. lat., 124°37.92′ W. long.;

(130) 42°16.29′ N. lat., 124°36.11′ W. long.;

(131) 42°05.66′ N. lat., 124°34.92′ W. long.;

(132) 42°00.00′ N. lat., 124°35.27′ W. long.;

(133) 42°00.00′ N. lat., 124°35.26′ W. long.;

(134) 41°47.04′ N. lat., 124°27.64′ W. long.;

(135) 41°32.92′ N. lat., 124°28.79′ W. long.;

(136) 41°24.17′ N. lat., 124°28.46′ W. long.;

(137) 41°10.12′ N. lat., 124°20.50′ W. long.;

(138) 40°51.41′ N. lat., 124°24.38′ W. long.;

(139) 40°43.71′ N. lat., 124°29.89′ W. long.;

(140) 40°40.14′ N. lat., 124°30.90′ W. long.;

(141) 40°37.35′ N. lat., 124°29.05′ W. long.;

(142) 40°34.76′ N. lat., 124°29.82′ W. long.;

(143) 40°36.78′ N. lat., 124°37.06′ W. long.;

(144) 40°32.44′ N. lat., 124°39.58′ W. long.;

(145) 40°24.82′ N. lat., 124°35.12′ W. long.;

(146) 40°23.30′ N. lat., 124°31.60′ W. long.;

(147) 40°23.52′ N. lat., 124°28.78′ W. long.;

(148) 40°22.43′ N. lat., 124°25.00′ W. long.;

(149) 40°21.72′ N. lat., 124°24.94′ W. long.;

(150) 40°21.87′ N. lat., 124°27.96′ W. long.;

(151) 40°21.40′ N. lat., 124°28.74′ W. long.;

(152) 40°19.68′ N. lat., 124°28.49′ W. long.;

(153) 40°17.73′ N. lat., 124°25.43′ W. long.;

(154) 40°18.37′ N. lat., 124°23.35′ W. long.;

(155) 40°15.75′ N. lat., 124°26.05′ W. long.;

(156) 40°16.75′ N. lat., 124°33.71′ W. long.;

(157) 40°16.29′ N. lat., 124°34.36′ W. long.;

(158) 40°10.00′ N. lat., 124°21.12′ W. long.;

(159) 40°10.00′ N. lat., 124°21.50′ W. long.;

(160) 40°07.70′ N. lat., 124°18.44′ W. long.;

(161) 40°08.84′ N. lat., 124°15.86′ W. long.;

(162) 40°06.53′ N. lat., 124°17.39′ W. long.;

(163) 40°03.15′ N. lat., 124°14.43′ W. long.;

(164) 40°02.19′ N. lat., 124°12.85′ W. long.;

(165) 40°02.89′ N. lat., 124°11.78′ W. long.;

(166) 40°02.78′ N. lat., 124°10.70′ W. long.;

(167) 40°04.57′ N. lat., 124°10.08′ W. long.;

(168) 40°06.06′ N. lat., 124°08.30′ W. long.;

(169) 40°04.05′ N. lat., 124°08.93′ W. long.;

(170) 40°01.17′ N. lat., 124°08.80′ W. long.;

(171) 40°01.03′ N. lat., 124°10.06′ W. long.;

(172) 39°58.07′ N. lat., 124°11.89′ W. long.;

(173) 39°56.39′ N. lat., 124°08.71′ W. long.;

(174) 39°54.64′ N. lat., 124°07.30′ W. long.;

(175) 39°53.86′ N. lat., 124°07.95′ W. long.;

(176) 39°51.95′ N. lat., 124°07.63′ W. long.;

(177) 39°48.78′ N. lat., 124°03.29′ W. long.;

(178) 39°47.36′ N. lat., 124°03.31′ W. long.;

(179) 39°40.08′ N. lat., 123°58.37′ W. long.;

(180) 39°36.16′ N. lat., 123°56.90′ W. long.;

(181) 39°30.75′ N. lat., 123°55.86′ W. long.;

(182) 39°31.62′ N. lat., 123°57.33′ W. long.;

(183) 39°30.91′ N. lat., 123°57.88′ W. long.;

(184) 39°01.79′ N. lat., 123°56.59′ W. long.;

(185) 38°59.42′ N. lat., 123°55.67′ W. long.;

(186) 38°58.89′ N. lat., 123°56.28′ W. long.;

(187) 38°54.72′ N. lat., 123°55.68′ W. long.;

(188) 38°48.95′ N. lat., 123°51.85′ W. long.;

(189) 38°36.67′ N. lat., 123°40.20′ W. long.;

(190) 38°33.82′ N. lat., 123°39.23′ W. long.;

(191) 38°29.02′ N. lat., 123°33.52′ W. long.;

(192) 38°18.88′ N. lat., 123°25.93′ W. long.;

(193) 38°14.12′ N. lat., 123°23.26′ W. long.;

(194) 38°11.07′ N. lat., 123°22.07′ W. long.;

(195) 38°03.19′ N. lat., 123°20.70′ W. long.;

(196) 38°06.30′ N. lat., 123°24.96′ W. long.;

(197) 38°06.34′ N. lat., 123°29.25′ W. long.;

(198) 38°04.57′ N. lat., 123°31.23′ W. long.;

(199) 38°02.32′ N. lat., 123°31.00′ W. long.;

(200) 38°00.00′ N. lat., 123°28.41′ W. long.;

(201) 37°58.08′ N. lat., 123°26.68′ W. long.;

(202) 37°55.07′ N. lat., 123°26.81′ W. long.;

(203) 37°50.66′ N. lat., 123°23.06′ W. long.;

(204) 37°45.18′ N. lat., 123°11.88′ W. long.;

(205) 37°36.21′ N. lat., 123°01.20′ W. long.;

(206) 37°15.58′ N. lat., 122°48.36′ W. long.;

(207) 37°03.18′ N. lat., 122°38.15′ W. long.;

(208) 37°00.48′ N. lat., 122°33.93′ W. long.;

(209) 36°58.70′ N. lat., 122°27.22′ W. long.;

(210) 37°00.85′ N. lat., 122°24.70′ W. long.;

(211) 36°58.00′ N. lat., 122°24.14′ W. long.;

(212) 36°58.74′ N. lat., 122°21.51′ W. long.;

(213) 36°56.97′ N. lat., 122°21.32′ W. long.;

(214) 36°51.52′ N. lat., 122°10.68′ W. long.;

(215) 36°48.39′ N. lat., 122°07.60′ W. long.;

(216) 36°47.43′ N. lat., 122°03.22′ W. long.;

(217) 36°50.95′ N. lat., 121°58.03′ W. long.;

(218) 36°49.92′ N. lat., 121°58.01′ W. long.;

(219) 36°48.88′ N. lat., 121°58.90′ W. long.;

(220) 36°47.70′ N. lat., 121°58.75′ W. long.;

(221) 36°48.37′ N. lat., 121°51.14′ W. long.;

(222) 36°45.74′ N. lat., 121°54.17′ W. long.;

(223) 36°45.51′ N. lat., 121°57.72′ W. long.;

(224) 36°38.84′ N. lat., 122°01.32′ W. long.;

(225) 36°35.62′ N. lat., 122°00.98′ W. long.;

(226) 36°32.46′ N. lat., 121°59.15′ W. long.;

(227) 36°32.79′ N. lat., 121°57.67′ W. long.;

(228) 36°31.98′ N. lat., 121°56.55′ W. long.;

(229) 36°31.79′ N. lat., 121°58.40′ W. long.;

(230) 36°30.73′ N. lat., 121°59.70′ W. long.;

(231) 36°30.31′ N. lat., 122°00.22′ W. long.;

(232) 36°29.35′ N. lat., 122°00.36′ W. long.;

(233) 36°27.66′ N. lat., 121°59.80′ W. long.;

(234) 36°26.22′ N. lat., 121°58.35′ W. long.;

(235) 36°21.20′ N. lat., 122°00.72′ W. long.;

(236) 36°20.47′ N. lat., 122°02.92′ W. long.;

(237) 36°18.46′ N. lat., 122°04.51′ W. long.;

(238) 36°15.92′ N. lat., 122°01.33′ W. long.;

(239) 36°13.76′ N. lat., 121°57.27′ W. long.;

(240) 36°14.43′ N. lat., 121°55.43′ W. long.;

(241) 36°10.24′ N. lat., 121°43.08′ W. long.;

(242) 36°07.66′ N. lat., 121°40.91′ W. long.;

(243) 36°02.49′ N. lat., 121°36.51′ W. long.;

(244) 36°01.07′ N. lat., 121°36.82′ W. long.;

(245) 35°57.84′ N. lat., 121°33.10′ W. long.;

(246) 35°50.36′ N. lat., 121°29.32′ W. long.;

(247) 35°39.03′ N. lat., 121°22.86′ W. long.;

(248) 35°24.30′ N. lat., 121°02.56′ W. long.;

(249) 35°16.53′ N. lat., 121°00.39′ W. long.;

(250) 35°04.82′ N. lat., 120°53.96′ W. long.;

(251) 34°52.51′ N. lat., 120°51.62′ W. long.;

(252) 34°43.36′ N. lat., 120°52.12′ W. long.;

(253) 34°37.64′ N. lat., 120°49.99′ W. long.;

(254) 34°30.80′ N. lat., 120°45.02′ W. long.;

(255) 34°27.00′ N. lat., 120°39.00′ W. long.;

(256) 34°21.90′ N. lat., 120°25.25′ W. long.;

(257) 34°24.86′ N. lat., 120°16.81′ W. long.;

(258) 34°22.80′ N. lat., 119°57.06′ W. long.;

(259) 34°18.59′ N. lat., 119°44.84′ W. long.;

(260) 34°15.04′ N. lat., 119°40.34′ W. long.;

(261) 34°14.40′ N. lat., 119°45.39′ W. long.;

(262) 34°12.32′ N. lat., 119°42.41′ W. long.;

(263) 34°09.71′ N. lat., 119°28.85′ W. long.;

(264) 34°04.70′ N. lat., 119°15.38′ W. long.;

(265) 34°03.33′ N. lat., 119°12.93′ W. long.;

(266) 34°02.72′ N. lat., 119°07.01′ W. long.;

(267) 34°03.90′ N. lat., 119°04.64′ W. long.;

(268) 34°01.80′ N. lat., 119°03.23′ W. long.;

(269) 33°59.32′ N. lat., 119°03.50′ W. long.;

(270) 33°59.00′ N. lat., 118°59.55′ W. long.;

(271) 33°59.51′ N. lat., 118°57.25′ W. long.;

(272) 33°58.82′ N. lat., 118°52.47′ W. long.;

(273) 33°58.54′ N. lat., 118°41.86′ W. long.;

(274) 33°55.07′ N. lat., 118°34.25′ W. long.;

(275) 33°54.28′ N. lat., 118°38.68′ W. long.;

(276) 33°51.00′ N. lat., 118°36.66′ W. long.;

(277) 33°39.77′ N. lat., 118°18.41′ W. long.;

(278) 33°35.50′ N. lat., 118°16.85′ W. long.;

(279) 33°32.68′ N. lat., 118°09.82′ W. long.;

(280) 33°34.09′ N. lat., 117°54.06′ W. long.;

(281) 33°31.60′ N. lat., 117°49.28′ W. long.;

(282) 33°16.07′ N. lat., 117°34.74′ W. long.;

(283) 33°07.06′ N. lat., 117°22.71′ W. long.;

(284) 32°59.28′ N. lat., 117°19.69′ W. long.;

(285) 32°55.36′ N. lat., 117°19.54′ W. long.;

(286) 32°53.35′ N. lat., 117°17.05′ W. long.;

(287) 32°53.34′ N. lat., 117°19.13′ W. long.;

(288) 32°46.39′ N. lat., 117°23.45′ W. long.;

(289) 32°42.79′ N. lat., 117°21.16′ W. long.; and

(290) 32°34.22′ N. lat., 117°21.20′ W. long.

(viii) The 125 fm (229 m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°35.35′ W. long.;

(99) 46°16.00′ N. lat., 124°22.17′ W. long.;

(100) 46°13.37′ N. lat., 124°30.70′ W. long.;

(101) 46°12.20′ N. lat., 124°36.04′ W. long.;

(102) 46°11.01′ N. lat., 124°38.68′ W. long.;

(103) 46°09.73′ N. lat., 124°39.91′ W. long.;

(104) 46°03.23′ N. lat., 124°42.03′ W. long.;

(105) 46°01.17′ N. lat., 124°42.06′ W. long.;

(106) 46°00.35′ N. lat., 124°42.26′ W. long.;

(107) 45°52.81′ N. lat., 124°41.62′ W. long.;

(108) 45°49.70′ N. lat., 124°41.14′ W. long.;

(109) 45°45.18′ N. lat., 124°38.39′ W. long.;

(110) 45°43.24′ N. lat., 124°37.77′ W. long.;

(111) 45°34.75′ N. lat., 124°28.59′ W. long.;

(112) 45°19.90′ N. lat., 124°21.34′ W. long.;

(113) 45°12.44′ N. lat., 124°19.35′ W. long.;

(114) 45°07.48′ N. lat., 124°19.73′ W. long.;

(115) 44°59.96′ N. lat., 124°22.91′ W. long.;

(116) 44°54.72′ N. lat., 124°26.84′ W. long.;

(117) 44°51.15′ N. lat., 124°31.41′ W. long.;

(118) 44°49.97′ N. lat., 124°32.37′ W. long.;

(119) 44°47.06′ N. lat., 124°34.43′ W. long.;

(120) 44°41.37′ N. lat., 124°36.51′ W. long.;

(121) 44°32.78′ N. lat., 124°37.86′ W. long.;

(122) 44°29.44′ N. lat., 124°44.25′ W. long.;

(123) 44°27.95′ N. lat., 124°45.13′ W. long.;

(124) 44°24.73′ N. lat., 124°47.42′ W. long.;

(125) 44°19.67′ N. lat., 124°51.17′ W. long.;

(126) 44°17.96′ N. lat., 124°52.53′ W. long.;

(127) 44°13.70′ N. lat., 124°56.45′ W. long.;

(128) 44°12.26′ N. lat., 124°57.53′ W. long.;

(129) 44°07.57′ N. lat., 124°57.19′ W. long.;

(130) 44°04.78′ N. lat., 124°56.31′ W. long.;

(131) 44°01.14′ N. lat., 124°56.07′ W. long.;

(132) 43°57.39′ N. lat., 124°57.01′ W. long.;

(133) 43°54.58′ N. lat., 124°52.18′ W. long.;

(134) 43°53.18′ N. lat., 124°47.41′ W. long.;

(135) 43°53.60′ N. lat., 124°37.45′ W. long.;

(136) 43°53.04′ N. lat., 124°36.00′ W. long.;

(137) 43°47.93′ N. lat., 124°35.18′ W. long.;

(138) 43°39.32′ N. lat., 124°35.14′ W. long.;

(139) 43°32.38′ N. lat., 124°35.26′ W. long.;

(140) 43°30.32′ N. lat., 124°36.79′ W. long.;

(141) 43°27.81′ N. lat., 124°36.42′ W. long.;

(142) 43°23.73′ N. lat., 124°39.66′ W. long.;

(143) 43°17.78′ N. lat., 124°42.84′ W. long.;

(144) 43°10.48′ N. lat., 124°43.54′ W. long.;

(145) 43°04.77′ N. lat., 124°45.51′ W. long.;

(146) 43°05.94′ N. lat., 124°49.77′ W. long.;

(147) 43°03.38′ N. lat., 124°51.86′ W. long.;

(148) 42°59.32′ N. lat., 124°51.93′ W. long.;

(149) 42°56.80′ N. lat., 124°53.38′ W. long.;

(150) 42°54.54′ N. lat., 124°52.72′ W. long.;

(151) 42°52.89′ N. lat., 124°47.45′ W. long.;

(152) 42°48.10′ N. lat., 124°46.75′ W. long.;

(153) 42°46.34′ N. lat., 124°43.53′ W. long.;

(154) 42°41.66′ N. lat., 124°42.70′ W. long.;

(155) 42°32.53′ N. lat., 124°42.77′ W. long.;

(156) 42°29.74′ N. lat., 124°43.81′ W. long.;

(157) 42°28.07′ N. lat., 124°47.65′ W. long.;

(158) 42°21.58′ N. lat., 124°41.41′ W. long.;

(159) 42°15.17′ N. lat., 124°36.25′ W. long.;

(160) 42°08.28′ N. lat., 124°36.08′ W. long.;

(161) 42°00.00′ N. lat., 124°35.46′ W. long.;

(162) 42°00.00′ N. lat., 124°35.45′ W. long.;

(163) 41°47.67′ N. lat., 124°28.67′ W. long.;

(164) 41°32.91′ N. lat., 124°29.01′ W. long.;

(165) 41°22.57′ N. lat., 124°28.66′ W. long.;

(166) 41°13.38′ N. lat., 124°22.88′ W. long.;

(167) 41°06.42′ N. lat., 124°22.02′ W. long.;

(168) 40°50.19′ N. lat., 124°25.58′ W. long.;

(169) 40°44.08′ N. lat., 124°30.43′ W. long.;

(170) 40°40.54′ N. lat., 124°31.75′ W. long.;

(171) 40°37.36′ N. lat., 124°29.17′ W. long.;

(172) 40°35.30′ N. lat., 124°30.03′ W. long.;

(173) 40°37.02′ N. lat., 124°37.10′ W. long.;

(174) 40°35.82′ N. lat., 124°39.58′ W. long.;

(175) 40°31.70′ N. lat., 124°39.97′ W. long.;

(176) 40°29.71′ N. lat., 124°38.08′ W. long.;

(177) 40°24.77′ N. lat., 124°35.39′ W. long.;

(178) 40°23.22′ N. lat., 124°31.87′ W. long.;

(179) 40°23.40′ N. lat., 124°28.65′ W. long.;

(180) 40°22.30′ N. lat., 124°25.27′ W. long.;

(181) 40°21.91′ N. lat., 124°25.18′ W. long.;

(182) 40°21.91′ N. lat., 124°27.97′ W. long.;

(183) 40°21.37′ N. lat., 124°29.03′ W. long.;

(184) 40°19.74′ N. lat., 124°28.71′ W. long.;

(185) 40°18.52′ N. lat., 124°27.26′ W. long.;

(186) 40°17.57′ N. lat., 124°25.49′ W. long.;

(187) 40°18.20′ N. lat., 124°23.63′ W. long.;

(188) 40°15.89′ N. lat., 124°26.00′ W. long.;

(189) 40°17.00′ N. lat., 124°35.01′ W. long.;

(190) 40°15.97′ N. lat., 124°35.91′ W. long.;

(191) 40°10.01′ N. lat., 124°22.00′ W. long.;

(192) 40°07.35′ N. lat., 124°18.64′ W. long.;

(193) 40°08.46′ N. lat., 124°16.24′ W. long.;

(194) 40°06.26′ N. lat., 124°17.54′ W. long.;

(195) 40°03.26′ N. lat., 124°15.30′ W. long.;

(196) 40°02.00′ N. lat., 124°12.97′ W. long.;

(197) 40°02.60′ N. lat., 124°10.61′ W. long.;

(198) 40°03.63′ N. lat., 124°09.12′ W. long.;

(199) 40°02.18′ N. lat., 124°09.07′ W. long.;

(200) 40°01.26′ N. lat., 124°09.86′ W. long.;

(201) 39°58.05′ N. lat., 124°11.87′ W. long.;

(202) 39°56.39′ N. lat., 124°08.70′ W. long.;

(203) 39°54.64′ N. lat., 124°07.31′ W. long.;

(204) 39°53.87′ N. lat., 124°07.95′ W. long.;

(205) 39°52.42′ N. lat., 124°08.18′ W. long.;

(206) 39°42.50′ N. lat., 124°00.60′ W. long.;

(207) 39°34.23′ N. lat., 123°56.82′ W. long.;

(208) 39°33.00′ N. lat., 123°56.44′ W. long.;

(209) 39°30.96′ N. lat., 123°56.00′ W. long.;

(210) 39°32.03′ N. lat., 123°57.44′ W. long.;

(211) 39°31.43′ N. lat., 123°58.16′ W. long.;

(212) 39°05.56′ N. lat., 123°57.24′ W. long.;

(213) 39°01.75′ N. lat., 123°56.83′ W. long.;

(214) 38°59.52′ N. lat., 123°55.95′ W. long.;

(215) 38°58.98′ N. lat., 123°56.57′ W. long.;

(216) 38°53.91′ N. lat., 123°56.00′ W. long.;

(217) 38°42.57′ N. lat., 123°46.60′ W. long.;

(218) 38°28.72′ N. lat., 123°35.61′ W. long.;

(219) 38°28.01′ N. lat., 123°36.47′ W. long.;

(220) 38°20.94′ N. lat., 123°31.26′ W. long.;

(221) 38°15.94′ N. lat., 123°25.33′ W. long.;

(222) 38°10.95′ N. lat., 123°23.19′ W. long.;

(223) 38°05.52′ N. lat., 123°22.90′ W. long.;

(224) 38°08.46′ N. lat., 123°26.23′ W. long.;

(225) 38°06.95′ N. lat., 123°28.03′ W. long.;

(226) 38°06.34′ N. lat., 123°29.80′ W. long.;

(227) 38°04.57′ N. lat., 123°31.24′ W. long.;

(228) 38°02.33′ N. lat., 123°31.02′ W. long.;

(229) 38°00.00′ N. lat., 123°28.23′ W. long.;

(230) 37°58.10′ N. lat., 123°26.69′ W. long.;

(231) 37°55.46′ N. lat., 123°27.05′ W. long.;

(232) 37°51.51′ N. lat., 123°24.86′ W. long.;

(233) 37°45.01′ N. lat., 123°12.09′ W. long.;

(234) 37°36.47′ N. lat., 123°01.56′ W. long.;

(235) 37°26.62′ N. lat., 122°56.21′ W. long.;

(236) 37°14.41′ N. lat., 122°49.07′ W. long.;

(237) 37°03.19′ N. lat., 122°38.31′ W. long.;

(238) 37°00.99′ N. lat., 122°35.51′ W. long.;

(239) 36°58.23′ N. lat., 122°27.36′ W. long.;

(240) 37°00.54′ N. lat., 122°24.74′ W. long.;

(241) 36°57.81′ N. lat., 122°24.65′ W. long.;

(242) 36°58.54′ N. lat., 122°21.67′ W. long.;

(243) 36°56.52′ N. lat., 122°21.70′ W. long.;

(244) 36°55.37′ N. lat., 122°18.45′ W. long.;

(245) 36°52.16′ N. lat., 122°12.17′ W. long.;

(246) 36°51.53′ N. lat., 122°10.67′ W. long.;

(247) 36°48.05′ N. lat., 122°07.59′ W. long.;

(248) 36°47.35′ N. lat., 122°03.27′ W. long.;

(249) 36°50.71′ N. lat., 121°58.17′ W. long.;

(250) 36°48.89′ N. lat., 121°58.90′ W. long.;

(251) 36°47.70′ N. lat., 121°58.76′ W. long.;

(252) 36°48.37′ N. lat., 121°51.15′ W. long.;

(253) 36°45.74′ N. lat., 121°54.18′ W. long.;

(254) 36°45.50′ N. lat., 121°57.73′ W. long.;

(255) 36°44.02′ N. lat., 121°58.55′ W. long.;

(256) 36°38.84′ N. lat., 122°01.32′ W. long.;

(257) 36°35.63′ N. lat., 122°00.98′ W. long.;

(258) 36°32.47′ N. lat., 121°59.17′ W. long.;

(259) 36°32.52′ N. lat., 121°57.62′ W. long.;

(260) 36°30.16′ N. lat., 122°00.55′ W. long.;

(261) 36°24.56′ N. lat., 121°59.19′ W. long.;

(262) 36°22.19′ N. lat., 122°00.30′ W. long.;

(263) 36°20.62′ N. lat., 122°02.93′ W. long.;

(264) 36°18.89′ N. lat., 122°05.18′ W. long.;

(265) 36°14.45′ N. lat., 121°59.44′ W. long.;

(266) 36°13.73′ N. lat., 121°57.38′ W. long.;

(267) 36°14.41′ N. lat., 121°55.45′ W. long.;

(268) 36°10.25′ N. lat., 121°43.08′ W. long.;

(269) 36°07.67′ N. lat., 121°40.92′ W. long.;

(270) 36°02.51′ N. lat., 121°36.76′ W. long.;

(271) 36°01.08′ N. lat., 121°36.82′ W. long.;

(272) 35°57.84′ N. lat., 121°33.10′ W. long.;

(273) 35°45.57′ N. lat., 121°27.26′ W. long.;

(274) 35°39.02′ N. lat., 121°22.86′ W. long.;

(275) 35°25.92′ N. lat., 121°05.52′ W. long.;

(276) 35°16.26′ N. lat., 121°01.50′ W. long.;

(277) 35°07.60′ N. lat., 120°56.49′ W. long.;

(278) 34°57.77′ N. lat., 120°53.87′ W. long.;

(279) 34°42.30′ N. lat., 120°53.42′ W. long.;

(280) 34°37.69′ N. lat., 120°50.04′ W. long.;

(281) 34°30.13′ N. lat., 120°44.45′ W. long.;

(282) 34°27.00′ N. lat., 120°39.24′ W. long.;

(283) 34°24.71′ N. lat., 120°35.37′ W. long.;

(284) 34°21.63′ N. lat., 120°24.86′ W. long.;

(285) 34°24.39′ N. lat., 120°16.65′ W. long.;

(286) 34°22.48′ N. lat., 119°56.42′ W. long.;

(287) 34°18.54′ N. lat., 119°46.26′ W. long.;

(288) 34°16.37′ N. lat., 119°45.12′ W. long.;

(289) 34°15.91′ N. lat., 119°47.29′ W. long.;

(290) 34°13.80′ N. lat., 119°45.40′ W. long.;

(291) 34°11.69′ N. lat., 119°41.80′ W. long.;

(292) 34°09.98′ N. lat., 119°31.87′ W. long.;

(293) 34°08.12′ N. lat., 119°27.71′ W. long.;

(294) 34°06.35′ N. lat., 119°32.65′ W. long.;

(295) 34°06.80′ N. lat., 119°40.08′ W. long.;

(296) 34°07.48′ N. lat., 119°47.54′ W. long.;

(297) 34°08.21′ N. lat., 119°54.90′ W. long.;

(298) 34°06.85′ N. lat., 120°05.60′ W. long.;

(299) 34°06.99′ N. lat., 120°10.37′ W. long.;

(300) 34°08.53′ N. lat., 120°17.89′ W. long.;

(301) 34°10.00′ N. lat., 120°23.05′ W. long.;

(302) 34°12.53′ N. lat., 120°29.82′ W. long.;

(303) 34°09.02′ N. lat., 120°37.47′ W. long.;

(304) 34°01.01′ N. lat., 120°31.17′ W. long.;

(305) 33°58.07′ N. lat., 120°28.33′ W. long.;

(306) 33°53.37′ N. lat., 120°14.43′ W. long.;

(307) 33°50.53′ N. lat., 120°07.20′ W. long.;

(308) 33°45.88′ N. lat., 120°04.26′ W. long.;

(309) 33°38.19′ N. lat., 119°57.85′ W. long.;

(310) 33°38.19′ N. lat., 119°50.42′ W. long.;

(311) 33°42.36′ N. lat., 119°49.60′ W. long.;

(312) 33°53.95′ N. lat., 119°53.81′ W. long.;

(313) 33°55.85′ N. lat., 119°43.34′ W. long.;

(314) 33°58.48′ N. lat., 119°27.90′ W. long.;

(315) 34°00.34′ N. lat., 119°19.22′ W. long.;

(316) 34°04.48′ N. lat., 119°15.32′ W. long.;

(317) 34°02.80′ N. lat., 119°12.95′ W. long.;

(318) 34°02.39′ N. lat., 119°07.17′ W. long.;

(319) 34°03.75′ N. lat., 119°04.72′ W. long.;

(320) 34°01.82′ N. lat., 119°03.24′ W. long.;

(321) 33°59.33′ N. lat., 119°03.49′ W. long.;

(322) 33°59.01′ N. lat., 118°59.56′ W. long.;

(323) 33°59.51′ N. lat., 118°57.25′ W. long.;

(324) 33°58.83′ N. lat., 118°52.50′ W. long.;

(325) 33°58.55′ N. lat., 118°41.86′ W. long.;

(326) 33°55.10′ N. lat., 118°34.25′ W. long.;

(327) 33°54.30′ N. lat., 118°38.71′ W. long.;

(328) 33°50.88′ N. lat., 118°37.02′ W. long.;

(329) 33°39.78′ N. lat., 118°18.40′ W. long.;

(330) 33°35.50′ N. lat., 118°16.85′ W. long.;

(331) 33°32.46′ N. lat., 118°10.90′ W. long.;

(332) 33°34.11′ N. lat., 117°54.07′ W. long.;

(333) 33°31.61′ N. lat., 117°49.30′ W. long.;

(334) 33°16.36′ N. lat., 117°35.48′ W. long.;

(335) 33°06.81′ N. lat., 117°22.93′ W. long.;

(336) 32°59.28′ N. lat., 117°19.69′ W. long.;

(337) 32°55.37′ N. lat., 117°19.55′ W. long.;

(338) 32°53.35′ N. lat., 117°17.05′ W. long.;

(339) 32°53.36′ N. lat., 117°19.12′ W. long.;

(340) 32°46.42′ N. lat., 117°23.45′ W. long.;

(341) 32°42.71′ N. lat., 117°21.45′ W. long.; and

(342) 32°34.54′ N. lat., 117°23.04′ W. long.

(ix) The 150 fm (274 m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°54.50′ N. lat., 125°35.00′ W. long.;

(14) 47°56.53′ N. lat., 125°30.33′ W. long.;

(15) 47°57.28′ N. lat., 125°27.89′ W. long.;

(16) 47°59.00′ N. lat., 125°25.50′ W. long.;

(17) 48°01.77′ N. lat., 125°24.05′ W. long.;

(18) 48°02.13′ N. lat., 125°22.80′ W. long.;

(19) 48°03.00′ N. lat., 125°22.50′ W. long.;

(20) 48°03.46′ N. lat., 125°22.10′ W. long.;

(21) 48°04.29′ N. lat., 125°20.37′ W. long.;

(22) 48°02.00′ N. lat., 125°18.50′ W. long.;

(23) 48°00.01′ N. lat., 125°19.90′ W. long.;

(24) 47°58.75′ N. lat., 125°17.54′ W. long.;

(25) 47°53.50′ N. lat., 125°13.50′ W. long.;

(26) 47°48.88′ N. lat., 125°05.91′ W. long.;

(27) 47°47.18′ N. lat., 125°06.60′ W. long.;

(28) 47°48.50′ N. lat., 125°05.00′ W. long.;

(29) 47°45.98′ N. lat., 125°04.26′ W. long.;

(30) 47°45.00′ N. lat., 125°05.50′ W. long.;

(31) 47°42.11′ N. lat., 125°04.74′ W. long.;

(32) 47°39.00′ N. lat., 125°06.00′ W. long.;

(33) 47°35.53′ N. lat., 125°04.55′ W. long.;

(34) 47°30.90′ N. lat., 124°57.31′ W. long.;

(35) 47°29.54′ N. lat., 124°56.50′ W. long.;

(36) 47°29.50′ N. lat., 124°54.50′ W. long.;

(37) 47°28.57′ N. lat., 124°51.50′ W. long.;

(38) 47°25.00′ N. lat., 124°48.00′ W. long.;

(39) 47°23.95′ N. lat., 124°47.24′ W. long.;

(40) 47°23.00′ N. lat., 124°47.00′ W. long.;

(41) 47°21.00′ N. lat., 124°46.50′ W. long.;

(42) 47°18.20′ N. lat., 124°45.84′ W. long.;

(43) 47°18.50′ N. lat., 124°49.00′ W. long.;

(44) 47°19.17′ N. lat., 124°50.86′ W. long.;

(45) 47°18.07′ N. lat., 124°53.29′ W. long.;

(46) 47°17.78′ N. lat., 124°51.39′ W. long.;

(47) 47°16.81′ N. lat., 124°50.85′ W. long.;

(48) 47°15.96′ N. lat., 124°53.15′ W. long.;

(49) 47°14.31′ N. lat., 124°52.62′ W. long.;

(50) 47°11.87′ N. lat., 124°56.90′ W. long.;

(51) 47°12.39′ N. lat., 124°58.09′ W. long.;

(52) 47°09.50′ N. lat., 124°57.50′ W. long.;

(53) 47°09.00′ N. lat., 124°59.00′ W. long.;

(54) 47°06.06′ N. lat., 124°58.80′ W. long.;

(55) 47°03.62′ N. lat., 124°55.96′ W. long.;

(56) 47°02.89′ N. lat., 124°56.89′ W. long.;

(57) 47°01.04′ N. lat., 124°59.54′ W. long.;

(58) 46°58.47′ N. lat., 124°59.08′ W. long.;

(59) 46°58.29′ N. lat., 125°00.28′ W. long.;

(60) 46°56.30′ N. lat., 125°00.75′ W. long.;

(61) 46°57.09′ N. lat., 124°58.86′ W. long.;

(62) 46°55.95′ N. lat., 124°54.88′ W. long.;

(63) 46°54.79′ N. lat., 124°54.14′ W. long.;

(64) 46°58.00′ N. lat., 124°50.00′ W. long.;

(65) 46°54.50′ N. lat., 124°49.00′ W. long.;

(66) 46°54.53′ N. lat., 124°52.94′ W. long.;

(67) 46°49.52′ N. lat., 124°53.41′ W. long.;

(68) 46°39.50′ N. lat., 124°47.00′ W. long.;

(69) 46°39.50′ N. lat., 124°42.50′ W. long.;

(70) 46°37.50′ N. lat., 124°41.00′ W. long.;

(71) 46°36.50′ N. lat., 124°38.00′ W. long.;

(72) 46°33.85′ N. lat., 124°36.99′ W. long.;

(73) 46°33.50′ N. lat., 124°29.50′ W. long.;

(74) 46°32.00′ N. lat., 124°31.00′ W. long.;

(75) 46°30.53′ N. lat., 124°30.55′ W. long.;

(76) 46°25.50′ N. lat., 124°33.00′ W. long.;

(77) 46°23.00′ N. lat., 124°35.00′ W. long.;

(78) 46°21.50′ N. lat., 124°37.00′ W. long.;

(79) 46°20.64′ N. lat., 124°36.21′ W. long.;

(80) 46°20.36′ N. lat., 124°37.85′ W. long.;

(81) 46°19.48′ N. lat., 124°38.35′ W. long.;

(82) 46°18.09′ N. lat., 124°38.30′ W. long.;

(83) 46°16.00′ N. lat., 124°36.00′ W. long.;

(84) 46°14.87′ N. lat., 124°26.15′ W. long.;

(85) 46°13.38′ N. lat., 124°31.36′ W. long.;

(86) 46°12.09′ N. lat., 124°38.39′ W. long.;

(87) 46°09.46′ N. lat., 124°40.64′ W. long.;

(88) 46°07.30′ N. lat., 124°40.68′ W. long.;

(89) 46°02.76′ N. lat., 124°44.01′ W. long.;

(90) 46°02.64′ N. lat., 124°47.96′ W. long.;

(91) 46°01.22′ N. lat., 124°43.47′ W. long.;

(92) 45°51.82′ N. lat., 124°42.89′ W. long.;

(93) 45°45.95′ N. lat., 124°40.72′ W. long.;

(94) 45°44.11′ N. lat., 124°43.09′ W. long.;

(95) 45°34.50′ N. lat., 124°30.27′ W. long.;

(96) 45°21.10′ N. lat., 124°23.11′ W. long.;

(97) 45°09.69′ N. lat., 124°20.45′ W. long.;

(98) 44°56.25′ N. lat., 124°27.03′ W. long.;

(99) 44°44.47′ N. lat., 124°37.85′ W. long.;

(100) 44°31.81′ N. lat., 124°39.60′ W. long.;

(101) 44°31.48′ N. lat., 124°43.30′ W. long.;

(102) 44°12.04′ N. lat., 124°58.16′ W. long.;

(103) 44°07.38′ N. lat., 124°57.87′ W. long.;

(104) 43°57.06′ N. lat., 124°57.20′ W. long.;

(105) 43°52.52′ N. lat., 124°49.00′ W. long.;

(106) 43°51.55′ N. lat., 124°37.49′ W. long.;

(107) 43°47.83′ N. lat., 124°36.43′ W. long.;

(108) 43°31.79′ N. lat., 124°36.80′ W. long.;

(109) 43°29.34′ N. lat., 124°36.77′ W. long.;

(110) 43°26.46′ N. lat., 124°40.02′ W. long.;

(111) 43°16.15′ N. lat., 124°44.37′ W. long.;

(112) 43°09.33′ N. lat., 124°45.35′ W. long.;

(113) 43°08.85′ N. lat., 124°48.92′ W. long.;

(114) 43°03.23′ N. lat., 124°52.41′ W. long.;

(115) 43°00.25′ N. lat., 124°51.93′ W. long.;

(116) 42°56.62′ N. lat., 124°53.93′ W. long.;

(117) 42°54.84′ N. lat., 124°54.01′ W. long.;

(118) 42°52.31′ N. lat., 124°50.76′ W. long.;

(119) 42°47.78′ N. lat., 124°47.27′ W. long.;

(120) 42°46.32′ N. lat., 124°43.59′ W. long.;

(121) 42°41.63′ N. lat., 124°44.07′ W. long.;

(122) 42°38.83′ N. lat., 124°42.77′ W. long.;

(123) 42°35.37′ N. lat., 124°43.22′ W. long.;

(124) 42°32.78′ N. lat., 124°44.68′ W. long.;

(125) 42°32.19′ N. lat., 124°42.40′ W. long.;

(126) 42°30.28′ N. lat., 124°44.30′ W. long.;

(127) 42°28.16′ N. lat., 124°48.38′ W. long.;

(128) 42°18.34′ N. lat., 124°38.77′ W. long.;

(129) 42°13.65′ N. lat., 124°36.82′ W. long.;

(130) 42°00.15′ N. lat., 124°35.81′ W. long.;

(131) 42°00.00′ N. lat., 124°35.99′ W. long.;

(132) 41°47.80′ N. lat., 124°29.41′ W. long.;

(133) 41°23.51′ N. lat., 124°29.50′ W. long.;

(134) 41°13.29′ N. lat., 124°23.31′ W. long.;

(135) 41°06.23′ N. lat., 124°22.62′ W. long.;

(136) 40°55.60′ N. lat., 124°26.04′ W. long.;

(137) 40°49.62′ N. lat., 124°26.57′ W. long.;

(138) 40°45.72′ N. lat., 124°30.00′ W. long.;

(139) 40°40.56′ N. lat., 124°32.11′ W. long.;

(140) 40°37.33′ N. lat., 124°29.27′ W. long.;

(141) 40°35.60′ N. lat., 124°30.49′ W. long.;

(142) 40°37.38′ N. lat., 124°37.14′ W. long.;

(143) 40°36.03′ N. lat., 124°39.97′ W. long.;

(144) 40°31.59′ N. lat., 124°40.74′ W. long.;

(145) 40°29.76′ N. lat., 124°38.13′ W. long.;

(146) 40°28.22′ N. lat., 124°37.23′ W. long.;

(147) 40°24.86′ N. lat., 124°35.71′ W. long.;

(148) 40°23.01′ N. lat., 124°31.94′ W. long.;

(149) 40°23.39′ N. lat., 124°28.64′ W. long.;

(150) 40°22.29′ N. lat., 124°25.25′ W. long.;

(151) 40°21.90′ N. lat., 124°25.18′ W. long.;

(152) 40°22.02′ N. lat., 124°28.00′ W. long.;

(153) 40°21.34′ N. lat., 124°29.53′ W. long.;

(154) 40°19.74′ N. lat., 124°28.95′ W. long.;

(155) 40°18.13′ N. lat., 124°27.08′ W. long.;

(156) 40°17.45′ N. lat., 124°25.53′ W. long.;

(157) 40°17.97′ N. lat., 124°24.12′ W. long.;

(158) 40°15.96′ N. lat., 124°26.05′ W. long.;

(159) 40°17.00′ N. lat., 124°35.01′ W. long.;

(160) 40°15.97′ N. lat., 124°35.90′ W. long.;

(161) 40°10.00′ N. lat., 124°22.96′ W. long.;

(162) 40°07.00′ N. lat., 124°19.00′ W. long.;

(163) 40°08.10′ N. lat., 124°16.70′ W. long.;

(164) 40°05.90′ N. lat., 124°17.77′ W. long.;

(165) 40°02.99′ N. lat., 124°15.55′ W. long.;

(166) 40°02.00′ N. lat., 124°12.97′ W. long.;

(167) 40°02.60′ N. lat., 124°10.61′ W. long.;

(168) 40°03.63′ N. lat., 124°09.12′ W. long.;

(169) 40°02.18′ N. lat., 124°09.07′ W. long.;

(170) 39°58.25′ N. lat., 124°12.56′ W. long.;

(171) 39°57.03′ N. lat., 124°11.34′ W. long.;

(172) 39°56.30′ N. lat., 124°08.96′ W. long.;

(173) 39°54.82′ N. lat., 124°07.66′ W. long.;

(174) 39°52.57′ N. lat., 124°08.55′ W. long.;

(175) 39°45.34′ N. lat., 124°03.30′ W. long.;

(176) 39°34.75′ N. lat., 123°58.50′ W. long.;

(177) 39°34.22′ N. lat., 123°56.82′ W. long.;

(178) 39°32.98′ N. lat., 123°56.43′ W. long.;

(179) 39°31.47′ N. lat., 123°58.73′ W. long.;

(180) 39°05.68′ N. lat., 123°57.81′ W. long.;

(181) 39°00.24′ N. lat., 123°56.74′ W. long.;

(182) 38°54.31′ N. lat., 123°56.73′ W. long.;

(183) 38°41.42′ N. lat., 123°46.75′ W. long.;

(184) 38°39.61′ N. lat., 123°46.48′ W. long.;

(185) 38°37.52′ N. lat., 123°43.78′ W. long.;

(186) 38°35.25′ N. lat., 123°42.00′ W. long.;

(187) 38°28.79′ N. lat., 123°37.07′ W. long.;

(188) 38°19.88′ N. lat., 123°32.54′ W. long.;

(189) 38°14.43′ N. lat., 123°25.56′ W. long.;

(190) 38°08.75′ N. lat., 123°24.48′ W. long.;

(191) 38°10.10′ N. lat., 123°27.20′ W. long.;

(192) 38°07.16′ N. lat., 123°28.18′ W. long.;

(193) 38°06.42′ N. lat., 123°30.18′ W. long.;

(194) 38°04.28′ N. lat., 123°31.70′ W. long.;

(195) 38°01.88′ N. lat., 123°30.98′ W. long.;

(196) 38°00.75′ N. lat., 123°29.72′ W. long.;

(197) 38°00.00′ N. lat., 123°28.60′ W. long.;

(198) 37°58.23′ N. lat., 123°26.90′ W. long.;

(199) 37°55.32′ N. lat., 123°27.19′ W. long.;

(200) 37°51.47′ N. lat., 123°24.92′ W. long.;

(201) 37°44.47′ N. lat., 123°11.57′ W. long.;

(202) 37°36.33′ N. lat., 123°01.76′ W. long.;

(203) 37°15.16′ N. lat., 122°51.64′ W. long.;

(204) 37°01.68′ N. lat., 122°37.28′ W. long.;

(205) 36°59.70′ N. lat., 122°33.71′ W. long.;

(206) 36°58.00′ N. lat., 122°27.80′ W. long.;

(207) 37°00.25′ N. lat., 122°24.85′ W. long.;

(208) 36°57.50′ N. lat., 122°24.98′ W. long.;

(209) 36°58.38′ N. lat., 122°21.85′ W. long.;

(210) 36°55.85′ N. lat., 122°21.95′ W. long.;

(211) 36°52.02′ N. lat., 122°12.10′ W. long.;

(212) 36°47.63′ N. lat., 122°07.37′ W. long.;

(213) 36°47.26′ N. lat., 122°03.22′ W. long.;

(214) 36°50.34′ N. lat., 121°58.40′ W. long.;

(215) 36°48.83′ N. lat., 121°59.14′ W. long.;

(216) 36°44.81′ N. lat., 121°58.28′ W. long.;

(217) 36°39.00′ N. lat., 122°01.71′ W. long.;

(218) 36°29.60′ N. lat., 122°00.49′ W. long.;

(219) 36°23.43′ N. lat., 121°59.76′ W. long.;

(220) 36°18.90′ N. lat., 122°05.32′ W. long.;

(221) 36°15.38′ N. lat., 122°01.40′ W. long.;

(222) 36°13.79′ N. lat., 121°58.12′ W. long.;

(223) 36°10.12′ N. lat., 121°43.33′ W. long.;

(224) 36°02.57′ N. lat., 121°37.02′ W. long.;

(225) 36°01.01′ N. lat., 121°36.95′ W. long.;

(226) 35°57.74′ N. lat., 121°33.45′ W. long.;

(227) 35°51.32′ N. lat., 121°30.08′ W. long.;

(228) 35°45.84′ N. lat., 121°28.84′ W. long.;

(229) 35°38.94′ N. lat., 121°23.16′ W. long.;

(230) 35°26.00′ N. lat., 121°08.00′ W. long.;

(231) 35°07.42′ N. lat., 120°57.08′ W. long.;

(232) 34°42.76′ N. lat., 120°55.09′ W. long.;

(233) 34°37.75′ N. lat., 120°51.96′ W. long.;

(234) 34°29.29′ N. lat., 120°44.19′ W. long.;

(235) 34°27.00′ N. lat., 120°40.42′ W. long.;

(236) 34°21.89′ N. lat., 120°31.36′ W. long.;

(237) 34°20.79′ N. lat., 120°21.58′ W. long.;

(238) 34°23.97′ N. lat., 120°15.25′ W. long.;

(239) 34°22.11′ N. lat., 119°56.63′ W. long.;

(240) 34°19.00′ N. lat., 119°48.00′ W. long.;

(241) 34°15.00′ N. lat., 119°48.00′ W. long.;

(242) 34°08.00′ N. lat., 119°37.00′ W. long.;

(243) 34°08.39′ N. lat., 119°54.78′ W. long.;

(244) 34°07.10′ N. lat., 120°10.37′ W. long.;

(245) 34°10.08′ N. lat., 120°22.98′ W. long.;

(246) 34°13.16′ N. lat., 120°29.40′ W. long.;

(247) 34°09.41′ N. lat., 120°37.75′ W. long.;

(248) 34°03.15′ N. lat., 120°34.71′ W. long.;

(249) 33°57.09′ N. lat., 120°27.76′ W. long.;

(250) 33°51.00′ N. lat., 120°09.00′ W. long.;

(251) 33°38.16′ N. lat., 119°59.23′ W. long.;

(252) 33°37.04′ N. lat., 119°50.17′ W. long.;

(253) 33°42.28′ N. lat., 119°48.85′ W. long.;

(254) 33°53.96′ N. lat., 119°53.77′ W. long.;

(255) 33°59.94′ N. lat., 119°19.57′ W. long.;

(256) 34°03.12′ N. lat., 119°15.51′ W. long.;

(257) 34°01.97′ N. lat., 119°07.28′ W. long.;

(258) 34°03.60′ N. lat., 119°04.71′ W. long.;

(259) 33°59.30′ N. lat., 119°03.73′ W. long.;

(260) 33°58.87′ N. lat., 118°59.37′ W. long.;

(261) 33°58.08′ N. lat., 118°41.14′ W. long.;

(262) 33°50.93′ N. lat., 118°37.65′ W. long.;

(263) 33°39.54′ N. lat., 118°18.70′ W. long.;

(264) 33°35.42′ N. lat., 118°17.14′ W. long.;

(265) 33°32.15′ N. lat., 118°10.84′ W. long.;

(266) 33°33.71′ N. lat., 117°53.72′ W. long.;

(267) 33°31.17′ N. lat., 117°49.11′ W. long.;

(268) 33°16.53′ N. lat., 117°36.13′ W. long.;

(269) 33°06.77′ N. lat., 117°22.92′ W. long.;

(270) 32°58.94′ N. lat., 117°20.05′ W. long.;

(271) 32°55.83′ N. lat., 117°20.15′ W. long.;

(272) 32°46.29′ N. lat., 117°23.89′ W. long.;

(273) 32°42.00′ N. lat., 117°22.16′ W. long.;

(274) 32°39.47′ N. lat., 117°27.78′ W. long.; and

(275) 32°34.83′ N. lat., 117°24.69′ W. long.

(A) The 150 fm (274 m) depth contour used around San Clemente Island off the state of California is defined by straight lines connecting all of the following points in the order stated:

(1) 32°48.50′ N. lat., 118°18.34′ W. long.;

(2) 32°56.00′ N. lat., 118°29.00′ W. long.;

(3) 33°03.00′ N. lat., 118°34.00′ W. long.;

(4) 33°05.00′ N. lat., 118°38.00′ W. long.;

(5) 33°03.00′ N. lat., 118°40.00′ W. long.;

(6) 32°48.00′ N. lat., 118°31.00′ W. long.;

(7) 32°43.00′ N. lat., 118°24.00′ W. long.; and

(8) 32°48.50′ N. lat., 118°18.34′ W. long.

(B) The 150 fm (274 m) depth contour used around Santa Catalina Island off the state of California is defined by straight lines connecting all of the following points in the order stated:

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(C) The 150 fm (274 m) depth contour used around Lasuen Knoll off the state of California is defined by straight lines connecting all of the following points in the order stated:

(1) 33°25.00′ N. lat., 118°01.00′ W. long.;

(2) 33°25.00′ N. lat., 117°58.00′ W. long.;

(3) 33°23.00′ N. lat., 117°58.00′ W. long.;

(4) 33°23.00′ N. lat., 118°01.00′ W. long.; and

(5) 33°25.00′ N. lat., 118°01.00′ W. long.

(x) The 180 fm (329 m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°36.17′ W. long.;

(84) 46°15.97′ N. lat., 124°23.57′ W. long.;

(85) 46°12.85′ N. lat., 124°35.52′ W. long.;

(86) 46°12.27′ N. lat., 124°38.69′ W. long.;

(87) 46°08.71′ N. lat., 124°41.27′ W. long.;

(88) 46°05.79′ N. lat., 124°42.12′ W. long.;

(89) 46°02.84′ N. lat., 124°48.05′ W. long.;

(90) 46°02.41′ N. lat., 124°48.15′ W. long.;

(91) 45°58.96′ N. lat., 124°43.98′ W. long.;

(92) 45°47.05′ N. lat., 124°43.25′ W. long.;

(93) 45°44.00′ N. lat., 124°45.37′ W. long.;

(94) 45°34.97′ N. lat., 124°31.95′ W. long.;

(95) 45°13.01′ N. lat., 124°21.71′ W. long.;

(96) 45°09.59′ N. lat., 124°22.78′ W. long.;

(97) 45°00.22′ N. lat., 124°28.31′ W. long.;

(98) 44°53.53′ N. lat., 124°32.98′ W. long.;

(99) 44°40.25′ N. lat., 124°46.34′ W. long.;

(100) 44°28.83′ N. lat., 124°47.09′ W. long.;

(101) 44°22.97′ N. lat., 124°49.38′ W. long.;

(102) 44°13.07′ N. lat., 124°58.34′ W. long.;

(103) 43°57.99′ N. lat., 124°57.84′ W. long.;

(104) 43°51.43′ N. lat., 124°52.02′ W. long.;

(105) 43°50.72′ N. lat., 124°39.23′ W. long.;

(106) 43°39.04′ N. lat., 124°37.82′ W. long.;

(107) 43°27.76′ N. lat., 124°39.76′ W. long.;

(108) 43°20.22′ N. lat., 124°42.92′ W. long.;

(109) 43°13.07′ N. lat., 124°46.03′ W. long.;

(110) 43°10.43′ N. lat., 124°50.27′ W. long.;

(111) 43°03.47′ N. lat., 124°52.80′ W. long.;

(112) 42°56.93′ N. lat., 124°53.95′ W. long.;

(113) 42°54.74′ N. lat., 124°54.19′ W. long.;

(114) 42°49.43′ N. lat., 124°52.03′ W. long.;

(115) 42°47.68′ N. lat., 124°47.72′ W. long.;

(116) 42°46.17′ N. lat., 124°44.05′ W. long.;

(117) 42°41.67′ N. lat., 124°44.36′ W. long.;

(118) 42°38.79′ N. lat., 124°42.87′ W. long.;

(119) 42°32.39′ N. lat., 124°45.38′ W. long.;

(120) 42°32.07′ N. lat., 124°43.44′ W. long.;

(121) 42°30.98′ N. lat., 124°43.84′ W. long.;

(122) 42°28.37′ N. lat., 124°48.91′ W. long.;

(123) 42°20.07′ N. lat., 124°41.59′ W. long.;

(124) 42°15.05′ N. lat., 124°38.07′ W. long.;

(125) 42°07.37′ N. lat., 124°37.25′ W. long.;

(126) 42°04.93′ N. lat., 124°36.79′ W. long.;

(127) 42°00.00′ N. lat., 124°36.26′ W. long.;

(128) 42°00.00′ N. lat., 124°36.33′ W. long.;

(129) 41°47.60′ N. lat., 124°29.75′ W. long.;

(130) 41°22.07′ N. lat., 124°29.55′ W. long.;

(131) 41°13.58′ N. lat., 124°24.17′ W. long.;

(132) 41°06.51′ N. lat., 124°23.07′ W. long.;

(133) 40°55.20′ N. lat., 124°27.46′ W. long.;

(134) 40°49.76′ N. lat., 124°27.17′ W. long.;

(135) 40°45.79′ N. lat., 124°30.37′ W. long.;

(136) 40°40.31′ N. lat., 124°32.47′ W. long.;

(137) 40°37.42′ N. lat., 124°37.20′ W. long.;

(138) 40°36.03′ N. lat., 124°39.97′ W. long.;

(139) 40°31.48′ N. lat., 124°40.95′ W. long.;

(140) 40°29.76′ N. lat., 124°38.13′ W. long.;

(141) 40°24.81′ N. lat., 124°35.82′ W. long.;

(142) 40°22.00′ N. lat., 124°30.01′ W. long.;

(143) 40°16.84′ N. lat., 124°29.87′ W. long.;

(144) 40°17.06′ N. lat., 124°35.51′ W. long.;

(145) 40°16.41′ N. lat., 124°39.10′ W. long.;

(146) 40°10.00′ N. lat., 124°23.56′ W. long.;

(147) 40°06.67′ N. lat., 124°19.08′ W. long.;

(148) 40°08.10′ N. lat., 124°16.71′ W. long.;

(149) 40°05.90′ N. lat., 124°17.77′ W. long.;

(150) 40°02.80′ N. lat., 124°16.28′ W. long.;

(151) 40°01.98′ N. lat., 124°12.99′ W. long.;

(152) 40°01.53′ N. lat., 124°09.82′ W. long.;

(153) 39°58.28′ N. lat., 124°12.93′ W. long.;

(154) 39°57.06′ N. lat., 124°12.03′ W. long.;

(155) 39°56.31′ N. lat., 124°08.98′ W. long.;

(156) 39°55.20′ N. lat., 124°07.98′ W. long.;

(157) 39°52.57′ N. lat., 124°09.04′ W. long.;

(158) 39°42.78′ N. lat., 124°02.11′ W. long.;

(159) 39°34.76′ N. lat., 123°58.51′ W. long.;

(160) 39°34.22′ N. lat., 123°56.82′ W. long.;

(161) 39°32.98′ N. lat., 123°56.43′ W. long.;

(162) 39°32.14′ N. lat., 123°58.83′ W. long.;

(163) 39°07.79′ N. lat., 123°58.72′ W. long.;

(164) 39°00.99′ N. lat., 123°57.56′ W. long.;

(165) 39°00.05′ N. lat., 123°56.83′ W. long.;

(166) 38°56.28′ N. lat., 123°57.53′ W. long.;

(167) 38°56.01′ N. lat., 123°58.72′ W. long.;

(168) 38°52.41′ N. lat., 123°56.38′ W. long.;

(169) 38°46.81′ N. lat., 123°51.46′ W. long.;

(170) 38°45.56′ N. lat., 123°51.32′ W. long.;

(171) 38°43.24′ N. lat., 123°49.91′ W. long.;

(172) 38°41.42′ N. lat., 123°47.22′ W. long.;

(173) 38°40.97′ N. lat., 123°47.80′ W. long.;

(174) 38°38.58′ N. lat., 123°46.07′ W. long.;

(175) 38°37.38′ N. lat., 123°43.80′ W. long.;

(176) 38°33.86′ N. lat., 123°41.51′ W. long.;

(177) 38°29.45′ N. lat., 123°38.42′ W. long.;

(178) 38°28.20′ N. lat., 123°38.17′ W. long.;

(179) 38°24.09′ N. lat., 123°35.26′ W. long.;

(180) 38°16.72′ N. lat., 123°31.42′ W. long.;

(181) 38°15.32′ N. lat., 123°29.33′ W. long.;

(182) 38°14.45′ N. lat., 123°26.15′ W. long.;

(183) 38°10.26′ N. lat., 123°25.43′ W. long.;

(184) 38°12.61′ N. lat., 123°28.08′ W. long.;

(185) 38°11.98′ N. lat., 123°29.35′ W. long.;

(186) 38°08.23′ N. lat., 123°28.04′ W. long.;

(187) 38°06.39′ N. lat., 123°30.59′ W. long.;

(188) 38°04.25′ N. lat., 123°31.81′ W. long.;

(189) 38°02.08′ N. lat., 123°31.27′ W. long.;

(190) 38°00.17′ N. lat., 123°29.43′ W. long.;

(191) 38°00.00′ N. lat., 123°28.55′ W. long.;

(192) 37°58.24′ N. lat., 123°26.91′ W. long.;

(193) 37°55.32′ N. lat., 123°27.19′ W. long.;

(194) 37°51.52′ N. lat., 123°25.01′ W. long.;

(195) 37°44.21′ N. lat., 123°11.38′ W. long.;

(196) 37°36.27′ N. lat., 123°01.86′ W. long.;

(197) 37°14.29′ N. lat., 122°52.99′ W. long.;

(198) 37°00.86′ N. lat., 122°37.55′ W. long.;

(199) 36°59.71′ N. lat., 122°33.73′ W. long.;

(200) 36°57.98′ N. lat., 122°27.80′ W. long.;

(201) 36°59.83′ N. lat., 122°25.17′ W. long.;

(202) 36°57.21′ N. lat., 122°25.17′ W. long.;

(203) 36°57.79′ N. lat., 122°22.28′ W. long.;

(204) 36°55.86′ N. lat., 122°21.99′ W. long.;

(205) 36°52.06′ N. lat., 122°12.12′ W. long.;

(206) 36°47.63′ N. lat., 122°07.40′ W. long.;

(207) 36°47.26′ N. lat., 122°03.23′ W. long.;

(208) 36°49.53′ N. lat., 121°59.35′ W. long.;

(209) 36°44.81′ N. lat., 121°58.29′ W. long.;

(210) 36°38.95′ N. lat., 122°02.02′ W. long.;

(211) 36°23.43′ N. lat., 121°59.76′ W. long.;

(212) 36°19.66′ N. lat., 122°06.25′ W. long.;

(213) 36°14.78′ N. lat., 122°01.52′ W. long.;

(214) 36°13.64′ N. lat., 121°57.83′ W. long.;

(215) 36°09.99′ N. lat., 121°43.48′ W. long.;

(216) 35°57.09′ N. lat., 121°34.16′ W. long.;

(217) 35°52.71′ N. lat., 121°32.32′ W. long.;

(218) 35°51.23′ N. lat., 121°30.54′ W. long.;

(219) 35°46.07′ N. lat., 121°29.75′ W. long.;

(220) 35°34.08′ N. lat., 121°19.83′ W. long.;

(221) 35°31.41′ N. lat., 121°14.80′ W. long.;

(222) 35°15.42′ N. lat., 121°03.47′ W. long.;

(223) 35°07.70′ N. lat., 120°59.31′ W. long.;

(224) 34°57.27′ N. lat., 120°56.93′ W. long.;

(225) 34°44.27′ N. lat., 120°57.65′ W. long.;

(226) 34°32.75′ N. lat., 120°50.08′ W. long.;

(227) 34°27.00′ N. lat., 120°41.50′ W. long.;

(228) 34°20.00′ N. lat., 120°30.99′ W. long.;

(229) 34°19.15′ N. lat., 120°19.78′ W. long.;

(230) 34°23.24′ N. lat., 120°14.17′ W. long.;

(231) 34°21.35′ N. lat., 119°54.89′ W. long.;

(232) 34°09.79′ N. lat., 119°44.51′ W. long.;

(233) 34°07.34′ N. lat., 120°06.71′ W. long.;

(234) 34°09.74′ N. lat., 120°19.78′ W. long.;

(235) 34°13.95′ N. lat., 120°29.78′ W. long.;

(236) 34°09.41′ N. lat., 120°37.75′ W. long.;

(237) 34°03.39′ N. lat., 120°35.26′ W. long.;

(238) 33°56.82′ N. lat., 120°28.30′ W. long.;

(239) 33°50.71′ N. lat., 120°09.24′ W. long.;

(240) 33°38.21′ N. lat., 119°59.90′ W. long.;

(241) 33°35.35′ N. lat., 119°51.95′ W. long.;

(242) 33°35.99′ N. lat., 119°49.13′ W. long.;

(243) 33°42.74′ N. lat., 119°47.80′ W. long.;

(244) 33°53.65′ N. lat., 119°53.29′ W. long.;

(245) 33°57.85′ N. lat., 119°31.05′ W. long.;

(246) 33°56.78′ N. lat., 119°27.44′ W. long.;

(247) 33°58.03′ N. lat., 119°27.82′ W. long.;

(248) 33°59.31′ N. lat., 119°20.02′ W. long.;

(249) 34°02.91′ N. lat., 119°15.38′ W. long.;

(250) 33°59.04′ N. lat., 119°03.02′ W. long.;

(251) 33°57.88′ N. lat., 118°41.69′ W. long.;

(252) 33°50.89′ N. lat., 118°37.78′ W. long.;

(253) 33°39.54′ N. lat., 118°18.70′ W. long.;

(254) 33°35.42′ N. lat., 118°17.15′ W. long.;

(255) 33°31.26′ N. lat., 118°10.84′ W. long.;

(256) 33°32.71′ N. lat., 117°52.05′ W. long.;

(257) 32°58.94′ N. lat., 117°20.05′ W. long.;

(258) 32°46.45′ N. lat., 117°24.37′ W. long.;

(259) 32°42.25′ N. lat., 117°22.87′ W. long.;

(260) 32°39.50′ N. lat., 117°27.80′ W. long.; and

(261) 32°34.83′ N. lat., 117°24.67′ W. long.

(xi) The 200 fm (366 m) depth contour between the U.S. border with Canada and the U.S. border with Mexico is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°03.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°16.00′ N. lat., 124°24.88′ W. long.;

(77) 46°14.22′ N. lat., 124°26.28′ W. long.;

(78) 46°11.53′ N. lat., 124°39.58′ W. long.;

(79) 46°08.77′ N. lat., 124°41.71′ W. long.;

(80) 46°05.86′ N. lat., 124°42.27′ W. long.;

(81) 46°03.85′ N. lat., 124°48.20′ W. long.;

(82) 46°02.34′ N. lat., 124°48.51′ W. long.;

(83) 45°58.99′ N. lat., 124°44.42′ W. long.;

(84) 45°46.90′ N. lat., 124°43.50′ W. long.;

(85) 45°44.98′ N. lat., 124°44.93′ W. long.;

(86) 45°43.47′ N. lat., 124°44.93′ W. long.;

(87) 45°34.88′ N. lat., 124°32.58′ W. long.;

(88) 45°13.04′ N. lat., 124°21.92′ W. long.;

(89) 45°00.17′ N. lat., 124°29.28′ W. long.;

(90) 44°55.41′ N. lat., 124°31.84′ W. long.;

(91) 44°48.25′ N. lat., 124°40.62′ W. long.;

(92) 44°41.34′ N. lat., 124°49.20′ W. long.;

(93) 44°23.30′ N. lat., 124°50.17′ W. long.;

(94) 44°13.19′ N. lat., 124°58.66′ W. long.;

(95) 43°57.89′ N. lat., 124°58.13′ W. long.;

(96) 43°50.59′ N. lat., 124°52.80′ W. long.;

(97) 43°50.10′ N. lat., 124°40.27′ W. long.;

(98) 43°39.06′ N. lat., 124°38.55′ W. long.;

(99) 43°28.85′ N. lat., 124°39.99′ W. long.;

(100) 43°20.22′ N. lat., 124°43.05′ W. long.;

(101) 43°13.29′ N. lat., 124°47.00′ W. long.;

(102) 43°13.14′ N. lat., 124°52.61′ W. long.;

(103) 43°04.26′ N. lat., 124°53.05′ W. long.;

(104) 42°53.93′ N. lat., 124°54.60′ W. long.;

(105) 42°49.52′ N. lat., 124°53.16′ W. long.;

(106) 42°47.46′ N. lat., 124°50.24′ W. long.;

(107) 42°47.57′ N. lat., 124°48.12′ W. long.;

(108) 42°46.19′ N. lat., 124°44.52′ W. long.;

(109) 42°41.75′ N. lat., 124°44.69′ W. long.;

(110) 42°38.81′ N. lat., 124°43.09′ W. long.;

(111) 42°31.83′ N. lat., 124°46.23′ W. long.;

(112) 42°32.08′ N. lat., 124°43.58′ W. long.;

(113) 42°30.96′ N. lat., 124°43.84′ W. long.;

(114) 42°28.41′ N. lat., 124°49.17′ W. long.;

(115) 42°24.80′ N. lat., 124°45.93′ W. long.;

(116) 42°19.71′ N. lat., 124°41.60′ W. long.;

(117) 42°15.12′ N. lat., 124°38.34′ W. long.;

(118) 42°12.35′ N. lat., 124°38.09′ W. long.;

(119) 42°04.38′ N. lat., 124°36.83′ W. long.;

(120) 42°00.00′ N. lat., 124°36.80′ W. long.;

(121) 41°59.98′ N. lat., 124°36.70′ W. long.;

(122) 41°47.85′ N. lat., 124°30.41′ W. long.;

(123) 41°43.34′ N. lat., 124°29.89′ W. long.;

(124) 41°23.47′ N. lat., 124°30.29′ W. long.;

(125) 41°21.30′ N. lat., 124°29.36′ W. long.;

(126) 41°13.53′ N. lat., 124°24.41′ W. long.;

(127) 41°06.72′ N. lat., 124°23.30′ W. long.;

(128) 40°54.67′ N. lat., 124°28.13′ W. long.;

(129) 40°49.02′ N. lat., 124°28.52′ W. long.;

(130) 40°40.45′ N. lat., 124°32.74′ W. long.;

(131) 40°37.11′ N. lat., 124°38.03′ W. long.;

(132) 40°34.22′ N. lat., 124°41.13′ W. long.;

(133) 40°32.90′ N. lat., 124°41.83′ W. long.;

(134) 40°31.30′ N. lat., 124°40.97′ W. long.;

(135) 40°29.63′ N. lat., 124°38.04′ W. long.;

(136) 40°24.99′ N. lat., 124°36.37′ W. long.;

(137) 40°10.14′ N. lat., 124°24.55′ W. long.;

(138) 40°16.95′ N. lat., 124°31.93′ W. long.;

(139) 40°17.59′ N. lat., 124°45.23′ W. long.;

(140) 40°13.25′ N. lat., 124°32.36′ W. long.;

(141) 40°10.16′ N. lat., 124°24.57′ W. long.;

(142) 40°06.43′ N. lat., 124°19.19′ W. long.;

(143) 40°07.07′ N. lat., 124°17.75′ W. long.;

(144) 40°05.53′ N. lat., 124°18.02′ W. long.;

(145) 40°04.71′ N. lat., 124°18.10′ W. long.;

(146) 40°02.35′ N. lat., 124°16.57′ W. long.;

(147) 40°01.53′ N. lat., 124°09.82′ W. long.;

(148) 39°58.28′ N. lat., 124°13.51′ W. long.;

(149) 39°56.60′ N. lat., 124°12.02′ W. long.;

(150) 39°55.20′ N. lat., 124°07.96′ W. long.;

(151) 39°52.55′ N. lat., 124°09.40′ W. long.;

(152) 39°42.68′ N. lat., 124°02.52′ W. long.;

(153) 39°35.96′ N. lat., 123°59.49′ W. long.;

(154) 39°34.62′ N. lat., 123°59.59′ W. long.;

(155) 39°33.78′ N. lat., 123°56.82′ W. long.;

(156) 39°33.02′ N. lat., 123°57.07′ W. long.;

(157) 39°32.21′ N. lat., 123°59.13′ W. long.;

(158) 39°07.85′ N. lat., 123°59.07′ W. long.;

(159) 39°00.90′ N. lat., 123°57.88′ W. long.;

(160) 38°59.95′ N. lat., 123°56.99′ W. long.;

(161) 38°56.82′ N. lat., 123°57.74′ W. long.;

(162) 38°56.40′ N. lat., 123°59.41′ W. long.;

(163) 38°50.23′ N. lat., 123°55.48′ W. long.;

(164) 38°46.77′ N. lat., 123°51.49′ W. long.;

(165) 38°45.28′ N. lat., 123°51.56′ W. long.;

(166) 38°42.76′ N. lat., 123°49.76′ W. long.;

(167) 38°41.54′ N. lat., 123°47.76′ W. long.;

(168) 38°40.98′ N. lat., 123°48.07′ W. long.;

(169) 38°38.03′ N. lat., 123°45.78′ W. long.;

(170) 38°37.20′ N. lat., 123°44.01′ W. long.;

(171) 38°33.44′ N. lat., 123°41.75′ W. long.;

(172) 38°29.45′ N. lat., 123°38.42′ W. long.;

(173) 38°27.89′ N. lat., 123°38.38′ W. long.;

(174) 38°23.68′ N. lat., 123°35.40′ W. long.;

(175) 38°19.63′ N. lat., 123°33.98′ W. long.;

(176) 38°16.23′ N. lat., 123°31.83′ W. long.;

(177) 38°14.79′ N. lat., 123°29.91′ W. long.;

(178) 38°14.12′ N. lat., 123°26.29′ W. long.;

(179) 38°10.85′ N. lat., 123°25.77′ W. long.;

(180) 38°13.15′ N. lat., 123°28.18′ W. long.;

(181) 38°12.28′ N. lat., 123°29.81′ W. long.;

(182) 38°10.19′ N. lat., 123°29.04′ W. long.;

(183) 38°07.94′ N. lat., 123°28.45′ W. long.;

(184) 38°06.51′ N. lat., 123°30.89′ W. long.;

(185) 38°04.21′ N. lat., 123°31.96′ W. long.;

(186) 38°02.07′ N. lat., 123°31.30′ W. long.;

(187) 38°00.00′ N. lat., 123°29.55′ W. long.;

(188) 37°58.13′ N. lat., 123°27.21′ W. long.;

(189) 37°55.01′ N. lat., 123°27.46′ W. long.;

(190) 37°51.40′ N. lat., 123°25.18′ W. long.;

(191) 37°43.97′ N. lat., 123°11.49′ W. long.;

(192) 37°36.00′ N. lat., 123°02.25′ W. long.;

(193) 37°13.65′ N. lat., 122°54.18′ W. long.;

(194) 37°00.66′ N. lat., 122°37.84′ W. long.;

(195) 36°57.40′ N. lat., 122°28.25′ W. long.;

(196) 36°59.25′ N. lat., 122°25.54′ W. long.;

(197) 36°56.88′ N. lat., 122°25.42′ W. long.;

(198) 36°57.40′ N. lat., 122°22.62′ W. long.;

(199) 36°55.43′ N. lat., 122°22.43′ W. long.;

(200) 36°52.29′ N. lat., 122°13.18′ W. long.;

(201) 36°47.12′ N. lat., 122°07.56′ W. long.;

(202) 36°47.10′ N. lat., 122°02.11′ W. long.;

(203) 36°43.76′ N. lat., 121°59.11′ W. long.;

(204) 36°38.85′ N. lat., 122°02.20′ W. long.;

(205) 36°23.41′ N. lat., 122°00.11′ W. long.;

(206) 36°19.68′ N. lat., 122°06.93′ W. long.;

(207) 36°14.75′ N. lat., 122°01.51′ W. long.;

(208) 36°09.74′ N. lat., 121°45.00′ W. long.;

(209) 36°06.67′ N. lat., 121°41.06′ W. long.;

(210) 35°57.07′ N. lat., 121°34.32′ W. long.;

(211) 35°52.31′ N. lat., 121°32.45′ W. long.;

(212) 35°51.21′ N. lat., 121°30.91′ W. long.;

(213) 35°46.32′ N. lat., 121°30.30′ W. long.;

(214) 35°33.74′ N. lat., 121°20.10′ W. long.;

(215) 35°31.37′ N. lat., 121°15.23′ W. long.;

(216) 35°23.32′ N. lat., 121°11.44′ W. long.;

(217) 35°15.28′ N. lat., 121°04.45′ W. long.;

(218) 35°07.08′ N. lat., 121°00.30′ W. long.;

(219) 34°57.46′ N. lat., 120°58.23′ W. long.;

(220) 34°44.25′ N. lat., 120°58.29′ W. long.;

(221) 34°32.30′ N. lat., 120°50.22′ W. long.;

(222) 34°27.00′ N. lat., 120°42.55′ W. long.;

(223) 34°19.08′ N. lat., 120°31.21′ W. long.;

(224) 34°17.72′ N. lat., 120°19.26′ W. long.;

(225) 34°22.45′ N. lat., 120°12.81′ W. long.;

(226) 34°21.36′ N. lat., 119°54.88′ W. long.;

(227) 34°09.95′ N. lat., 119°46.18′ W. long.;

(228) 34°09.08′ N. lat., 119°57.53′ W. long.;

(229) 34°07.53′ N. lat., 120°06.35′ W. long.;

(230) 34°10.54′ N. lat., 120°19.07′ W. long.;

(231) 34°14.68′ N. lat., 120°29.48′ W. long.;

(232) 34°09.51′ N. lat., 120°38.32′ W. long.;

(233) 34°03.06′ N. lat., 120°35.54′ W. long.;

(234) 33°56.39′ N. lat., 120°28.47′ W. long.;

(235) 33°50.25′ N. lat., 120°09.43′ W. long.;

(236) 33°37.96′ N. lat., 120°00.08′ W. long.;

(237) 33°34.52′ N. lat., 119°51.84′ W. long.;

(238) 33°35.51′ N. lat., 119°48.49′ W. long.;

(239) 33°42.76′ N. lat., 119°47.77′ W. long.;

(240) 33°53.62′ N. lat., 119°53.28′ W. long.;

(241) 33°57.61′ N. lat., 119°31.26′ W. long.;

(242) 33°56.34′ N. lat., 119°26.40′ W. long.;

(243) 33°57.79′ N. lat., 119°26.85′ W. long.;

(244) 33°58.88′ N. lat., 119°20.06′ W. long.;

(245) 34°02.65′ N. lat., 119°15.11′ W. long.;

(246) 33°59.02′ N. lat., 119°02.99′ W. long.;

(247) 33°57.61′ N. lat., 118°42.07′ W. long.;

(248) 33°50.76′ N. lat., 118°37.98′ W. long.;

(249) 33°38.41′ N. lat., 118°17.03′ W. long.;

(250) 33°37.14′ N. lat., 118°18.39′ W. long.;

(251) 33°35.51′ N. lat., 118°18.03′ W. long.;

(252) 33°30.68′ N. lat., 118°10.35′ W. long.;

(253) 33°32.49′ N. lat., 117°51.85′ W. long.;

(254) 32°58.87′ N. lat., 117°20.36′ W. long.; and

(255) 32°35.53′ N. lat., 117°29.67′ W. long.

(A) The 200 fm (366 m) depth contour used around San Clemente Island is defined by straight lines connecting all of the following points in the order stated:

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(B) The 200 fm (366 m) depth contour used around Santa Catalina Island off the state of California is defined by straight lines connecting all of the following points in the order stated:

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(C) The 200 fm (366 m) depth contour used around Lasuen Knoll off the state of California is defined by straight lines connecting all of the following points in the order stated:

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

(D) The 200 fm (366 m) depth contour used around San Diego Rise off the state of California is defined by straight lines connecting all of the following points in the order stated:

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

(xii) The 200 fm (366 m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°16.00′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°49.74′ N. lat., 124°43.69′ W. long.;

(81) 45°49.68′ N. lat., 124°42.37′ W. long.;

(82) 45°40.83′ N. lat., 124°40.90′ W. long.;

(83) 45°34.88′ N. lat., 124°32.58′ W. long.;

(84) 45°13.04′ N. lat., 124°21.92′ W. long.;

(85) 45°00.17′ N. lat., 124°29.28′ W. long.;

(86) 44°50.99′ N. lat., 124°35.40′ W. long.;

(87) 44°46.87′ N. lat., 124°38.20′ W. long.;

(88) 44°48.25′ N. lat., 124°40.62′ W. long.;

(89) 44°41.34′ N. lat., 124°49.20′ W. long.;

(90) 44°23.30′ N. lat., 124°50.17′ W. long.;

(91) 44°13.19′ N. lat., 124°58.66′ W. long.;

(92) 43°57.37′ N. lat., 124°58.71′ W. long.;

(93) 43°52.32′ N. lat., 124°49.43′ W. long.;

(94) 43°51.35′ N. lat., 124°37.94′ W. long.;

(95) 43°49.73′ N. lat., 124°40.26′ W. long.;

(96) 43°39.06′ N. lat., 124°38.55′ W. long.;

(97) 43°28.85′ N. lat., 124°39.99′ W. long.;

(98) 43°20.22′ N. lat., 124°43.05′ W. long.;

(99) 43°13.29′ N. lat., 124°47.00′ W. long.;

(100) 43°10.64′ N. lat., 124°49.95′ W. long.;

(101) 43°04.26′ N. lat., 124°53.05′ W. long.;

(102) 42°53.93′ N. lat., 124°54.60′ W. long.;

(103) 42°47.57′ N. lat., 124°48.12′ W. long.;

(104) 42°46.19′ N. lat., 124°44.52′ W. long.;

(105) 42°41.75′ N. lat., 124°44.69′ W. long.;

(106) 42°38.81′ N. lat., 124°43.09′ W. long.;

(107) 42°31.83′ N. lat., 124°46.23′ W. long.;

(108) 42°32.08′ N. lat., 124°43.58′ W. long.;

(109) 42°30.96′ N. lat., 124°43.84′ W. long.;

(110) 42°28.41′ N. lat., 124°49.17′ W. long.;

(111) 42°24.80′ N. lat., 124°45.93′ W. long.;

(112) 42°19.71′ N. lat., 124°41.60′ W. long.;

(113) 42°15.12′ N. lat., 124°38.34′ W. long.;

(114) 42°12.35′ N. lat., 124°38.09′ W. long.;

(115) 42°00.00′ N. lat., 124°36.83′ W. long.;

(116) 41°59.98′ N. lat., 124°36.80′ W. long.;

(117) 41°47.79′ N. lat., 124°29.48′ W. long.;

(118) 41°21.01′ N. lat., 124°29.01′ W. long.;

(119) 41°13.50′ N. lat., 124°24.40′ W. long.;

(120) 41°11.00′ N. lat., 124°22.99′ W. long.;

(121) 41°06.69′ N. lat., 124°23.30′ W. long.;

(122) 40°54.73′ N. lat., 124°28.15′ W. long.;

(123) 40°53.95′ N. lat., 124°26.04′ W. long.;

(124) 40°49.96′ N. lat., 124°26.04′ W. long.;

(125) 40°44.49′ N. lat., 124°30.81′ W. long.;

(126) 40°40.58′ N. lat., 124°32.06′ W. long.;

(127) 40°36.09′ N. lat., 124°40.11′ W. long.;

(128) 40°34.19′ N. lat., 124°41.20′ W. long.;

(129) 40°32.93′ N. lat., 124°41.86′ W. long.;

(130) 40°31.28′ N. lat., 124°40.98′ W. long.;

(131) 40°29.68′ N. lat., 124°38.06′ W. long.;

(132) 40°25.01′ N. lat., 124°36.36′ W. long.;

(133) 40°22.28′ N. lat., 124°31.83′ W. long.;

(134) 40°16.96′ N. lat., 124°31.91′ W. long.;

(135) 40°17.59′ N. lat., 124°45.28′ W. long.;

(136) 40°13.23′ N. lat., 124°32.40′ W. long.;

(137) 40°10.00′ N. lat., 124°24.55′ W. long.;

(138) 40°06.45′ N. lat., 124°19.24′ W. long.;

(139) 40°07.08′ N. lat., 124°17.80′ W. long.;

(140) 40°05.55′ N. lat., 124°18.11′ W. long.;

(141) 40°04.74′ N. lat., 124°18.11′ W. long.;

(142) 40°02.35′ N. lat., 124°16.53′ W. long.;

(143) 40°01.13′ N. lat., 124°12.98′ W. long.;

(144) 40°01.55′ N. lat., 124°09.80′ W. long.;

(145) 39°58.54′ N. lat., 124°12.43′ W. long.;

(146) 39°55.72′ N. lat., 124°07.44′ W. long.;

(147) 39°42.64′ N. lat., 124°02.52′ W. long.;

(148) 39°35.96′ N. lat., 123°59.47′ W. long.;

(149) 39°34.61′ N. lat., 123°59.58′ W. long.;

(150) 39°34.79′ N. lat., 123°58.47′ W. long.;

(151) 39°33.79′ N. lat., 123°56.77′ W. long.;

(152) 39°33.03′ N. lat., 123°57.06′ W. long.;

(153) 39°32.20′ N. lat., 123°59.12′ W. long.;

(154) 39°07.81′ N. lat., 123°59.06′ W. long.;

(155) 39°03.06′ N. lat., 123°57.77′ W. long.;

(156) 38°52.26′ N. lat., 123°56.18′ W. long.;

(157) 38°50.21′ N. lat., 123°55.48′ W. long.;

(158) 38°46.81′ N. lat., 123°51.49′ W. long.;

(159) 38°45.28′ N. lat., 123°51.55′ W. long.;

(160) 38°42.76′ N. lat., 123°49.73′ W. long.;

(161) 38°41.53′ N. lat., 123°47.80′ W. long.;

(162) 38°41.41′ N. lat., 123°46.74′ W. long.;

(163) 38°38.01′ N. lat., 123°45.74′ W. long.;

(164) 38°37.19′ N. lat., 123°43.98′ W. long.;

(165) 38°35.26′ N. lat., 123°41.99′ W. long.;

(166) 38°33.38′ N. lat., 123°41.76′ W. long.;

(167) 38°19.95′ N. lat., 123°32.90′ W. long.;

(168) 38°14.38′ N. lat., 123°25.51′ W. long.;

(169) 38°09.39′ N. lat., 123°24.39′ W. long.;

(170) 38°10.09′ N. lat., 123°27.21′ W. long.;

(171) 38°03.76′ N. lat., 123°31.90′ W. long.;

(172) 38°02.06′ N. lat., 123°31.26′ W. long.;

(173) 38°00.01′ N. lat., 123°29.56′ W. long.;

(174) 37°58.07′ N. lat., 123°27.21′ W. long.;

(175) 37°55.02′ N. lat., 123°27.44′ W. long.;

(176) 37°51.39′ N. lat., 123°25.22′ W. long.;

(177) 37°43.94′ N. lat., 123°11.49′ W. long.;

(178) 37°35.96′ N. lat., 123°02.23′ W. long.;

(179) 37°23.48′ N. lat., 122°57.76′ W. long.;

(180) 37°23.23′ N. lat., 122°53.78′ W. long.;

(181) 37°13.97′ N. lat., 122°49.91′ W. long.;

(182) 37°09.98′ N. lat., 122°45.61′ W. long.;

(183) 37°07.38′ N. lat., 122°46.38′ W. long.;

(184) 37°00.64′ N. lat., 122°37.70′ W. long.;

(185) 36°57.40′ N. lat., 122°28.36′ W. long.;

(186) 36°59.21′ N. lat., 122°25.64′ W. long.;

(187) 36°56.90′ N. lat., 122°25.42′ W. long.;

(188) 36°57.43′ N. lat., 122°22.55′ W. long.;

(189) 36°55.43′ N. lat., 122°22.43′ W. long.;

(190) 36°52.27′ N. lat., 122°13.16′ W. long.;

(191) 36°47.10′ N. lat., 122°07.53′ W. long.;

(192) 36°47.10′ N. lat., 122°02.08′ W. long.;

(193) 36°43.76′ N. lat., 121°59.15′ W. long.;

(194) 36°38.84′ N. lat., 122°02.20′ W. long.;

(195) 36°30.82′ N. lat., 122°01.13′ W. long.;

(196) 36°30.94′ N. lat., 122°00.54′ W. long.;

(197) 36°25.99′ N. lat., 121°59.50′ W. long.;

(198) 36°26.43′ N. lat., 121°59.76′ W. long.;

(199) 36°22.00′ N. lat., 122°01.02′ W. long.;

(200) 36°19.01′ N. lat., 122°05.01′ W. long.;

(201) 36°14.73′ N. lat., 122°01.55′ W. long.;

(202) 36°14.03′ N. lat., 121°58.09′ W. long.;

(203) 36°09.74′ N. lat., 121°45.01′ W. long.;

(204) 36°06.75′ N. lat., 121°40.73′ W. long.;

(205) 35°58.19′ N. lat., 121°34.63′ W. long.;

(206) 35°52.21′ N. lat., 121°32.46′ W. long.;

(207) 35°51.21′ N. lat., 121°30.94′ W. long.;

(208) 35°46.28′ N. lat., 121°30.29′ W. long.;

(209) 35°33.67′ N. lat., 121°20.09′ W. long.;

(210) 35°31.33′ N. lat., 121°15.22′ W. long.;

(211) 35°23.29′ N. lat., 121°11.41′ W. long.;

(212) 35°15.26′ N. lat., 121°04.49′ W. long.;

(213) 35°07.05′ N. lat., 121°00.26′ W. long.;

(214) 35°07.46′ N. lat., 120°57.10′ W. long.;

(215) 34°44.29′ N. lat., 120°54.28′ W. long.;

(216) 34°44.23′ N. lat., 120°58.27′ W. long.;

(217) 34°32.33′ N. lat., 120°50.23′ W. long.;

(218) 34°27.00′ N. lat., 120°42.55′ W. long.;

(219) 34°19.08′ N. lat., 120°31.21′ W. long.;

(220) 34°17.72′ N. lat., 120°19.26′ W. long.;

(221) 34°22.45′ N. lat., 120°12.81′ W. long.;

(222) 34°21.36′ N. lat., 119°54.88′ W. long.;

(223) 34°09.95′ N. lat., 119°46.18′ W. long.;

(224) 34°09.08′ N. lat., 119°57.53′ W. long.;

(225) 34°07.53′ N. lat., 120°06.35′ W. long.;

(226) 34°10.54′ N. lat., 120°19.07′ W. long.;

(227) 34°14.68′ N. lat., 120°29.48′ W. long.;

(228) 34°09.51′ N. lat., 120°38.32′ W. long.;

(229) 34°03.06′ N. lat., 120°35.54′ W. long.;

(230) 33°56.39′ N. lat., 120°28.47′ W. long.;

(231) 33°50.25′ N. lat., 120°09.43′ W. long.;

(232) 33°37.96′ N. lat., 120°00.08′ W. long.;

(233) 33°34.52′ N. lat., 119°51.84′ W. long.;

(234) 33°35.51′ N. lat., 119°48.49′ W. long.;

(235) 33°42.76′ N. lat., 119°47.77′ W. long.;

(236) 33°53.62′ N. lat., 119°53.28′ W. long.;

(237) 33°57.61′ N. lat., 119°31.26′ W. long.;

(238) 33°56.34′ N. lat., 119°26.40′ W. long.;

(239) 33°57.79′ N. lat., 119°26.85′ W. long.;

(240) 33°58.88′ N. lat., 119°20.06′ W. long.;

(241) 34°02.65′ N. lat., 119°15.11′ W. long.;

(242) 33°59.02′ N. lat., 119°02.99′ W. long.;

(243) 33°57.61′ N. lat., 118°42.07′ W. long.;

(244) 33°50.76′ N. lat., 118°37.98′ W. long.;

(245) 33°39.54′ N. lat., 118°18.70′ W. long.;

(246) 33°37.14′ N. lat., 118°18.39′ W. long.;

(247) 33°35.51′ N. lat., 118°18.03′ W. long.;

(248) 33°30.68′ N. lat., 118°10.35′ W. long.;

(249) 33°32.49′ N. lat., 117°51.85′ W. long.;

(250) 32°58.87′ N. lat., 117°20.36′ W. long.; and

(251) 32°35.53′ N. lat., 117°29.67′ W. long.

(xiii) The 250 fm (457 m) depth contour used between the U.S. border with Canada and 38° N. lat. is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°16.00′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 41°59.99′ N. lat., 124°37.72′ W. long.;

(117) 42°00.00′ N. lat., 124°37.76′ W. long.;

(118) 41°47.93′ N. lat., 124°31.79′ W. long.;

(119) 41°21.35′ N. lat., 124°30.35′ W. long.;

(120) 41°07.11′ N. lat., 124°25.25′ W. long.;

(121) 40°57.37′ N. lat., 124°30.25′ W. long.;

(122) 40°48.77′ N. lat., 124°30.69′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat., 124°34.26′ W. long.;

(132) 40°10.11′ N. lat., 124°28.25′ W. long.;

(133) 40°06.72′ N. lat., 124°21.40′ W. long.;

(134) 40°01.63′ N. lat., 124°17.25′ W. long.;

(135) 40°00.68′ N. lat., 124°11.19′ W. long.;

(136) 39°59.09′ N. lat., 124°14.92′ W. long.;

(137) 39°51.85′ N. lat., 124°10.33′ W. long.;

(138) 39°36.90′ N. lat., 124°00.63′ W. long.;

(139) 39°32.41′ N. lat., 124°00.01′ W. long.;

(140) 39°05.40′ N. lat., 124°00.52′ W. long.;

(141) 39°04.32′ N. lat., 123°59.00′ W. long.;

(142) 38°58.02′ N. lat., 123°58.18′ W. long.;

(143) 38°58.19′ N. lat., 124°01.90′ W. long.;

(144) 38°50.27′ N. lat., 123°56.26′ W. long.;

(145) 38°46.73′ N. lat., 123°51.93′ W. long.;

(146) 38°44.64′ N. lat., 123°51.77′ W. long.;

(147) 38°32.97′ N. lat., 123°41.84′ W. long.;

(148) 38°14.56′ N. lat., 123°32.18′ W. long.;

(149) 38°13.85′ N. lat., 123°29.94′ W. long.;

(150) 38°11.88′ N. lat., 123°30.57′ W. long.;

(151) 38°08.72′ N. lat., 123°29.56′ W. long.;

(152) 38°05.62′ N. lat., 123°32.38′ W. long.;

(153) 38°01.90′ N. lat., 123°32.00′ W. long.; and

(154) 38°00.00′ N. lat., 123°30.00′ W. long.

(xiv) The 250 fm (457 m) depth contour used between the U.S. border with Canada and 38° N. lat., modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°47.79′ N. lat., 124°29.52′ W. long.;

(110) 41°21.00′ N. lat., 124°29.00′ W. long.;

(111) 41°11.00′ N. lat., 124°23.00′ W. long.;

(112) 41°05.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(138) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

(xv) Farallon Islands. The Farallon Islands, off San Francisco and San Mateo Counties, include Southeast Farallon Island, Middle Farallon Island, North Farallon Island and Noon Day Rock. Commercial and recreational fishing for groundfish is prohibited between the shoreline and the 10 fm (18 m) depth contour around the Farallon Islands.

(18) Rockfish categories. Rockfish (except thornyheads) are divided into categories north and south of 40°10′ N. lat., depending on the depth where they most often are caught: Nearshore, shelf, or slope (scientific names appear in Table 2). Nearshore rockfish are further divided into shallow nearshore and deeper nearshore categories south of 40°10′ N. lat. Trip limits are established for “minor rockfish” species according to these categories (see Tables 3-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly rockfish, widow rockfish, yelloweye rockfish, yellowtail rockfish, bocaccio, chilipepper, cowcod, and the minor shelf rockfish species listed in Table 2.

(c) Slope rockfish consists of POP, splitnose rockfish, darkblotched rockfish, and the other minor slope rockfish species listed in Table 2.

(19) Flatfish complex. Flatfish managed under the FMP include: Arrowtooth flounder, butter sole, curlfin sole, Dover sole, English sole, flathead sole, Pacific sanddab, petrale sole, rex sole, rock sole, sand sole, and starry flounder. Where Tables 3, 4, and/or 5 of Sections IV.B. and IV.C. refer to landings limits for “all other flatfish,” those limits apply to all flatfish cumulatively taken from the group of flatfish species listed in this section except for those flatfish species listed with species-specific limits.

(20) Application of requirements. Paragraphs IV.B. and IV.C. pertain to the commercial groundfish fishery, but not to Washington coastal tribal fisheries, which are described in Section V. The provisions in paragraphs IV.B. and IV.C. that are not covered under the headings “limited entry” or “open access” apply to all vessels in the commercial fishery that take and retain groundfish, unless otherwise stated. Paragraph IV.D. pertains to the recreational fishery.

Table 2.—Minor Rockfish Species (Excludes Thornyheads)
North of 40°10′ N. lat. | South of 40°10′ N. lat.
NEARSHORE
black, Sebastes melanops | black, Sebastes melanops
black and yellow, S. chrysolmelas | black and yellow, S. chrysolmelas
blue, S. mystinus | blue, S. mystinus
brown, S. auriculatus | brown, S. auriculatus
calico, S. dalli | calico, S. dalli
China, S. nebulosus | California scorpionfish, Scorpaena guttata
copper, S. caurinus | China, Sebastes nebulosus
gopher, S. carnatus | copper, S. caurinus
grass, S. rastrelliger | gopher, S. carnatus
kelp, S. atrovirens | grass, S. rastrelliger
olive, S. serranoides | kelp, S. atrovirens
quillback, S. maliger | olive, S. serranoides
treefish, S. serriceps | quillback, S. maliger
| treefish, S. serriceps
SHELF
bronzespotted, S. gilli | bronzespotted, S. gilli
bocaccio, S. paucispinis | chameleon, S. phillipsi
chameleon, S. phillipsi | dwarf-red, S. rufianus
chilipepper, S. goodei | flag, S. rubrivinctus
cowcod, S. levis | freckled, S. lentiginosus
dwarf-red, S. rufianus | greenblotched, S. rosenblatti
flag, S. rubrivinctus | greenspotted, S. chlorostictus
freckled, S. lentiginosus | greenstriped, S. elongatus
greenblotched, S. rosenblatti | halfbanded, S. semicinctus
greenspotted, S. chlorostictus | honeycomb, S. umbrosus
greenstriped, S. elongatus | Mexican, S. macdonaldi
halfbanded, S. semicinctus | pink, S. eos
honeycomb, S. umbrosus | pinkrose, S. simulator
Mexican, S. macdonaldi | pygmy, S. wilsoni
pink, S. eos | redstriped, S. proriger
pinkrose, S. simulator | rosethorn, S. helvomaculatus
pygmy, S. wilsoni | rosy, S. rosaceus
redstriped, S. proriger | silvergrey, S. brevispinus
rosethorn, S. helvomaculatus | speckled, S. ovalis
rosy, S. rosaceus | squarespot, S. hopkinsi
silvergrey, S. brevispinus | starry, S. constellatus
speckled, S. ovalis | stripetail, S. saxicola
squarespot, S. hopkinsi | swordspine, S. ensifer
starry, S. constellatus | tiger, S. nigorcinctus
stripetail, S. saxicola | vermilion, S. miniatus
swordspine, S. ensifer | yelloweye, S. ruberrimus
tiger, S. nigorcinctus | yellowtail, S. flavidus
vermilion, S. miniatus |
yelloweye, S. ruberrimus |
SLOPE
aurora, S. aurora | aurora, S. aurora
bank, S. rufus | bank, S. rufus
blackgill, S. melanostomus | blackgill, S. melanostomus
darkblotched, S. crameri | darkblotched, S. crameri
redbanded, S. babcocki | Pacific ocean perch (POP), S. alutus
rougheye, S. aleutianus | redbanded, S. babcocki
sharpchin, S. zacentrus | rougheye, S. aleutianus
shortraker, S. borealis | sharpchin, S. zacentrus
splitnose, S. diploproa | shortraker, S. borealis
yellowmouth, S. reedi | yellowmouth, S. reedi

B. Limited Entry Fishery

(1) General. Most species taken in limited entry fisheries will be managed with cumulative trip limits (see paragraph IV.A.(1)(d)), size limits (see paragraph IV.A.(6)), seasons (see paragraph IV.A.(7)), and areas that are closed to specific gear types. The trawl fishery has gear requirements and trip limits that differ by the type of trawl gear on board (see paragraph IV.A.(14)). Cowcod retention is prohibited in all fisheries and groundfish vessels operating south of Point Conception, CA must adhere to CCA restrictions (see paragraph IV.A.(17)(b)). Yelloweye rockfish and canary rockfish retention is prohibited in the limited entry fixed gear fisheries. Most of the management measures for the limited entry fishery are listed above and in the following tables: Table 3 (North), Table 3 (South), Table 4 (North), and Table 4 (South).

A header in Table 3 (North), Table 3 (South), Table 4 (North) and Table 4 (South) generally describes the Rockfish Conservation Area (RCA) (i.e., closed area) for vessels participating in the limited entry fishery. The RCA boundaries are defined by latitude and longitude coordinates (see paragraph IV.A.(17)), except that under state law fishing is prohibited by limited entry fixed gear vessels from the shoreline to a 10-fm (18-m) depth contour around the Farallon Islands. For a definition of the Farallon Islands, see paragraph IV.A.(17)(f).

Management measures may be changed during the year by announcement in the Federal Register. However, the management regimes for several fisheries (nontrawl sablefish, Pacific whiting, and black rockfish) do not neatly fit into these tables and are addressed immediately following Table 3 (North), Table 3 (South), Table 4 (North), and Table 4 (South).

Federal commercial groundfish regulations are not intended to supersede any more restrictive state commercial groundfish regulations relating to federally-managed groundfish.

BILLING CODE 3510-22-P

BILLING CODE 3510-22-C

(2) Sablefish. The limited entry sablefish allocation is further allocated 58 percent to trawl gear and 42 percent to nontrawl gear. See footnote e/ of Table 1a.

(a) Trawl trip limits. Management measures for the limited entry trawl fishery for sablefish are listed in Table 3 (North) and Table 3 (South).

(b) Nontrawl (fixed gear) trip limits. To take, retain, possess, or land sablefish during the primary season for the limited entry fixed gear sablefish fishery, the owner of a vessel must hold a limited entry permit for that vessel, affixed with both a gear endorsement for longline or trap (or pot) gear, and a sablefish endorsement (see 50 CFR 660.323(a)(2)(i)). A sablefish endorsement is not required to participate in the limited entry daily trip limit fishery.

(i) Primary season. The primary season begins at 12 noon l.t. on April 1, 2004, and ends at 12 noon l.t. on October 31, 2004. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2004, the following limits are in effect: Tier 1, 62,000 lb (28,123 kg); Tier 2, 28,000 lb (12,701 kg); Tier 3, 16,000 lb (7,257 kg). [Note: These tier limits are likely to change as new observer data are released in the spring of 2004. Limits will be finalized before the start of the primary season.] All limits are in round weight. If a vessel is registered for use with a sablefish-endorsed limited entry permit, all sablefish taken after April 1, 2004, count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel's primary season sablefish limit(s) have been taken or after October 31, 2004, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel's subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of [[commercial OY to be announced before the start of the primary season]] in 2004 (see 50 CFR 660.323(a)(4)), are as follows:

(i) Catcher/processor sector—TBA (24 percent);

(ii) Mothership sector—TBA (34 percent);

(iii) Shore-based sector—TBA (42 percent). No more than 5 percent (TBA) of the shore-based whiting allocation may be taken before the shore-based fishery begins north of 42° N. lat. on June 15, 2003.

(iv) Tribal allocation—See paragraph V.

(b) Seasons. After the start of a primary season for a sector of the whiting fishery, the season remains open for that sector until the quota is taken and the fishery season for that sector is closed by NMFS. The 2004 primary seasons for the whiting fishery start on the same dates as in 2003, as follows (see 50 CFR 660.323(a)(3)):

(i) Catcher/processor sector—May 15;

(ii) Mothership sector—May 15;

(iii) Shore-based sector—June 15 north of 42° N. lat.; April 1 between 42°-40°30′ N. lat.; April 15 south of 40°30' N. lat.

(c) Trip limits.

(i) Before and after the regular (primary) season. The “per trip” limit for whiting before and after the regular (primary) season for the shore-based sector is announced in Table 3 (North) and Table 3 (South), as authorized at 50 CFR 660.323(a)(3) and (a)(4). This trip limit includes any whiting caught shoreward of 100 fathoms (183 m) in the Eureka, CA area. The “per trip” limit for other groundfish species before, during and after the regular (primary) season are announced in Table 3 (North) and Table 3 (South) and apply as follows:

(A) Before the primary whiting season, vessels may use either small and/or large footrope gear during a cumulative limit period, but are subject to the more restrictive trip limits for the entire cumulative period.

(B) Once the primary whiting season begins for a sector of the fishery, then the midwater trip limits apply and are additive to the trip limits for other groundfish species for that fishing period (i.e., vessels are not constrained by the lower midwater limits and can harvest up to the footrope-specific trawl limits plus the midwater trawl limits for that cumulative limit period).

(C) Following the primary whiting season, vessels can access either the small and/or large footrope limits, but any landings of other groundfish species made during the primary whiting season count against the cumulative limits for that period.

(ii) Inside the Eureka, CA 100-fm (183-m) contour. No more than 10,000 lb (4,536 kg) of whiting may be taken and retained, possessed, or landed by a vessel that, at any time during a fishing trip, fished in the fishery management area shoreward of the 100 fathom (183 m) contour (as shown on NOAA Charts 18580, 18600, and 18620) in the Eureka, CA area.

(4) Black rockfish. The regulations at 50 CFR 660.323(a)(1) state: “The trip limit for black rockfish (Sebastes melanops) for commercial fishing vessels using hook-and-line gear between the U.S.-Canada border and Cape Alava, WA (48°09′30″ N. lat.) and between Destruction Island (47°40′00″ N. lat.) and Leadbetter Point, WA (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of section IV. The crossover provisions at paragraphs IV.A.(12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: Pink shrimp or prawns, and, south of Pt. Arena, CA (38°57′30″ N. lat.), CA halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception, CA must adhere to CCA restrictions (see paragraph IV.A.(17)(b)). Retention of yelloweye rockfish and canary rockfish is prohibited in all open access fisheries. The trip limits, size limits, seasons, and other management measures for open access groundfish gear, including exempted trawl gear, are listed in Table 5 (North) and Table 5 (South).

A header in Table 5 (North) and Table 5 (South) approximates the RCA (i.e., closed area) for vessels participating in the open access fishery. The RCA boundaries are defined by latitude and longitude coordinates (see paragraph IV.A.(17)), except that under state law fishing is prohibited by open access fixed gear vessels from the shoreline to a 10-fm (18-m) depth contour around the Farallon Islands. For a definition of the Farallon Islands, see paragraph IV.A.(17)(f). For the exempted trawl gear fisheries, exempted trawl gear RCAs, if applicable, are detailed in the exempted trawl gear sections at the bottom of Table 5 (North) and Table 5 (South). Retention of groundfish caught by exempted trawl gear is prohibited in the designated RCAs, except that pink shrimp trawl may retain groundfish caught both inside and outside the exempted trawl RCA subject to the limits in Table 5 (North) and Table 5 (South). Retention of groundfish caught by salmon troll gear is prohibited in the designated RCAs, except that salmon trollers may retain yellowtail rockfish caught both inside and outside the non-trawl RCA subject to the limits in Table 5 (North). The trip limit at 50 CFR 660.323(a)(1) for black rockfish caught with hook-and-line gear also applies. (The black rockfish limit is repeated at paragraph IV.B.(4).)

Federal commercial groundfish regulations are not intended to supersede any more restrictive state commercial groundfish regulations relating to federally-managed groundfish.

BILLING CODE 3510-22-P

BILLING CODE 3510-22-C

(2) Groundfish taken with exempted trawl gear by vessels engaged in fishing for ridgeback prawns, California halibut, or sea cucumbers. Trip limits for groundfish retained in the ridgeback prawn, California halibut, or sea cucumber fisheries are in Table 5 (South). The table also generally describes the RCAs for vessels participating in these fisheries.

(a) Participation in the California halibut fishery. A trawl vessel will be considered participating in the California halibut fishery if:

(i) It is not fishing under a valid limited entry permit issued under 50 CFR 660.333 for trawl gear;

(ii) All fishing on the trip takes place south of Pt. Arena, CA (38°57′30″ N. lat.); and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means the shortest distance between the tip of the jaw or snout, whichever extends farthest while the mouth is closed, and the tip of the longest lobe of the tail, measured while the halibut is lying flat in natural repose, without resort to any force other than the swinging or fanning of the tail.”

(b) Participation in the sea cucumber fishery. A trawl vessel will be considered to be participating in the sea cucumber fishery if:

(i) It is not fishing under a valid limited entry permit issued under 50 CFR 660.333 for trawl gear;

(ii) All fishing on the trip takes place south of Pt. Arena, CA (38°57′30″ N. lat.); and

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section IV.A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive state recreational groundfish regulations relating to federally-managed groundfish.

(1) Washington. For each person engaged in recreational fishing in the EEZ seaward of Washington, the groundfish bag limit is 15 groundfish, including rockfish and lingcod, and is open year-round (except for lingcod). The following sublimits and closed areas apply:

(a) Closed Areas.

(i) Yelloweye Rockfish Conservation Area. The Yelloweye Rockfish Conservation Area, or YRCA, is a “C-shaped” area which is closed to recreational groundfish and halibut fishing. The YRCA is defined by latitude and longitude coordinates specified at 50 CFR 660.304(d).

(ii) Recreational Rockfish Conservation Area. The recreational Rockfish Conservation Area, or recreational RCA, is an area which may be closed to recreational groundfish fishing inseason. If recreational fishing for all groundfish is prohibited seaward of a boundary line approximating the 30-fm (55-m) depth contour, a notice will be published in the Federal Register inseason. Coordinates for the boundary line approximating the 30-fm (55-m) depth contour are listed in section IV.A.(17)(f).

(b) Rockfish. In areas of the EEZ seaward of Washington that are open to recreational groundfish fishing, there is a 10 rockfish per day bag limit. Taking and retaining canary rockfish and yelloweye rockfish is prohibited.

(c) Lingcod. Recreational fishing for lingcod is closed between January 1 and March 12, and between October 17 and December 31. In areas of the EEZ seaward of Washington that are open to recreational groundfish fishing and when the recreational season for lingcod is open (i.e., between March 13-October 16), there is a bag limit of 2 lingcod per day, which may be no smaller than 24 in (61 cm) total length.

(2) Oregon.

(a) Seasons, closed areas. Recreational fishing for groundfish is open from January 1 through December 31 in all areas, except that from June 1 through September 30, recreational fishing for groundfish is prohibited seaward of a recreational RCA boundary line approximating the 40-fm (73-m) depth contour, subject to the provisions in paragraph IV.D.(2)(b). Coordinates for the boundary line approximating the 40-fm (73-m) depth contour are listed in section IV.A.(17)(f). Recreational fishing for all groundfish may be prohibited inseason seaward of a boundary line approximating the 30-fm (55-m) depth contour. If a boundary line approximating the 30-fm (55-m) depth contour is implemented inseason, a document will be published in the Federal Register. Coordinates for the boundary line approximating the 30-fm (55-m) depth contour are listed in section IV.A.(17)(f).

(b) Bag limits, size limits. The bag limits for each person engaged in recreational fishing in the EEZ seaward of Oregon are 2 lingcod per day, which may be no smaller than 24 in (61 cm) total length; and 10 marine fish per day, which excludes salmon, tuna, perch species, sturgeon, sanddabs, lingcod, striped bass and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited. During the all-depth recreational fisheries for Pacific halibut, vessels with halibut on board may not take and retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod, yelloweye rockfish and canary rockfish is prohibited in the recreational fishery seaward of California all year in all areas.

(a) North of 40°10′ N. lat. For each person engaged in recreational fishing in the EEZ seaward of California north of 40°10′ N. lat. to the California/Oregon border, the following seasons, bag limits, and size limits apply:

(i) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., in times and areas when the recreational season for the RCG Complex is open, there is a limit of 2-hooks and one line when fishing for rockfish, and the bag limit is 10 rockfish per day, of which no more than 2 may be bocaccio. The following daily bag limits also apply: No more than 10 cabezon per day and no more than 10 kelp greenling and 10 rock greenling per day. Multi-day limits are authorized by a valid permit issued by California and must not exceed the daily limit multiplied by the number of days in the fishing trip.

(C) Size limits. The following size limits apply: Bocaccio may be no smaller than 10 in (25 cm) total length; cabezon may be no smaller than 15 in (38 cm) total length; and kelp and rock greenling may be no smaller than 12 in (30 cm) total length.

(D) Dressing/Filleting. Cabezon, kelp greenling, and rock greenling taken in the recreational fishery may not be filleted at sea. Rockfish skin may not be removed when filleting or otherwise dressing rockfish taken in the recreational fishery. The following rockfish filet size limits apply: Bocaccio filets may be no smaller than 5 in (12.8 cm) and brown-skinned rockfish fillets may be no smaller than 6.5 in (16.6 cm). “Brown-skinned” rockfish include the following species: Brown, calico, copper, gopher, kelp, olive, speckled, squarespot, and yellowtail.

(ii) Lingcod.

(A) Seasons. North of 40°10′ N. lat., recreational fishing for lingcod is open from January 1 through December 31.

(B) Bag limits, boat limits, hook limits. North of 40°10′ N. lat., in times and areas when the recreational season for lingcod is open, there is a limit of 2-hooks and one line when fishing for lingcod, and the bag limit is 2 lingcod per day. Multi-day limits are authorized by a valid permit issued by California and must not exceed the daily limit multiplied by the number of days in the fishing trip.

(C) Size limits. Lingcod may be no smaller than 24 in (61 cm) total length.

(D) Dressing/Filleting. Lingcod filets may be no smaller than 16 in. (41 cm) in length.

(b) South of 40°10′ N. lat. For each person engaged in recreational fishing seaward of California south of 40°10′ N. lat., the following seasons, bag limits, size limits and closed areas apply:

(i) Closed Areas.

(A) Cowcod Conservation Areas. Coordinates defining the boundaries of the CCAs are described in Federal regulations at 50 CFR 660.304(c). Recreational fishing for all groundfish is prohibited within the CCAs, except that fishing for sanddabs is permitted subject to the provisions in paragraph IV.D.(3)((b)(v) and that fishing for species managed under this section (not including cowcod, canary, and yelloweye rockfish) are permitted in waters shoreward of the 20-fm (37-m) depth contour within the CCAs from March 1 through December 31, subject to the bag limits in this section.

(B) Recreational Rockfish Conservation Areas. The recreational RCAs, are areas that are closed to recreational fishing for groundfish.

(1) Between 40°10′ N. lat. and 34°27′ N. lat., recreational fishing for all groundfish, except sanddabs, is prohibited seaward of a boundary line approximating the 30-fm (55-m) depth contour along the mainland coast and along islands and offshore seamounts during January 1 through February 29 and September 30 through December 31; is prohibited seaward of the 20-fm (37-m) depth contour during May 1 through August 31; and is closed entirely during March 1 through April 30 (i.e., prohibited seaward of the shoreline). Coordinates for the boundary line approximating the 30-fm (55-m) depth contour are listed in section IV.A.(17)(f). Under state law, recreational fishing for all groundfish, including sanddabs, is prohibited between the shoreline and the 10-fm (18-m) depth contour around the Farallon Islands. For a definition of the Farallon Islands, see paragraph IV.A.(17)(f).

(2) South of 34°27′ N. lat., recreational fishing for all groundfish, except sanddabs, is prohibited seaward of a boundary line approximating the 60-fm (110-m) depth contour along the mainland coast and along islands and offshore seamounts during March 1 through December 31 and is closed entirely during January 1 through February 29 (i.e., prohibited seaward of the shoreline), except in the CCA where fishing is prohibited seaward of the 20-fm (37-m) depth contour in paragraph (A) of this section. Coordinates for the boundary line approximating the 60-fm (110-m) depth contour are listed in section IV.A.(17)(f).

(ii) RCG Complex. The California rockfish, cabezon, greenling complex (RCG Complex), as defined in state regulations (Section 1.91, Title 14, California Code of Regulations), includes all rockfish, kelp greenling, rock greenling, and cabezon. This category does not include California scorpionfish, also known as “sculpin.”

(A) Seasons. Between 40°10′ N. lat. and 34°27′ N. lat., recreational fishing for the RCG Complex is open from January 1 through February 29 and from May 1 through December 31 (i.e., it's closed from March 1 through April 30). South of 34°27′ N. lat., recreational fishing for the RCG Complex is open from March 1 through December 31 (i.e., it's closed from January 1 through February 29). When recreational fishing for the RCG Complex is open, it is permitted only shoreward of the recreational RCA, as described in paragraph IV.D.(3)(b)(i)(B) above.

(B) Bag limits, boat limits, hook limits. South of 40°10′ N. lat., in times and areas when the recreational season for the RCG Complex is open, there is a limit of 2-hooks and one line when fishing for rockfish, and the bag limit is 10 RCG Complex fish per day (not including canary rockfish, yelloweye rockfish and cowcod, which are prohibited), of which up to 10 may be rockfish, no more than 1 of which may be bocaccio and no more than 2 of which may be shallow nearshore rockfish. [Note: The shallow nearshore rockfish group off California are composed of kelp, grass, black-and-yellow, China, and gopher rockfishes.] Also within the 10 RCG Complex fish per day limit, no more than 2 fish per day may be greenling (kelp and/or other greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(C) Size limits. The following size limits apply: Bocaccio may be no smaller than 10 in (25 cm) total length, cabezon may be no smaller than 15 in (38 cm), and kelp and other greenlings may be no smaller than 12 in (30 cm).

(D) Dressing/Filleting. Cabezon, kelp greenling, and rock greenling taken in the recreational fishery may not be filleted at sea. Rockfish skin may not be removed when filleting or otherwise dressing rockfish taken in the recreational fishery. The following rockfish filet size limits apply: Bocaccio filets may be no smaller than 5 in (12.8 cm) and brown-skinned rockfish filets may be no smaller than 6.5 in (16.6 cm). “Brown-skinned” rockfish include the following species: Brown, calico, copper, gopher, kelp, olive, speckled, squarespot, and yellowtail.

(iii) California scorpionfish. California scorpionfish only occur south of 40°10′ N. lat.

(A) Seasons. Between 40°10′ N. lat. and 34°27′ N. lat., recreational fishing for California scorpionfish is open from January 1 through February 29 and from May 1 through December 31 (i.e., it's closed from March 1 through April 30). South of 34°27′ N. lat., recreational fishing for California scorpionfish is open from March 1 through April 31 and from November 1 through December 31 (i.e., it's closed from January 1 through February 29 and from May 1 through October 31). When recreational fishing for California scorpionfish is open, it is permitted only shoreward of the recreational RCA, as described in paragraph IV.D.(3)(b)(i)(B) above.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Filleting. California scorpionfish fillets may be no smaller than 5 in (12.8 cm).

(iv) Lingcod.

(A) Seasons. Between 40°10′ N. lat. and 34°27′ N. lat., recreational fishing for lingcod is open from January 1 through February 29 and from May 1 through December 31 (i.e., it's closed from March 1 through April 30). South of 34°27′ N. lat., recreational fishing for lingcod is open from March 1 through December 31 (i.e., it's closed from January 1 through February 29). When recreational fishing for lingcod is open, it is permitted only shoreward of the recreational RCA, as described in paragraph IV.D.(3)(b)(i)(B) above.

(B) Bag limits, boat limits, hook limits. South of 40°10′ N. lat., in times and areas when the recreational season for lingcod is open, there is a limit of 2-hooks and one line when fishing for lingcod, and the bag limit is 2 lingcod per day. Lingcod do not count against the 10 RCG Complex fish per day limit. Multi-day limits are authorized by a valid permit issued by California and must not exceed the daily limit multiplied by the number of days in the fishing trip.

(C) Size limits. Lingcod may be no smaller than 24 in (61 cm) total length.

(D) Dressing/Filleting. Lingcod fillets may be no smaller than 16 in (41 cm) in length.

(v) Sanddabs. South of 40°10′ N. lat., recreational fishing for sanddabs is permitted both shoreward of and within the closed areas, except that under state law recreational fishing for sanddabs is prohibited between the shoreline and 10-fm (18-m) depth contour around the Farallon Islands, as described in section IV.D.(3)(b)(i) above. Recreational fishing for sanddabs is permitted within the closed areas, subject to a limit of up to 12-hooks, “Number 2” or smaller, which measure 11 mm (0.44 inches) point to shank, and up to 2 lb (0.91 kg) of weight per line. There is no bag limit, season, or size limit for sanddabs, however, it is prohibited to fillet sanddabs at sea.

V. Washington Coastal Tribal Fisheries

The legal basis for and background information on groundfish allocations harvest by the four Washington Coastal Tribes (Makah, Quileute, Hoh, and Quinault) with treaty rights to groundfish is described in the proposed rule to implement the 2004 groundfish specifications and management measures in the Proposed Rules section of this issue of the Federal Register.

The AA announces the following tribal allocations for 2004, including those that are the same as in 2003. Trip limits for certain species were recommended by the tribes and the Council and are specified here with the tribal allocations.

A. Sablefish

The tribal allocation is 728.5 mt, 10 percent of the total catch OY, less 3 percent estimated discard mortality.

B. Rockfish

(1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 150,000 lb (13,608 kg) per 2-month period for the entire fleet. Landings of widow rockfish must not exceed 10 percent of the weight of yellowtail rockfish landed in any 2-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

C. Lingcod

Lingcod are subject to a 450 lb (204 kg) daily trip limit and a 1,350 lb (612 kg) weekly limit.

D. Flatfish and Other Fish

Treaty fishing vessels using bottom trawl gear will be subject to the limits applicable to the non-tribal limited entry trawl fishery for Pacific cod, English sole, rex sole, arrowtooth flounder, and other flatfish. Treaty fishing vessels are restricted to a 30,000-lb (13,608-kg) per 2 month limit for petrale sole for the entire year.

E. Pacific Whiting

Whiting allocations will be announced when the final OY is announced.

Classification

These final management measures for January 1 through February 29, 2004 are issued under the authority of, and are in accordance with, the Magnuson-Stevens Act and 50 CFR parts 600 and 660 subpart G (the regulations implementing the FMP).

The AA finds good cause to waive the requirement to provide prior notice and opportunity for public comment on this action pursuant to 5 U.S.C. 553(b)(B), because providing prior notice and opportunity for public comment would be impracticable and contrary to the public interest.

The January-February 2004 management measures protect overfished and other depressed stocks while also allowing as much harvest of healthy stocks as possible. If these measures are not effective on January 1, 2004, the management measures for January and February 2003 will remain in effect. Because the 2003 measures will likely provide inadequate protection for certain overfished species in 2004, delay in implementation of the 2004 regulatory measures would likely cause harm to some stocks while requiring unnecessary restrictive measures for others. Much of the data necessary for these specifications and management measures came from the 2003 fishing year and new stock assessments were not available until June, providing the Council with a scientific basis for its draft recommendations for 2004 specifications and management measures. The Council made its final recommendations on 2004 specifications and management measures at its September 8-12, 2003 meeting in Seattle, WA. There was not adequate time between the finalized Council specifications and management measures and January 1, 2004 to complete drafting and reviewing both the EIS for the 2004 specifications and management measures and the regulatory package for this action to allow for prior notice and opportunity for public comment on the entire 2004 management package. Because of the timing of the receipt, development, review, and analysis of the fishery information necessary for setting the initial specifications and management measures, it is impracticable to publish these measures in the Federal Register and to take public comment on the measures prior to January 1, 2004. It would be impracticable because, as explained above, providing prior notice would delay the effective date of these measures and the January-February 2003 measures would remain in place. The 2003 measures are not tailored to the 2004 harvest levels and, for some species, are not conservative enough to meet the Council's rebuilding goals for 2004. Leaving the 2003 measures in place for 2004 could cause harm to some stocks.

Providing prior notice and opportunity for public comment on the 2004 specifications and management measures is contrary to the public interest because it would likely result in restrictive 2004 conservation and management measures. As a result, NMFS would have to implement even more restrictive measures for 2004 to account for any overharvesting that occurred in the fishery as operating under 2003 specifications and management measures. More restrictive measures might include premature fishery closures, and this could result in economic harm to fishermen and fishing communities.

For the reasons above, the AA also finds good cause under 5 U.S.C. 553(d) to waive the requirement to delay for 30 days the effective date of the rule.

Because this emergency rule is being published without an opportunity for prior notice and opportunity for public comment, the analytical requirements of the Regulatory Flexibility Act do not apply. However, as described above, the January-February 2004 management measures are based on the overall analysis underlying the 2004 specifications and March-December 2004 management measures which are proposed in the Proposed Rules section of this issue of the Federal Register. The Council's IRFA analysis prepared for the 2004 specifications and management measures considers the effects of the January and February management measures on the fisheries.

This action has been determined to be not significant for purposes of Executive Order 12866.

Pursuant to Executive Order 13175, this emergency rule was developed after meaningful consultation and collaboration with tribal officials from the area covered by the FMP. Under the Magnuson-Stevens Act at 16 U.S.C. 1852(b)(5), one of the voting members of the Council must be a representative of an Indian tribe with federally recognized fishing rights from the area of the Council's jurisdiction. In addition, regulations implementing the FMP establish a procedure by which the tribes with treaty fishing rights in the area covered by the FMP request new allocation or regulations specific to the tribes, in writing, before the first of the two annual groundfish meetings of the Council. The regulation at 50 CFR 660.324(d) further states “the Secretary will develop tribal allocations and regulations under this paragraph in consultation with the affected tribe(s) and, insofar as possible, with tribal consensus.” The tribal management measures in this emergency rule have been developed following these procedures. The tribal representative on the Council made a motion to adopt the tribal management measures, which was passed by the Council, and those management measures, which were developed and proposed by the tribes, are included in this emergency rule.

List of Subjects in 50 CFR Part 660

Administrative practice and procedure, American Samoa, Fisheries, Fishing, Guam, Hawaiian Natives, Indians, Northern Mariana Islands, Reporting and recordkeeping requirements.

Dated: December 18, 2003.
Rebecca Lent,
Deputy Assistant Administrator for Regulatory Programs, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.302, the definition “Exempted gear” is revised and the definition for “North-South management area” is added in alphabetical order to read as follows:

§ 660.302 Definitions.

* * * * *

Exempted gear means all types of fishing gear except longline, trap (or pot), and groundfish trawl gear. Exempted gear includes trawl gear used to take pink shrimp, ridgeback prawns, California halibut south of Pt. Arena, CA, and sea cucumber south of Pt. Arena, under the authority of a State of California limited entry permit for the sea cucumber fishery.

* * * * *

North-South management area means the management areas defined at § 660.304(a) or defined and bounded by one or more of the commonly used geographic coordinates at § 660.304(b) for the purposes of implementing different management measures in separate sections of the U.S. West Coast.

* * * * *

3. In § 660.303, paragraphs (d)(1) and (d)(5)(i)(D) are revised to read as follows:

§ 660.303 Reporting and recordkeeping.

* * * * *

(d) * * *

(1) Declaration reports for trawl vessels intending to fish in a conservation area. The operator of any vessel registered to a limited entry permit with a trawl endorsement; any vessel using trawl gear, including exempted gear used to take pink shrimp, ridgeback prawns, California halibut and sea cucumber; or any tribal vessel using trawl gear must provide NMFS with a declaration report, as specified at paragraph (d)(5) of this section, to identify the intent to fish within the CCA, as defined at § 660.304, or any non-trawl RCA, as defined in the groundfish annual or biennial management measures that are published in the Federal Register.

* * * * *

(5) * * *

(i) * * *

(D) Trawl gear including exempted gear used to take pink shrimp, ridgeback prawns, California halibut south of Pt. Arena, CA, and sea cucumber.

* * * * *

4. In § 660.304, paragraph (b) is revised to read as follows:

§ 660.304 Management areas, including conservation areas, and commonly used geographic coordinates.

* * * * *

(b) Commonly used geographic coordinates. (1) Washington/ Oregon border—46°16′ N. lat.

(2) Cape Falcon, OR—45°46′ N. lat.

(3) Cape Lookout, OR—45°20′15″ N. lat.

(4) Cape Blanco, OR—42°50′ N. lat.

(5) Oregon/California border—42°00′ N. lat.

(6) Cape Mendocino, CA—40°30′ N. lat.

(7) North/South management line—40°10′ N. lat.

(8) Point Arena, CA—38°57′30″ N. lat.

(9) Point San Pedro, CA—37°35′40″ N. lat.

(10) Point Lopez, CA—36°00′ N. lat.

(11) Point Conception, CA—34°27′ N. lat.

* * * * *

5. In § 660.306, paragraph (b) is revised and paragraphs (aa) and (bb), added at 68 FR 62383, November 4, 2003, are revised to read as follows:

§ 660.306 Prohibitions.

* * * * *

(b) Retain any prohibited species (defined in § 660.302 and restricted in § 660.323(c)) caught by means of fishing gear authorized under this subpart or unless authorized by part 600 of this chapter. Prohibited species must be returned to the sea as soon as practicable with a minimum of injury when caught and brought on board.

* * * * *

(aa) Fishing in conservation areas. Fish with any trawl gear, including exempted gear used to take pink shrimp, ridgeback prawns, California halibut south of Pt. Arena, CA, and sea cucumber; or with trawl gear from a tribal vessel or with any gear from a vessel registered to a groundfish limited entry permit in a conservation area unless the vessel owner or operator has a valid declaration confirmation code or receipt for fishing in conservation area as specified at 660.303(d)(5).

(bb) Operate any vessel registered to a limited entry permit with a trawl endorsement in a Trawl Rockfish Conservation Area (as defined at 660.302), except for purposes of continuous transiting, with all groundfish trawl gear stowed in accordance with 660.322(b)(8), or except as authorized in the annual or biennial groundfish management measures published in the Federal Register.

* * * * *

6. In § 660.323, the introductory text to paragraph (c) is revised to read as follows:

§ 660.323 Catch restrictions.

* * * * *

(c) Prohibited species. Groundfish species or species groups under the PCGFMP for which quotas have been achieved and/or the fishery closed are prohibited species. In addition, the following are prohibited species: * * *

* * * * *

[FR Doc. 03-31619 Filed 12-31-03; 10:14 am]

BILLING CODE 3510-22-P